DEPARTMENT OF COMMERCE

National Oceanic and Atmospheric Administration

50 CFR Part 660

[Docket No. 100804324-1265-02]

RIN 0648-BA01

Magnuson-Stevens Act Provisions; Fisheries Off West Coast States; Pacific Coast Groundfish Fishery; Biennial Specifications and Management Measures

AGENCY: National Marine Fisheries Service (NMFS), National Oceanic and Atmospheric Administration (NOAA), Commerce.

ACTION: Final rule.

SUMMARY: This final rule establishes the 2011-2012 harvest specifications for most of the species in the groundfish fishery and management measures for that fishery off the coasts of Washington, Oregon, and California consistent with the Magnuson-Stevens Fishery Conservation and Management Act (MSA) and the Pacific Coast Groundfish Fishery Management Plan (PCGFMP). This rule also establishes, under emergency authority in section 305 of the Magnuson-Stevens Act (MSA), harvest specifications for eight overfished species, and for flatfish.

Emergency authority is being invoked to implement measures that were included in Amendment 16-5 to the PCGFMP, which NMFS disapproved in December 2010. These include a new rebuilding plan for petrale sole, revised rebuilding plans for the remaining seven overfished species, and revised status determination criteria and precautionary harvest control rule for flatfish.

DATES: This rule is effective May 11, 2011. Comments must be received no later than June 10, 2011.

ADDRESSES: Copies of this rule, the Record of Decision (ROD) and Regulatory Impact Review (RIR)/Final Regulatory Flexibility Analysis (FRFA) are available from William Stelle, Regional Administrator, Northwest Region, NMFS, 7600 Sand Point Way NE., Seattle, WA 98115-0070. Electronic copies of this final rule are also available at the NMFS Northwest Region Web site: http://www.nwr.noaa.gov

You may submit comments, identified by 0648-BA01, by any one of the following methods:

• Electronic Submissions: Submit all electronic public comments via the Federal eRulemaking Portal http://www.regulations.gov.

• Fax: 206-526-6736, Attn: Sarah Williams.

• Mail: 7600 Sand Point Way NE., Seattle, WA, 98115.

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required fields, if you wish to remain anonymous). You may submit attachments to electronic comments in Microsoft Word, Excel, WordPerfect, or Adobe PDF file formats only.

FOR FURTHER INFORMATION CONTACT: Sarah Williams, 7600 Sand Point Way NE., Seattle, WA, 98115. By phone at 206-526-4646 or fax at 206-526-6736.

Electronic Access: This final rule is accessible via the Internet at the Office of the Federal Register's Web site at http://www.gpoaccess.gov/fr/index.html. Background information and documents are available at the Pacific Fishery Management Council's Web site at http://www.pcouncil.org/.

SUPPLEMENTARY INFORMATION:

Background

NMFS published a proposed rule to implement the 2011-2012 groundfish harvest specifications and management measures on November 3, 2010 (75 FR 67810). The proposed rule comment period was extended through January 4, 2011 (75 FR 75449, December 23, 2010) to provide additional opportunity for public comment given the delay in implementation. NMFS received 35 letters of comment, which are addressed later in the preamble of this final rule. See the preamble to the proposed rule for additional background information on the fishery and on this final rule.

The amount of each Pacific Coast groundfish species or species complex that is available for harvest in a specific year is referred to as a harvest specification. The PCGFMP requires the harvest specifications and management measures for groundfish to be set at least biennially. This final rule, which implements the NMFS preferred alternative described in the Final Environmental Impact Statement (FEIS), would set 2011-2012 and beyond harvest specifications and management measures for most of the groundfish species or species complexes managed under the PCGFMP. Specifications for the overfished species and flatfish are also included in this final rule but are adopted under the emergency authority described in section 305 of the MSA. The groundfish fishery regulations include a collection of management measures intended to keep the total catch of each groundfish species or species complex within the harvest specifications. The management measures would be revised by this action for 2011 and 2012.

The Notice of Availability for the FEIS for this action was published on March 11, 2011 (76 FR 13401). The final NMFS preferred alternative in the FEIS is a modified version of the Council's final preferred alternative (FPA) which was described in the proposed rule for this action. The NMFS preferred alternative differs from the Council's FPA and the specifications discussed in the proposed rule on this action with respect to the specifications for yelloweye rockfish and cowcod, and management measures relative to the Cowcod Conservation Area (CCA). These differences are discussed in detail in the Provisions Implemented Through Emergency Rule and Changes from the Proposed Rule sections of this rule.

Provisions Implemented Through Emergency Rule

Section 305(c) of the MSA provides the Secretary of Commerce the authority to promulgate emergency regulations that are treated as an amendment to an FMP for the period the regulations are in effect. The one new and seven revised rebuilding plans, revisions to flatfish proxies, ACLs for overfished species, and specifications for flatfish contained in this final rule are being adopted under emergency authority because these measures were part of, or are based on, Amendment 16-5 to the PCGFMP, which NMFS disapproved. This emergency action is necessary because NMFS is under court order to establish new specifications for overfished species by April 29, 2011, before the Council can submit and NMFS can implement a revised Amendment 16-5.

NMFS disapproved Amendment 16-5 because at the time of NMFS' approval decision, there was not an FEIS to support the decision. Review of actions under the Magnuson-Stevens Act (16 U.S.C. 1854(a)) requires that before approving an FMP or amendment, NMFS must review the FMP or amendment for consistency with the measures of the MSA itself as well as other applicable law. One of the primary tools that NMFS uses to accomplish this review is an adequate FEIS drafted consistent with the guidance contained within NAO 216-6 (Environmental Review Procedures For Implementing the National Environmental Policy Act). NMFS completed the FEIS and made it available for public review on March 11, 2011.

As is described in the proposed rule preamble, on April 29, 2010, the district court for the Northern District of California issued an order in NRDC v. Locke, Case 3:01-cv-00421-JLI, vacating the 2009-10 harvest levels for yelloweye rockfish, cowcod, and darkblotched rockfish on the basis that the harvest levels did not meet the MSA mandate to rebuild those stocks in as short a time as possible taking into account factors including the needs of fishing communities. The court upheld the integrated or holistic approach used to develop the harvest levels for all of the overfished species and to analyze their impacts on communities, which was first applied in Amendment 16-4.

The Council, continuing the integrated or holistic approach developed in Amendment 16-4 and upheld by the district court, developed suites of overfished species ACLs, with ACLs for most of the non-overfished species held constant between the alternatives. The impacts of these suites of ACLs are analyzed in the FEIS, rather than the impacts of individual species ACLs. The DEIS included three alternative suites with lower, intermediate and higher ACLs for the overfished species, as well as the Council FPA that included the higher ACLs for all of the overfished species except for darkblotched rockfish, for which the Council adopted the intermediate ACL.

In response to public comment regarding rebuilding plans for overfished species and to ensure consistency with the court's order in NRDC v. Locke, Case 3:01-cv-00421-JLI, NMFS included in the FEIS an additional alternative (identified as Alternative 4, the NMFS preferred alternative) that was not expressly considered in the DEIS. The NMFS preferred alternative includes the same ACLs as the Council's FPA, except those for yelloweye and cowcod. It does not include changes to the CCAs that were included in the Council's FPA. For cowcod and yelloweye, the NMFS preferred alternative implements ACLs based on Spawning Potential Ratio (SPR) harvest rates that are associated with shorter rebuilding periods than those in the Council FPA. Specifically, in the NMFS preferred alternative, the target rebuilding year and the SPR harvest rate for cowcod are 2068 and 82.7 percent, and the target rebuilding year and the SPR harvest rate for yelloweye rockfish are 2074 and 76.0 percent. NMFS determined that the ACL in the Council's and NMFS' preferred alternative for darkblotched rockfish meets the MSA standard and is consistent with the court's order. Although the harvest level for darkblotched is similar to the level vacated by the court in 2010, the new rebuilding plan is based on a new stock assessment, uses a more conservative SPR harvest rate (64.9 percent rather than 62.1 percent), and rebuilds three years faster than the prior rebuilding plan (2025 rather than 2028).

The NMFS preferred alternative would rebuild as quickly as possible while avoiding serious adverse impacts to communities, and thus meets the MSA standard. Maintaining the 2010 level of economic activity in the most vulnerable communities could be expected to provide the consistency necessary for stability in the fishing community infrastructure and be adequate to support the implementation of the trawl rationalization program. At the same time the strategy would shorten the rebuilding duration for five of the overfished species (bocaccio, cowcod, darkblotched rockfish, widow rockfish and yelloweye rockfish); and maintain the upward rebuilding trajectories for the two overfished species (canary rockfish and Pacific Ocean perch (POP)) where new stock assessments redefined the starting point from which rebuilding began. Unlike the Council's FPA, the NMFS preferred alternative does not implement proposed changes to the CCAs that would allow commercial fixed gear and recreational fishing in areas shoreward of 30 fathoms and would also allow retention of shelf rockfish in depths shallower than 30 fathoms. The impacts of the proposed changes on cowcod, particularly juveniles, are uncertain, and increased impacts on juveniles could potentially delay rebuilding. In addition, because the ACL for cowcod is so extremely low, any measures that potentially increase cowcod mortality require better information on potential biological and economic effects to support such a change. In sum, NMFS concluded that the NMFS preferred alternative is more consistent with direction provided by the court in NRDC v. Locke, Case 3:01-cv-00421-JLI, and is more consistent with the MSA obligations to rebuild overfished species in the shortest timeframe possible, taking into account the obligation to rebuild, the needs of fishing communities, and the marine environment.

Comments and Responses

NMFS published a proposed rule on November 2, 2010 (75 FR 67810) with a comment period that closed on December 3, 2010. This comment period was extended to January 4, 2011 to allow more time for public comments. NMFS received 35 comments on the proposed rule. The Department of the Interior submitted a letter stating that they reviewed the proposed rule and had no comments. The Washington Department of Fish and Wildlife (WDFW), the Oregon Department of Fish and Wildlife (ODFW) and the California Department of Fish and Game (CDFG) all submitted letters in support of the Council's final action and suggested corrections to the proposed rule. 13 letters were submitted from fishing industry members in support of the Council's recommended changes to the depth restrictions in the CCA and the slope rockfish retention changes. One comment was submitted regarding a request for a processing at sea exemption. NMFS also received a number of comments from the public regarding the impacts from the overfished species specifications. The Council submitted a letter stating that the Exempted Fishing Permit that was issued in August of 2010 would actually be conducted in 2011. Oceana and the Natural Resource Defense Council (NRDC) submitted a joint letter regarding the proposed rule and FMP Amendments 16-5 and 23. In their letter they criticized NMFS for setting harvest specifications that allegedly did not comply with the MSA mandate to rebuild overfished species in a period as short as possible. Additionally, they criticized the implementation of Amendment 23 stating that the best available science was not used and that NMFS was not precautionary enough in setting harvest specifications for a number of species and species complexes. Ocean Conservancy submitted a letter raising similar issues as the joint Oceana-NRDC letter. Substantive comments received on the proposed rule are addressed in the following section:

Amendment 23 Implementation (P*, ABCs, ACLs, etc) and Stock Complexes

Comment 1: The ABC control rule makes Scientific and Statistical Committee's (SSC) involvement functionally expendable because it contemplates presenting the Council with a range of potential scientific uncertainty reduction values, based on the SSC recommended “sigma” values and a range of probabilities of overfishing, from which the Council may choose. NMFS should adopt an ABC control rule that allows the SSC to recommend P* and sigma values along with a decision framework that allows changes to the recommended ABCs to be fully informed by analyses of resulting overfishing risks and environmental consequences.

Response: The ABC control rule selected by the Council is based on the recommendation of the SSC, and is consistent with the MSA and the NS1 (74 FR 3178, January 16, 2009). The SSC recommends the OFL and determines a sigma value representing scientific uncertainty with respect to stock assessments. Once it has determined those values, it can provide the Council with the reductions from OFL that would occur based on the sigma value in conjunction with a range of probabilities of overfishing. This approach conforms with NMFS's NS 1 guidelines. In response to comments on the guidelines, NMFS explains that determining the acceptable level of risk of overfishing that results from scientific uncertainty is a policy issue for the Council to decide. The SSC must recommend an ABC to the Council after the Council advises the SSC on the acceptable probability that a catch equal to the ABC would result in overfishing (January 16, 2009, 74 FR 3178, Response to Comment 42 at 3192). The SSC's role is to determine both the level of scientific uncertainty that exists and to incorporate the Council's policy decision as to acceptable levels of overfishing risk resulting from that uncertainty in developing an ABC. The SSC's recommendations regarding the OFL and sigma limit the range of ABC reductions possible under the available range of P* values consistent with the best scientific information regarding scientific uncertainty.

Comment 2: The proposed sigma values for category 1 stocks represent underestimated and/or inaccurate quantification of scientific uncertainty; they do not account for uncertainty arising from sources other than estimates of biomass in stock assessments, and they do not accurately account for uncertainty in estimates of biomass in stock assessments.

Response: While the proposed sigma value for data-rich stocks (category 1) does not include quantification of all known sources of scientific uncertainty, it is the best scientific information available at this time and the SSC will continue to refine this value in future biennial cycles. The SSC acknowledged that its recommended sigma value for data-rich species does not account for all sources of scientific uncertainty, but recommended this value as “the current best estimate of scientific uncertainty.” (Supplemental SSC Report, April 2010, Agenda I.2.b). The Supplemental SSC Report 1 included in the March 2010 briefing book, which is the Councils record for each meeting and contains reports from advisory bodies, state and Federal agencies and public comments, states that the SSC viewed quantifying the uncertainty surrounding stock size estimations as the highest priority, given the large variability in stock assessments. The SSC did not recommend quantifying other sources of uncertainty for the 2011-2012 specifications cycle, but noted that it intends to consider other types of errors for future biennial cycles, specifically forecast uncertainty and uncertainty in the optimal harvest rate. In short, the SSC's recommended sigma values are the best available scientific information at this time. In addition, with respect to longspine thornyhead and shortspine thornyhead, the ACLs for the area south of 40°10′ N.lat are reduced below the ABC to account for uncertainty associated with limited trawl surveys.

Comment 3: The proposed sigma values for category 2 and 3 stocks lack a technical basis and thus are arbitrary. The Council should have used the PSA analysis to generate an appropriate P*.

Response: The SSC noted that scientific uncertainty with respect to the biomass estimates for category 2 and 3 stocks cannot be precisely quantified due to the lack of available information about these stocks. The NS 1 guidelines recognize that precise quantification assessments are not available for all stocks, such as the category 2 and 3 stocks at issue here (See Response to Comment 36, 74 FR at 3190, January 16, 2009). With a P* approach for deciding the ABC for category 2 and 3 stocks, the SSC recommended setting the value of sigma (σ) for category 2 and 3 stocks to 0.72 and 1.44 respectively (i.e., two and four times the σ for category 1 stocks). The difference between buffers determined using sigma values of 0.72 and 1.44 corresponds fairly closely to the difference between the buffers previously used for category 2 and 3 stocks (25 percent versus 50 percent) when P* is in the range 0.3 ~ 0.35. Also, the SSC noted that results from decision tables for some category 2 stocks indicate values for sigma of approximately .72 (PFMC I.2.b, Supplemental SSC Report, April 2010). The specific sigma values of 0.72 and 1.44 were recommended by the SSC and are considered to be the best available scientific information; however, the values are not based on a formal analysis of assessment outcomes and could change substantially when the SSC reviews additional analyses in future management cycles. These sigma values represent the SSC's best estimate given the absence of a formal analysis of assessment outcomes on which to quantify scientific uncertainty as was done for category 1 stocks. The commenters specifically mention that the Council and NMFS should have used other methods for setting the sigma values for category 2 and 3 species, such as looking at the distributions of OFLs for each stock, or the results of the PSA analysis. However, neither of these methods was suggested by commenters until very late in the development of the 2011-2012 specifications nor recommended by the SSC for this specifications cycle.

Comment 4: The P* values used in the proposed rule are too high, and allow for too great a risk of overfishing due to an inaccurate estimate of the OFL, especially for overfished species. P* and resulting ABCs for category 2 and 3 stocks are not consistent with SSC recommendations.

Response: The NS1 guidelines provide the following standards for setting the ABC: (1) The ABC may not exceed the OFL, and (2) the probability that overfishing will occur cannot exceed 50 percent and should be a lower value. The Council chose a P* value of .45, or a 45 percent probability of overfishing, for data-rich species with data-rich assessments. For category 2 and 3 species, with data-poor or no assessments, the Council generally applied a P* value of .4, or a 40 percent probability of overfishing. The comment suggests that the 50 percent cap set by the NS1 guidelines is inadequate, and that the MSA requires a lower probability of overfishing. NMFS considered this issue in developing the NS 1 guidelines and ultimately determined that while neither the MSA nor the relevant case law requires the use of a specific probability, a 50 percent probability of success is a lower bound. NMFS acknowledges that some overfishing may occur even with ABCs that account for scientific uncertainty, however, it does not believe that the MSA requires a complete elimination of any probability of overfishing, as reflected in the guidelines (Response to Comment 63, 74 FR at 3195-96, January 16, 2009). The Council's choice of P* is consistent with the guidelines.

The commenters specifically point to the ABCs for overfished species, and contend that these are not consistent with rebuilding plans. However, ACLs for the overfished species are based on and consistent with the rebuilding plans, which are in turn based on the rebuilding analyses for these species. The process for developing the ACLs is described in the preamble to the proposed rule for this action (75 FR at 67827-29, January 16, 2009) and in the FEIS. Thus, the ACLs for the overfished species are in most cases set far below the ABCs derived following the ABC control rule set forth in Amendment 23.

For category 1 stocks, the scientific uncertainty reduction from OFL that results from a P* of .45 and a sigma of .36 is 4.4 percent. For healthy stocks, this reduction is more risk-averse than the approach of setting the OY equal to ABC that was used in previous biennial cycles. For species in the precautionary zone, application of the 40-10 or 25-5 harvest control rules results in an additional reduction between ABC and ACL.

The commenters also contend that the P* values the Council adopted for category 2 and 3 stocks are inconsistent with the SSC's recommendation, which the commenters characterize as requiring P* values that would result in reductions from OFL of approximately 25 percent and 50 percent. The Council adopted a general policy of using a P* of 0.4 for category 2 and 3 stocks. The Council discussed P* values for category 2 and 3 stocks of 0.35 and 0.32, respectively. In its report the SSC noted that these P* values, in combination with the sigma values described above, would have resulted in an approximately 24 percent reduction from OFL for category 2 stocks, and an approximately 51 percent reduction from OFL for category 3 stocks, approximating the 25 percent and 50 percent reductions from former ABC that the Council used prior to this specification cycle. However, the SSC did not make a recommendation regarding appropriate P* values but did endorse the Council's final ABC values. In discussing the issue of the buffer between OFL and ABC for category 2 and 3 stocks the Council noted that previously the buffer between former ABC and OY took into account many sources of uncertainty, including scientific uncertainty, but that under NS 1 the buffer between OFL and ABC is now specific to scientific uncertainty. There was therefore concern regarding “double counting” of uncertainty that might result from using status quo buffers to determine the ABC for category 2 and 3 species. For this reason, the Council concluded that it would be inappropriate to use these reductions to quantify scientific uncertainty in the reduction from the OFL to ABC. A review of the ACLs for category 2 and 3 stocks shows that for a number of stocks, the reductions from ABC to ACL address stock status, management uncertainty, and other factors. For example, the ACLs for longnose skate, starry flounder, the other fish complex and the other flatfish complex are all reduced below the ABC to account for management uncertainty. The ACL for sablefish is reduced below the ABC according to the 40-10 harvest control rule, as this species is in the precautionary zone. The southern ACLs for longspine thornyhead and shortspine thornyhead are reduced in order to account for uncertainty associated with trawl surveys in those areas. These reductions are all described in the FEIS and the proposed rule.

The commenters specifically discuss what they see as potential negative impacts from the ABCs for lingcod, sablefish and black rockfish. The FEIS considered the risk of overfishing to all species and no OFLs were projected to be exceeded under any of the alternatives. For lingcod, the ACL (2330 mt in 2011) was set equal to the ABC, however the projected catches are only 685 mt leaving a substantial buffer. Additionally, it is likely that the catches will come in under the ACL because of the limited shelf opportunities given the Rockfish Conservation Area (RCA) configurations implemented through this rule. For sablefish the estimated catch of 5407 mt is well below the ACL value of 6813 mt and the ABC of 8418 mt. Finally, for black rockfish the estimated catch of 905 mt is well below the ACL of 1426 mt and the coastwide ABC of 1589 mt to minimize the risk of overfishing.

For the minor rockfish complexes, a P* value of 0.45 was used in combination with the SSC-recommended sigma values to determine the ABCs for the component stocks. Historically, the OY for minor rockfish north has been shared between Oregon and California with no formal catch sharing agreements because the OY was generally high enough to prevent concerns over the allocation of catch between the states. A struggle for fish could result from 2011-2012 ACLs that are significantly lower than the 2010 OY for the minor nearshore rockfish north subcomplex. (PFMC Supplemental Groundfish Management Team (GMT) Report, I.2.b April 2010). Applying a P* of 0.45 to determine the ABC for this subcomplex results in an ABC lower than the 2010 OY, but higher than the other alternatives considered for determining the ABC. This option constitutes an interim approach to accounting for scientific uncertainty given the current organization of the complexes and the time needed to work out a sharing agreement between the states if necessary. Applying a P* of .45 for the minor rockfish complex components reflects the fact that in contrast to the Other Fish and Other Flatfish complexes, the component stocks in the minor rockfish complexes are not all category 3 stocks. In addition, it reflects the fact that the complexes are not ideally organized to account for scientific uncertainty, and represents a balance between the risk of overfishing due to scientific uncertainty and the risk of unnecessarily limiting fisheries in this biennium until a thorough analysis of the rockfish complexes can be completed.

Comment 5: ACLs should be reduced from ABCs to account for management uncertainty where there is not accurate data regarding true catch amounts and no modeling of management uncertainty. The ACL and ACT control rules should identify all sources of management uncertainty. It is not clear how management uncertainty is accounted for by the use of the ACTs for yelloweye rockfish and POP.

Response: The NS1 guidelines do not expressly contemplate a buffer between ABC and ACL as the primary means to address management uncertainty. An ACT may be established to account for management uncertainty in controlling the catch at or below the ACL, but ACTs are just one type of accountability measure that can address management uncertainty. NMFS specifically considered a system such as that described by the commenter that would require that ACL be set below the ABC to account for management uncertainty, but ultimately rejected it on the basis that it was Congressional intent that ACL should be considered a true limit, not a target catch level (Response to Comment 8, 74 FR at 3183, January 16, 2009). Instead, the guidelines require that, to prevent ACLs from being exceeded, Councils must address the management uncertainty in their fisheries using appropriate accountability measures, which could possibly include setting an ACT. While the Council in fact set the ACL below the ABC for a number of stocks (longnose skate, starry flounder, the other fish complex, the other flatfish complex), consistent with the guidelines, the Council's primary means for addressing management uncertainty is through accountability measures. Section 4.1 and tables 4-1 and 4-3 in the FEIS describe the actual impacts that are expected to the stocks in the fishery as a result of the management measures included in the integrated alternatives. For most of the non-overfished stocks, expected catch levels are far below the ACLs set for these stocks. Thus, the proposed management measures are expected to ensure that for the non-overfished stocks, actual catch levels will not approach the ACLs. For the overfished stocks, the ACLs are based on the rebuilding plans. Management measures have been specifically designed to keep the catch of these stocks below their ACLs.

The NS 1 guidelines make clear that the use of ACTs is optional, not required. The proposed guidelines did require ACTs as reference points, but the final action “retains the concept of an ACT and an ACT control rule, but does not require them to be included in FMPs.” The guidelines note that where fisheries lack inseason management controls to prevent ACLs from being exceeded, “AMs should utilize ACTs that are set below ACLs so that catches do not exceed the ACL.” (74 FR at 3178, January 16, 2009).

The Groundfish FMP provides for inseason management to prevent catch limit overages. The current system of inseason management in the groundfish fishery has resulted in very few catch limit overages in the last four years. Catch limit overages have occurred for canary rockfish (2001-2007), Dover sole (2006), POP (2007) and darkblotched rockfish(2000, 2001, and 2007) (PFMC, Agenda item G.5.a, attachment 1, November 2009).

Projecting canary rockfish impacts has been problematic, especially in the limited entry trawl sector. Under a rationalized fishery, there is individual accountability and real time reporting that is expected to substantially improve performance relative to the 2010 fishery (i.e., ability to stay within the ACL). For recreational fisheries, the Council recommended the use of HGs as an accountability measure to increase the probability that total catch will stay within the ACL. POP and Dover sole are trawl dominant and management performance is also expected to improve under a rationalized fishery structure. However, the nature of POP catch in the whiting fishery could result in high incidental catch events such as occurred in the Pacific whiting shoreside fishery in 2007. For development of the Council's FPA in the EIS, the Council recommended ACTs for POP and yelloweye rockfish for the FPA in order to increase the likelihood that catches will remain below the ACL. This final rule implements an ACT for POP, but not for yelloweye rockfish. This final rule implements an ACL for yelloweye that is 2.2 mt above the projected catch. The ACL value is based on the high end estimates of projected set aside amounts. Therefore, NMFS believes that the 2.2 mt difference between the ACL and the projected catch means that an ACT is not necessary for yelloweye. Further, with the implementation of the Trawl Rationalization program NMFS will have better inseason monitoring and will be able to track catches relative to set aside allocations and close fisheries or take other appropriate action if fisheries are projected to attain their allocations.

Comment 6: The use of stock complex ACLs must be consistent with new guidance outlined in the NS1 guidelines to ensure that stocks are sufficiently similar in geographic distribution, life history, and vulnerabilities to the fishery such that the impact of management actions on the stocks is similar. NMFS should either reorganize species complexes to include stocks with similar vulnerabilities to the fishery, or designate indicator species from among the most vulnerable species in each complex. In addition, species-specific ACLs should be set where possible.

Response: The Council recognized the need for reorganization of the four complexes described in the EIS to reflect the results of the vulnerability analysis conducted by the GMT. However, it was determined that this work could not be completed in time for the 2011-2012 specifications and management measures. The Council and NMFS anticipate the development of recommendations for reorganized stock complexes in time for the 2013-14 specifications.

As the commenters point out, the GMT analyzed the vulnerability of the stocks currently managed in complexes and determined that the existing complexes are comprised of stocks with a range of vulnerabilities. It was recognized that the existing complexes were created prior to the revised NS 1 and are not organized in the best possible manner for taking into account scientific uncertainty and the relevant management issues. For this reason, it has been noted by the GMT that the reorganization of stock complexes is an issue they will work on for the 2013-2014 biennial specifications and management measures cycle. The results of any analysis conducted could be presented to the Council for action. The analysis needed to support such reconsideration could not be completed in time for the current cycle.

The commenters state that until the complexes can be reorganized, indicator stocks should be designated to represent the more vulnerable stocks in the complexes. Typically indicator stocks would be used for an assemblage of similar species when most of the species do not have an assessment. This is not the case for 2011-2012 because the Council developed assessments for all species even if they were data-limited assessment for data poor stocks. The issue is not the absence of an estimate for safe levels of harvest, even if it is data poor, it is that by grouping the ACLs there is uncertainty that each individual species remains under its contributions to the group. Indicator stocks do not address this issue. Additionally, the premise behind using an indicator species is that it is representative of the group. Because the current stock complexes are not organized such that the species within each group are exposed to similar fishing pressure, it is unclear how an indicator species would be selected to represent the group. As previously stated, the analysis needed to support a reorganization of the current stock complexes or to define indicator stocks could not be completed for this biennial cycle, but will be addressed at a later date. NMFS agrees that stock complexes should be organized so they include similarly vulnerable species and that indictor stocks may be a useful tool to manage fisheries in a sustainable manner while preventing overfishing of the most vulnerable species.

To aid in the management of stock complexes, NMFS will be notifying the states of Washington, Oregon and California of the intent to propose revisions to the regulatory provisions at § 660.12 (8), § 660.130(d), § 660.230(c), and § 660.330(c) pertaining to the sorting and reporting of groundfish catch. NMFS believes that refining the sorting requirements for the rockfish complexes is necessary for catch accounting and management of the most vulnerable stocks within complexes. Because this provision would require state and Federal reporting systems to be modified including the data systems that house these data, such a change cannot happen for the 2011 fishing season.

During the process of developing the 2011-2012 ACLs, the Council considered removing several species from the minor rockfish complexes, but did not do so for this biennial cycle because changes necessary to manage these species individually under the trawl rationalization program could not be completed in time for this cycle.

Comment 7: The FPA lacks adequate buffers for the data-poor stock complexes. Specifically, the minor nearshore subcomplexes contain OFL/ABC buffers of roughly 14 percent and no buffer between ABC and ACL, even though these complexes contain highly vulnerable component species such as copper, China and quillback. The minor slope subcomplexes contain OFL/ABC buffers of roughly 9 percent, and ABC/ACL buffers of between 12-25 percent, even though these subcomplexes are composed of data-poor category 3 species and highly vulnerable rougheye and shortraker.

Response: It is unclear which kind of “buffers” the commenters see as inadequate and therefore it is difficult to respond to this comment. The ABCs for the species included in the complexes were recommended by the SSC and adopted by the Council as described above in response to Comment 4. The Council specifically accounted for management uncertainty in the ACLs for the Other Fish and Other Flatfish by adopting ACLs lower than the sum of the ABCs for the individual components of these complexes. The ACLs for the minor shelf and slope rockfish subcomplexes are also significantly lower than the ABCs for these subcomplexes (shelf north—50 percent lower, slope north—12 percent lower, shelf south—49 percent lower, slope south—25 percent lower). In addition, the projected catches of the complexes and subcomplexes, with the exception of the minor nearshore rockfish north subcomplex, are all significantly below the ACLs. For the minor nearshore rockfish north subcomplex, as is discussed in the FEIS, monitoring may indicate a need for inseason management measures to prevent exceeding the ACL (FEIS at pg 352). In summary, given the reductions between OFL and ABC, and ABC and ACL, and the fact that catches are expected to be lower than the ACL for most of the complexes and subcomplexes, overfishing on these complexes and subcomplexes is unlikely.

Comment 8: The Amendment must specify AMs that will be triggered when ACLs are reached.

Response: The NS1 guidelines (74 FR 3178, January 16, 2009) state that FMPs should include AMs, which “are management controls to prevent ACLs, including sector-ACLs, from being exceeded, and to correct or mitigate overages of the ACL if they occur.” NMFS believes that the Groundfish FMP currently provides for robust inseason management measures. Under current practices the Council is presented with inseason updates at each of its meetings. Following an evaluation of the catch to date and catch projections presented by its advisory bodies, the Council makes recommendations to NMFS on regulation changes in order to keep catch within the catch limits. However, NMFS notes that there is a lack of clarity in the amendment with respect to the connection between ACLs and AMs. In its December 27, 2010, letter to the Council, NMFS identified this issue and suggested that it should be addressed through the development and submission of an additional amendment to the FMP.

Comment 9: NMFS should identify and incorporate a specific list of relevant ecological factors into the management of West Coast Groundfish and specify how such factors will be used in the determination of OY, ACLs, or ACTs.

Response: NMFS acknowledges that ecological factors can be an important consideration in setting MSY and OY levels. In the Response to Comment 24 of the NS 1 guidelines NMFS states that “* * * ecological conditions not directly accounted for in the specification of MSY can be among the ecological factors considered when setting OY below MSY” (74 FR at 3187, January 16, 2009). The NS1 Guidelines describe ACT as an accountability measure that accounts for management uncertainty, and does not specifically incorporate ecological concerns.

Under the FMP, as amended by Amendment 23, ecological factors can be a consideration in setting the ACL below the ABC and in setting the OY (FMP Section 2.2). The extent of our knowledge on ecological factors with respect to choosing between the integrated alternatives is considered in the FEIS but our ability to compare these factors with respect to the alternatives is extremely limited. The Council and NMFS have incorporated ecosystem considerations into management of the groundfish fishery in a number of ways (e.g. closed areas that protect particularly productive and/or sensitive areas, and consideration of relevant ecological factors in stock assessments). See Agenda Item J.1.c, Attachment 1, PFMC March 2011 (Assessing Ecosystem Policy Principles and Bringing Ecosystem Science into the Pacific Fishery Management Council Process). NMFS is actively engaged in developing ecosystem information about the California Current ecosystem, and the Council is considering development of an Ecosystem Fishery Management Plan and incorporating ecosystem factors into the fishery management process. See Agenda Item J.1, Ecosystem Fishery Management Plan (PFMC March 2011).

While the ecological factors listed in the comments are relevant, at this time the specific elements listed have not been incorporated into the FMP and the Council decisionmaking process. Therefore requiring that information to be reported in a stock assessment or in the determination of OYs, ACLs and ACTs is premature. NMFS agrees that ecological factors are an important consideration in setting harvest levels for groundfish species. The commenters reference two food web models for possible use in considering ecological factors. At this time these models have not been evaluated by the SSC or GMT for use. NMFS suggests that the commenters bring these models forward to the Council's advisory bodies so that they can be evaluated. The groundfish stock assessment and review process, which includes procedures for assessing new models, is laid out in the Terms of Reference for both the groundfish stock assessment and review process and the SSC, which can be found at http://www.pcouncil.org/groundfish/stock-assessments/safe-documents/2011-safe-document/.

Even though the FMP does not contain a specific list of ecological factors that must be considered, the FEIS did consider ecological factors. Chapter 4 of the FEIS evaluated the impacts of the alternatives according to the impacts on fishing mortality, rebuilding duration for the overfished species, stock productivity relative to rebuilding success, genetic diversity and prey availability.

Overfished Species and Flatfish

Comment 10: The rebuilding plan for Darkblotched Rockfish is inconsistent with the MSA. A TTARGET of 2025 would maintain the status quo catch limits that were set in 2007-08 that were based on faulty information about darkblotched's resiliency and would extend the 2009-10 harvest specifications that were invalidated by NRDC v. Locke, Case 3:01-cv-00421-JLI. Review of recent catch levels as well as trends in the economic health of the fishery reveal that it is possible to meet the MSA's conservation priorities by establishing faster rebuilding targets and lower harvest levels while accommodating the needs of the fishing community. NMFS should adopt a target rebuilding date for darkblotched that results in catch levels no higher than 200 metric tons (mt) per year. The catch level for darkblotched was set at 200 mt in 2006 even though economic data from both the commercial trawl sector and the larger groundfish fishery indicate that revenues in 2006 continued to rebound from 2002 lows. Therefore, it is reasonable to assume that the commercial trawl fishery and associated fishing communities can accommodate current catch levels considerably closer of 200 mt for darkblotched.

Response: NMFS disagrees with the commenter. The harvest rate being implemented by this rule is the most conservative harvest rate for darkblotched rockfish since 2005. The TTARGET adopted in this final rule does not maintain the status quo catch limits set based on faulty information in 2007-08, and it does not extend the 2009-10 harvest specifications invalidated by NRDC v. Locke. The TTARGET being adopted for darkblotched is 2025, which corresponds to an SPR of 64.9 percent and an ACL of 298 mt. The SPR harvest rate associated with the invalidated darkblotched rockfish specifications was 62.1 percent with a TTARGET equal to 2028. The final rule implements a TTARGET of 2025, which is only 9 years longer than TF=0, and is three years earlier than under the 2009-10 harvest specifications. Similarly, the SPR harvest rate is more conservative than the harvest rate under the 2009-10 harvest specifications. Although the ACL this rule implements is comparable to the OY during the beginning of the 2009-10 cycle, the rebuilding period is shorter and the harvest rate is reduced based on the 2009 stock assessment update and the revised rebuilding analyses, which are the best scientific information available at this time. In 2005, steepness (productivity) was estimated at 1.0, and was set at 0.95. In 2007, a good deal more age data was included in the assessment, largely as conditional age-at length compositions, and steepness was estimated (using the prior from Dorn's meta-analysis) at 0.6. That value of steepness was then fixed in the 2007 assessment and hence also used in the 2009 update. The SPR chosen following the 2005 rebuilding analysis, and applied in the 2007-08 harvest specifications (the 2007 SPR was 64.1 percent and the 2008 SPR was 60.7 percent), corresponded to a TTARGET (median rebuilding year) of 2011, which was much earlier than for previous rebuilding analyses, due largely to the high value of steepness (and thus high productivity at low stock sizes) assumed in the 2005 assessment. Based on the 2007 rebuilding analysis, the darkblotched rockfish stock was projected to recover 19 years later (2030) than anticipated from the 2005 rebuilding analysis. This then lead to the adoption by the Pacific Council of a new TTARGET equal to 2028 with an SPR of 62.1 percent. Accordingly, as mentioned above, the SPR of 64.9 percent being implemented by this rule is the most conservative harvest rate for darkblotched rockfish since 2005. Moreover, the percent of unfished darkblotched rockfish biomass continues to increase toward rebuilding.

Due to the complexity and interconnectivity of the Pacific groundfish fishery, the Council and NMFS follow an integrated or holistic approach to rebuilding because it would not be appropriate to develop rebuilding plans for each of the overfished species independent from the rebuilding plans for the others. The rebuilding groundfish species are correlated both biologically and economically. Changes to the OYs for any of the overfished species affect the time to rebuild for that species and the ability of fishermen to harvest other species of groundfish. In addition, changes in OYs for groundfish species have differing economic impacts on West Coast fishing communities. Setting a rebuilding strategy for one species requires the rebuilding strategy for the other rebuilding species be considered simultaneously. Utilizing this approach, it is reasonable to assume that integrated Alternative 1, which considered a TTARGET of 2022 and ACLs of 222 mt in 2011 and 2012, would have similar biological and socio-economic impacts to the ACL of 200 mt suggested by the commenter. NMFS does not agree that fishing communities can accommodate an ACL closer to 200 mt than the ACL in the final rule without suffering severe adverse economic impacts. Darkblotched rockfish is currently taken in research fisheries, Tribal fisheries, limited entry trawl non-whiting fisheries, limited entry trawl whiting fisheries, and limited entry fixed-gear fisheries. Darkblotched rockfish are predominantly caught in bottom trawls operating on the outer continental shelf and slope north of 38° north latitude between 100 and 200 fm. Reductions in the darkblotched rockfish ACLs are highly limiting to the trawl fisheries because darkblotched rockfish co-occur with the most economically important species in the fishery such as slope rockfish, sablefish, Pacific whiting, shortspine and longspine thornyheads, and Dover sole. Under Alternative 1, trawl opportunities on the slope would be limited as the seaward RCA boundaries were moved deeper. The bottom trawl fisheries on the continental slope would be restricted year round to a seaward RCA boundary of 250 fm.

If the ACLs for overfished species are too low, it could undermine the success of the trawl rationalization program. Economic benefits to the IFQ fishery are expected to result from cost reductions and increased access to target species that arise from modifications in fishing behavior (overfished species avoidance). Individual accountability will put pressure on operators to fish in areas with lower encounter rates of constraining overfished species, and the ability to transfer catch privileges allows the fleet to consolidate to fewer, but more profitable vessels as the market directs quota in a manner that is more economically efficient. If the darkblotched rockfish ACL is too low (Alternative 1)—such that trawl fishers perceive slope target fisheries to be risky (high risk of exceeding the individual quota pounds) and the fishers limit their fishing participation for healthy target species—or if fishers hold quota pounds of constraining overfished for sale to other fishers who incur overages, they would not be able to develop new methods or strategies to avoid catching overfished species.

The recruitment pattern for darkblotched rockfish is similar to that of many rockfish species, with highly variable recruitment from year to year adding to the variability in catch accounting between years. In addition, the available ACL to the groundfish fishery is reduced by the projected catch of darkblotched in incidental open access fisheries and non-groundfish fisheries. As another commenter pointed out, the incidental catch in non-groundfish fisheries such as pink shrimp would be expected to increase as the darkblotched rockfish biomass increases, further constraining the groundfish fishery unless the ACL allowed for such a rebuilding paradox. NMFS believes that setting a TTARGET that would result in a catch level no higher than 200 mt has the potential to result in short-term disastrous effects on already vulnerable communities.

As the darkblotched rockfish biomass increases, it will become increasingly more difficult to avoid as the stock rebuilds. Unlike the constant catch strategy suggested by the commenter, which increasingly restricts the fishery as rebuilding occurs and requires ever increasing management restrictions to avoid exceeding the ACL, the constant SPR strategy allows rebuilding to occur at an increasing rate without changing the TTARGET and without drastic swings in management measures, which provides management stability to fisheries and communities and contributes to economic stability. The 2009 stock assessment indicates that darkblotched rockfish was at 18.1 percent of its unfished biomass in 2006 as compared to 27.5 percent in 2009, showing an increasing trend. The recruitment pattern for darkblotched rockfish is similar to that of many rockfish species, with highly variable recruitment from year to year. The most recent year of 2008 shows recruitment closer to those seen in 2003-2005 after very low recruitment in 2006 and 2007. Large year to year swings in recruitment affect the accuracy of catch projections. As discussed in the FEIS, catch models used for the trawl fishery, a catch model based on data from the fishery managed under a trip limit structure was used to project catch. Although it is the best available information, because the trawl fishery is now being managed as a rationalized fishery with IFQs for the non-whiting fisheries, catch projections based on fishing distribution under a trip limit structure affect the utility of the catch model for making projections. In sum, the shorter rebuilding period and more conservative harvest rate adopted in this final rule rebuild darkblotched rockfish in a time period as short as possible, taking into account the statutory factors of the MSA.

Comment 11: The rebuilding plan for Cowcod is inconsistent with the MSA. The estimated cowcod depletion rate in 2009 is 4.5 percent, slightly lower than the 4.6 percent rate estimated in the 2007 assessment, indicating that the cowcod population is failing to rebuild as projected, and may actually be in decline. It is possible to rebuild cowcod more quickly than the 2071 target proposed by Amendment 16-5, and NMFS does not address why a target rebuilding year 11 years later than the shortest possible is “as short as possible” pursuant to the requirements of the MSA. Overall groundfish fishery revenues have rebounded substantially since 2002. The updated community vulnerability analysis did not rate any fishing communities off the Southern U.S. west coast as vulnerable. Historic mortality data for cowcod (which are admittedly subject to high levels of uncertainty) indicate that actual total catch has varied between as low as .32 mt in 2003, 2.18 mt in 2004, 1.27 mt in 2005, and 1.18 mt in 2006. Therefore, it is reasonable to assume that a catch level of 3 mt for cowcod, which is projected to rebuild the species by 2068, would promote the conservation goals of the MSA and could be reasonably accommodated by affected fisheries and fishing communities. NMFS should adopt a target rebuilding date for cowcod that results in catch levels no higher than 3 mt per year.

Response: NMFS fully considered all public comment and other relevant information, and has determined that modifying the proposed rule to implement a shorter rebuilding period will not cause severe short-term economic consequences to communities. Therefore, a shorter rebuilding period for cowcod is more consistent with the requirements of the MSA. This final rule implements a rebuilding plan for cowcod with a TTARGET of 2068, which corresponds to an SPR of 82.7 percent and an ACL of 3 mt. The TTARGET of 2068 implemented by this rule is only 8 years longer than TF=0. In contrast, the proposed rule included a cowcod rebuilding plan with a TTARGET of 2071, which corresponds to an SPR of 79 percent and an ACL of 4 mt. The TTARGET of 2071 in the proposed rule was eleven years longer than TF=0.

The commentor is incorrect in stating that the cowcod population may be in decline. The cowcod stock shows a slow but increasing trend in stock biomass. Table ES-6 of the 2009 stock assessment presents a summary of recent trends in cowcod exploitation and stock levels from the base case model. The commenter is correct that the depletion level projected by the 2009 stock assessment is 4.5 percent, however, the 2009 stock assessment, which is the best available scientific information, revises the 2007 stock assessment results and indicates that the 2007 biomass was at 4 percent not 4.6 percent as the commenter indicated. Therefore, the best available scientific information available at this time indicates that Cowcod depletion rate is improving and the cowcod population is rebuilding.

Comment 12: The rebuilding plan for yelloweye is inconsistent with the MSA. NMFS' conclusion that rebuilding progress on yelloweye has been “moderate” is too optimistic. The 2009 rebuilding analysis indicates that yelloweye rebuilding is three years behind schedule under the status quo harvest rate. This is three years beyond the target year of 2084, which was invalidated in NRDC v. Locke. There is a wide range of possible harvest limits in the 37 year time span between TF=0 and the proposed target year of 2084 that would rebuild yelloweye more quickly and still allow for bycatch. NMFS should adopt a target rebuilding date for yelloweye that results in catch levels between 14-17 mt per year.

Response: NMFS fully considered all public comment and other relevant information, and has determined that modifying the proposed rule to implement a shorter rebuilding period will not cause severe short-term economic consequences to communities. Therefore, a shorter rebuilding period for yelloweye rockfish is more consistent with the requirements of the MSA. The range of alternatives considered in the EIS for yelloweye was reasonable as further explained in the response to comments in the FEIS. This final rule implements a rebuilding plan for yelloweye rockfish with a TTARGET of 2074, which corresponds to an SPR of 76 percent and an ACL of 17 mt. The TTARGET of 2074 implemented by this rule is 10 years before the current TTARGET and 27 years longer than TF=0. In contrast, the proposed rule included a yelloweye rockfish rebuilding plan with a TTARGET of 2084, which corresponds to an SPR of 72.8 percent and an ACL of 20 mt. The TTARGET of 2084 in the proposed rule was 37 years longer than TF=0. As discussed below, NMFS determined that an ACL lower than 17 mt would have a disastrous short-term effect on fishing communities.

NMFS disagrees with the commenter regarding the rebuilding progress of yelloweye rockfish. The 2009 stock assessment shows that yelloweye rockfish stock has shown an increasing trend in stock biomass during the rebuilding period, increasing from the estimated depletion level of 16.3 percent of the unfished biomass in 2002 to 20.3 percent in 2009. The median year of recovery in the absence of fishing (TF=0) was calculated by setting fishing mortality to zero in 2011, and is equal to 2047. The value for TMIN, the median year for rebuilding to the target level in the absence of fishing since the year of declaration (2000) is 2044 (revised downward slightly from 2046 in the 2007 analysis). Because TMIN is only three years shorter than TF=0 in 2011, it indicates that harvest rates during this eight-year period have been low enough to have had little effect on the stocks rebuilding trajectory.

Although TTARGETS corresponding to ACLs lower than 17 mt were considered, the impacts on the fisheries and communities were significantly greater. Small changes to yelloweye rockfish ACLs can have disproportionately large effects on the ability of fishers to harvest healthy stocks of groundfish, both when considered as part of the integrated approach, and when considered in isolation. For the recreational fisheries, a yelloweye ACL lower than 17 mt would result in northern California recreational seasons that are even shorter than the already extremely limited lengths (e.g., three months in the Mendocino Management Area). This would include a one and a half month season in the Mendocino Management Area if the ACL were at 14 mt. Imposing further restrictions due to a lower ACL would cause the greatest negative economic impacts to communities north of Point Arena, particularly Fort Bragg and Shelter Cove. Under a 14 mt ACL the loss to California communities is equivalent to 170,000 fishing trips with an estimated revenue of 20 million dollars in expenditures associated with these trips (March 2011, Agenda Item H.2.c, CDFG Letter). Those dependent on the recreational fishery for their incomes would be the most affected, though the coastal community as a whole would suffer from the loss of expenditures by anglers. In the Oregon recreational fishery, an ACL (ACT) less than 17 mt would require shallower depth restrictions, decreased bag limits or full fishery closure, on the part of the state to prevent adjusted harvest guidelines from being exceeded. This would likely cause severe economic impacts to coastal Oregon communities, particularly Garibaldi and Gold Beach, which rely heavily on the recreational bottomfish and halibut fisheries. With an ACL under 17 mt, the Washington recreational management measures may need to be more restrictive. More restrictive management measures would negatively impact local communities that are dependent on sport fishing. Washington's recreational yelloweye impacts are also tied very closely to the halibut fishery. The affected communities are mostly remote areas that rely on the economic benefits created by recreational harvest opportunities.

In the commercial fisheries, yelloweye rockfish bycatch is also a concern for fixed gear longline vessels targeting sablefish north of 40°10′. The nearshore fishery in many communities serves primarily specialty “live-fish” markets. For example, the Brookings port group (southern Oregon) provides more live-fish landings than any other port group along the U.S. west coast. Because the fish buyers are different for this fishery than those for other commercial fisheries, severely restricting the fishery could influence the primary live-fish buyers in some of these specialized ports to leave, which could put an end to live-fish deliveries for these specialized fishing communities. Many of the affected ports lack the infrastructure to compensate for fish buyers leaving the area. The TTARGET of 2074 and ACL of 17 mt implemented by this rule are projected to rebuild yelloweye rockfish a full decade sooner than the previous rebuilding time period, while avoiding severe short-term adverse economic impacts to fishing communities.

Comment 13: NMFS received 5 comments in support of the Council's final preferred yelloweye rockfish ACL of 20 mt and ACT of 17 mt. The comments in support were from the Washington Department of Fish and Wildlife (WDFW), Oregon Department of Fish and Wildlife (ODFW), California Department of Fish and Game (CDFG) and two comments from the public. These commenters also stated that setting a yelloweye ACL lower than 17 mt would add risk to communities that were unjustified by the conservation benefits associated with a lower ACL.

Response: For a detailed description of the basis for the final ACL value of 17 mt implemented in this rule refer to the previous comment above. The Council recommended a 20 mt ACL with an ACT of 17 mt for yelloweye. The Council recommended using an ACT to address the uncertainty in accurately monitoring recreational fishery catch inseason, and increase the likelihood that the total catch would be lower than the ACL. An ACL of 17 mt is specified in this rule. NMFS chose not to specify an ACT for yelloweye. This final rule implements an ACL for yelloweye that is 2.2 mt above the projected catch. The ACL value is based on the high end estimates of projected set aside amounts. Therefore NMFS believes that the 2.2 mt difference between the ACL and the projected catch means that an ACT is not necessary for yelloweye. Further, with the implementation of the Trawl Rationalization program NMFS will have better inseason monitoring and will be able to track catches relative to set aside allocations and close fisheries or take other appropriate action if fisheries are projected to attain their allocations. By specifying an ACL of 17 mt rather than an ACT, it is predicted that rebuilding will occur in 2074, ten years earlier than under the Council's FPA.

Comment 14: The rebuilding plan for canary rockfish is inconsistent with the MSA. The rebuilding plan for canary rockfish is six years behind schedule, according to the 2009 stock assessment. The new assessment shows a biomass depletion percentage of 23.7 percent instead of 32.4 percent seen just two years before. In addition, the cumulative OY from 2000-2007 (years with reliable catch data since rebuilding began) was exceeded by 14 percent. Rather than responding to new information that a species is doing worse than expected by lowering catch rates, NMFS again has indicated that it is willing to extend target rebuilding dates in order to maintain status quo catch levels. Therefore, maintenance of the status quo catch levels at the expense of a longer rebuilding period for canary is inconsistent with the MSA's mandate to rebuild in a period as short as possible. NMFS should adopt a target rebuilding date for canary rockfish that results in catch levels no higher than 44 mt per year.

Response: NFMS disagrees with the commenter. The TARGET being implemented by this rule is within 3 years of the shortest time possible (TF=0 = 2024). NMFS believes that the rebuilding plan being adopted by this action is consistent with the MSA.

The latest assessment for canary rockfish demonstrates that the stock has been rebuilding since 2000. The commenter mischaracterizes the projected biomass depletion level from the 2009 stock assessment, which is the best available scientific information, relative to biomass depletion levels from the 2007 stock assessment. The reduction from 2007 is largely due to a revised historical catch time series for California. The new data resulted in the entire rebuilding trajectory (2000 forward) being slightly lower than previously projected. The commenter indicated that canary rockfish rebuilding is six years behind schedule. The change in our understanding of the rebuilding trajectory should not be interpreted as rebuilding having slowed, as this is not the case. Throughout the rebuilding period, the stock has continued to progress towards rebuilding. The overall lowering of the rebuilding trajectory throughout the entire rebuilding period means that it would take more time to reach the B40% (biomass level of 40 percent, which is used as a proxy for BMSY) than was understood in 2007. The new assessment estimated the 2007 depletion level for canary rockfish to have been 21.7 percent (below the estimate of 32.4 percent for 2007 from the 2007 assessment with 95 percent confidence bounds of 24-41 percent) and the 2009 depletion level to have been 23.7 percent (95 percent confidence bounds of 17-30 percent). This action maintains the same SPR harvest rate that is in place under the No Action Alternative. Maintaining the same SPR harvest rate results in an ACL for 2011 that is lower than the than the 2010 OY because applying the same SPR harvest rate responds to changes in our understanding of the status of the stock. Because the rebuilding trajectory was modified, maintaining the current target year had to be modified despite the fact that the stock has continued to progress towards rebuilding.

As explained in the proposed rule and disclosed to the public in stock assessment documents, following the 1999 declaration that the canary rockfish stock was overfished the canary OY was reduced by over 70 percent in 2000 (to 200 mt) and by the same margin again from 2001 to 2003 (to 44 mt). In retrospect, revised catch data indicate that from 2003 to 2008, when the rebuilding OY was between 47 and 44 mt, the OY was exceeded 5 out of 6 years, although catches were well below the ABC. These catch estimates were done in retrospect using data that were not available during the season. Due to the methods used to derive the total mortality estimates, the catches made in retrospect were higher than estimates made during the season.

Canary rockfish are caught in all the major fishery sectors, including: Research fisheries, Washington, Oregon and California recreational fisheries, Tribal fisheries, limited entry non-whiting trawl fisheries, limited entry whiting trawl fisheries, limited entry fixed gear fisheries, open access directed groundfish fisheries, open access directed fisheries with incidental groundfish catch (California halibut, pink shrimp and salmon troll).

Due to the complexity and interconnectivity of the Pacific groundfish fishery, the Council and NMFS follow an integrated or holistic approach to rebuilding because it would not be appropriate to develop rebuilding plans for each of the overfished species independent from the rebuilding plans for the others. The rebuilding groundfish species are correlated both biologically and economically. Changes to the OYs for any of the overfished species affect the time to rebuild for that species and the ability of fishermen to harvest other species of groundfish. In addition, changes in OYs for groundfish species have differing economic impacts on West Coast fishing communities. Setting a rebuilding strategy for one species requires the rebuilding strategy for the other rebuilding species be considered simultaneously. Utilizing this approach, it is reasonable to assume that a 44 mt catch level would have similar biological and socio-economic impacts as considered under Alternative 1 in the FEIS. Alternative 1 considered a TTARGET of 2025, which is one year longer than TMIN and has an ACL of 49 mt in 2011 and 51 mt in 2012. Under Alternative 1, the canary rockfish ACL and associated apportionment to the non-nearshore fisheries is so low that the sablefish allocations would have to be reduced by as much as 42 percent. The California nearshore fishery would also be severely constrained, requiring statewide 20 fm (37 m) Shoreward RCA lines and large trip limit reductions or total closures for some species would be necessary. This is in contrast to status quo where the non-trawl RCAs are 20 fm (37 m) in most northern areas and 60 fm (110 m) south of 34°27′ north latitude. All recreational fisheries would experience reduced season lengths and restrictive depth restrictions. An ACL of 49 mt (Alternative 1) equates to a trawl allocation of 13.3 mt—62 percent less then what is available in 2010. This will affect both the non-whiting and whiting sectors negatively. The whiting sectors would likely have lower bycatch caps which could preclude them from attaining their whiting allocations. In addition, the trawl IFQ fishery is intended to provide long-term benefits to the fishery in the form of bycatch reduction and economic stability. Given the full catch accounting proposed under trawl IFQ program and that all catch, discarded and retained, will count towards the individuals IFQ shares, the risk of the fishery exceeding the ACL is reduced compared to 2010 and prior years. In the short term, fishers will need to learn how to avoid canary rather than simply discarding them at-sea. Economic benefits to the IFQ fishery are expected to result from cost reductions and increased access to target species that arise from modifications in fishing behavior (overfished species avoidance). Individual accountability will put pressure on operators to fish in areas with lower encounter rates of constraining overfished species, and the ability to transfer catch privileges allows the fleet to consolidate to fewer, but more profitable, vessels as the market directs quota in a manner that is more economically efficient. Lower ACLs for canary rockfish could result in trawl fishers perceiving target fisheries for healthy stocks to be risky (high risk of exceeding the individual quota pounds) and result in fishers limiting their fishing participation for healthy target species; or if fishers hold quota pounds of constraining overfished for sale to other fishers who incur overages, they would not be able to develop new methods or strategies to avoid catching overfished species. Reduced fishing time may result in fishers being unable to develop new methods or strategies to avoid overfished species. The long-term success of the trawl rationalization program to maintain low incidental catch of overfished species in conjunction with profitable harvest of healthy stocks is consistent with the needs of communities specified in section 4.5.3.2 of the PCGFMP.

Comment 15: Economic indicators show improvements in the economic health of the fishery, thus it should be possible to meet the MSA's conservation priorities by establishing shorter rebuilding periods and lower catch levels while accommodating the needs of fishing communities. Historic revenue data indicate that average ex-vessel revenues in the groundfish hook-and-line fishery have rebounded since hitting a low of just over $13 million in 2002. Annual ex-vessel revenues for the fishery averaged nearly $18 million between 2005-2009, reaching a new high of $22.8 million in 2009, which is almost 50% greater than average revenue in 1998 adjusted for inflation. After overall groundfish fishery revenues hit a low of $63.9 million in 2002 (concurrent with the disaster declaration in the fishery), they rebounded to significantly higher levels: After adjusting for inflation, average revenues for the groundfish fishery between 2005 and 2009 were slightly over $85 million. In 2008, revenues in the fishery exceeded $113 million dollars. Per-vessel revenues have rebounded as well. Due in part to the reduction in the trawl fleet resulting from the buyback program, per-vessel revenues are roughly 40% higher than they were in 1998 after adjusted for inflation.

Response: NMFS does not believe that restricting harvests to maintain revenues at or below historically low levels takes into account the needs of fishing communities. Communities may still be “surviving” but they are not thriving, and many fishing communities remain vulnerable to short-term adverse economic impacts associated with rebuilding periods shorter than those adopted by this rule. Small increases in revenues of some sectors will help prevent some of the more vulnerable communities from even further losses. Except for the open access sectors, all other sectors show a decline under NMFS' preferred alternative compared to the No-Action Alternative: Non-whiting trawl (−1.6%), limited entry fixed gear (−10.4%); and Tribal (−1.9%—including Tribal shoreside whiting). To provide different perspectives, revenues are analyzed at several levels. First, the total level groundfish of revenues, including those from non-whiting groundfish, shoreside whiting, and at-sea whiting, are provided to give the perspective of the total fishery. Second, groundfish revenues excluding estimates of at-sea whiting are analyzed to better focus the analysis on impacts to coastal communities, as most at-sea whiting revenues are associated with large Seattle-based companies. Finally, shoreside non-whiting groundfish revenues are analyzed alone because the shoreside non-whiting fishery is crucial to communities for its ability to provide a year-round supply of fish and “keep the lights on” so community processing facilities can take advantage of the income provided from sporadic pulse fisheries such as whiting, salmon, crab, and shrimp (Note that San Francisco is a “coastal community” that receives non-whiting groundfish).

According to the Regulatory Impact Review Analysis, the total groundfish fishery is projected to reach a level of $91 million compared to the No-Action Alternative of $82 million. All of this increase is due to the increase in whiting harvests. Under the no-action alternative, the whiting fishery (shoreside and at-sea) account for $22 million in ex-vessel revenues. With the increase in the whiting OY from 193,000 mt in 2010 to the 290,000 mt OY in 2011, whiting revenues in 2011 are projected to be $33 million. For the shoreside fisheries, including whiting, and coastal communities, shoreside ex-vessel revenues are expected to increase by 2.6%. If whiting is excluded, 2011 ex-vessel revenues flowing from shoreside fisheries to coastal communities are expected to decrease by 3.3%. Most of this decrease is associated with projected decreases in sablefish and petrale sole harvests.

Relative to the needs of communities, the commenter indicates that average (annual) ex-vessel revenues in the groundfish hook-and-line fishery (includes limited entry fixed gear, open access fixed gear, and Tribal fixed gear fisheries) have rebounded since hitting a low of just over $13 million in 2002. In 2011 and 2012 the sablefish ACL will decline from the 2010 level of approximately 7,700 mt to approximately 6,800 mt. Therefore, the annual ex-vessel revenues in the groundfish hook-and-line fishery are projected to decline. Revenues from hook and line gear fishing are just one source of revenue to a community. The major source of groundfish revenues to communities are those from trawlers. Over the years, hook and line revenues have been a growing source of revenue in light of declines in other groundfish fisheries, including trawl fisheries. During the 1998 to 2009 period, the commercial revenue from trawl gear (includes commercial and Tribal, at sea and shoreside trawlers) has varied from a low of $46 million (2009) to a high of $91 million (2008). In 1998, total groundfish revenues flowing to communities from all gear types was about $80 million, in 2002 $63 million, and in 2009, $74 million. The hook and line share of total revenues has increased from 18% in 1998, to 21% in 2002, and 31% in 2009, the lowest year for trawl revenues.

In light of conservation, management, and economic issues associated with overcapacity, three capacity reduction programs have been instituted since 2000. In 2001, Amendment 14 to the FMP added a fixed gear permit stacking program which has resulted in the consolidation of currently 164 sablefish endorsed permits on about 90 vessels. In 2003, a trawl vessel buyback program was implemented, resulting in the retirement of 91 vessels and associated groundfish limited entry permits in order to stabilize what had been declining per-vessel revenues and to reduce bycatch by the remaining vessels. Industry is currently paying back the $36 million loan associated with this program. In early 2011, implementation of a catch share program under Amendment 20 to the FMP began, changing management of portions of the trawl fishery from 2-month cumulative trip limits to individual fishing quota (IFQ) management. In addition to improving the profitability of the fishery while reducing capacity, the IFQ program is expected to reduce bycatch because of the increase in observer coverage to 100%, and placement of catch monitors at landing locations (typically at processing plants), and the use of electronic reporting will lead to better catch accounting and overall quota management of the fishery. Fishermen and processors are paying for these observers and catch monitors (although for the first three years these costs are being partially subsidized by NMFS based on available appropriations). The Council and NMFS are now developing a cost-recovery program where up to 3 percent of the trawl revenues may be assessed on the industry to partially recover the costs of administering the program.

All of these capacity reduction programs have yielded increased average revenues per vessel. However, even if average revenues per vessel or total revenues have increased, total industry and sector profit levels are likely to be declining especially in light of increases in fuel prices. For the Trawl Rationalization Program analysis, a shorebased non-whiting model was constructed based on the 2004 fishery. In 2004, the shorebased non-whiting trawl fishery generated about $21 million in groundfish ex-vessel revenues. But according to cost estimates, this fishery was at best breaking even or perhaps suffering a loss of up to $2 million. Since 2004, shorebased non-whiting trawl fisheries have increased their revenues to about $30 million in 2009 and estimated $27 million in 2010. The increase in shorebased revenues have come from increased landings of flatfish and sablefish and significant increases in sablefish ex-vessel prices. Sablefish now accounts for almost 40 percent of the trawl fleet's revenues.

Increases in revenues must be considered together with significant increases in fuel costs. Fuel costs now account for approximately 30 to 40 percent of the vessels' revenues. The average 2005-2009 revenues were about $27 million, or 29 percent greater than 2004. The average 2005-2009 fuel price was about $2.81 per gallon, 70% greater than that of 2004. Therefore, it appears that the profitability of the 2009 fishery may not be that much improved over that of 2004. In July of 2009, in Newport Oregon fuel prices were about $2.20 a gallon, in July of 2010, $2.50 a gallon and as of April 2011, about $3.75 per gallon.

While NMFS preferred alternative does result in projected shoreside revenue increases over status quo, these are increases from historically low levels of revenue. Healthy communities require profitable sectors. Profits concern revenues and costs. NMFS and the Council have received public comment that low levels of revenue since 1999 have resulted in numerous negative impacts to community infrastructure. Many communities have lost important infrastructure such as ice houses, fuel docks, and processing facilities during the last decade. Continued low levels of revenue will likely result in further losses of infrastructure. Although it is difficult to predict, at some point the losses of infrastructure and fishing opportunity result in a “tipping point” in which a community shifts from a fishing community to a non-fishing community. In addition, with decreased revenues, fishermen are not making needed repairs or improvements to fishing gear, resulting in potential safety issues and potentially reducing innovation in the fleet to reduce bycatch or impacts to habitat.

Several other non-groundfish factors also affect fishing communities. From a fisheries perspective, for the period from 2006 to 2010, except for 2007, the Secretary of Commerce has determined that a disaster under the MSA exists for a major portion of the coastal salmon fishery. From a macro-economic perspective, in 2009 and 2010, communities have been affected by the overall downturn in the economy and now in 2011 and beyond will be affected by the further consequences of the economy.

Comment 16: NMFS should reject changes to the reference points and 25-5 control rule for petrale sole and other assessed flatfish species, as the proposed changes are not adequately precautionary, fail to account for the ecological services rendered by these species, and are premature without a comprehensive management strategy evaluation.

Response: The specifications for flatfish in the proposed rule and in this final rule are based on a new proxy for Fmsy (F30%) recommended by the SSC and adopted by the Council. NMFS believes that the new flatfish proxy is based on the best available science and is consistent with the NS1 guidelines and the MSA. Following the 2009 scientific peer review of the petrale sole assessment by the Council's stock assessment review panel (STAR panel), the STAR panel prepared a report which recommended that the SSC review the estimates of FMSY produced by the petrale sole assessment and investigate alternatives to the proxies of F40%. The SSCs groundfish sub-committee further considered the proxies produced by the petrale sole assessment and recommended that a proxy for FMSY of F30% be established for all west coast flatfish (PFMC E.2.c Supplemental SSC Report September 2009; Agenda Item E.2.c Supplemental SSC PowerPoint, September 2009). The full SSC endorsed the groundfish subcommittee's recommendation to establish a new proxy of F30% for FMSY for flatfish (PFMC G.2.b Supplemental SSC Report, November 2009). This value was based on a number of considerations, including evaluation of information on flatfish productivity (steepness) for assessed west coast flatfish, published meta-analyses of other flatfish stocks, and recommendations on appropriate proxies for FMSY and BMSY in the scientific literature. The SSC however did not endorse the use of a species-specific estimate of FMSY for petrale sole because of high variability in the estimates between repeat assessments for other stocks and the sensitivity of the estimates to assumptions concerning stock structure.

The SSC also recommended and the Council adopted a new Bmsy proxy for flatfish—B25%. This recommendation was developed through the same process and with the same considerations described above (PFMC E.2.c Supplemental SSC Report September 2009). The commenters point to SSC comments recommending a more comprehensive analysis of the control rule proxies. However, this long-term recommendation did not change the SSC's ultimate recommendation that the new proxies be used for the 2011-2012 specifications cycle. The SSC's recommendations are the best available science at this time.

The SSC noted that the overfished threshold, or MSST, and default precautionary reduction policy, are policy decisions for the Council. However, the SSC suggested the options that the Council ultimately chose for both of these policy choices. The Council chose to set the MSST to 50 percent of B25% (B12.5%), based on advice of the SSC that this was the “lowest value recommended by the NS1 guidelines.” (PFMC G.2.b, Supplemental SSC Report, November 2009). The 25-5 harvest control rule is intended to be the flatfish corollary to the 40-10 harvest control rule used for other groundfish species. The SSC's groundfish subcommittee suggested the 25-5 rule provided the same benefits as the 40-10 harvest control rule, but took into account the higher productivity of flatfish as compared to rockfish. (PFMC E.4.b, Supplemental SSC Report 2, March 2010).

The commenters suggest that these changes to the reference points and precautionary reduction policy for flatfish are not supported by sufficient analysis of their environmental consequences. They specifically identify the services rendered by flatfish in the California Current marine ecosystem. Ecosystem impacts of the integrated alternatives are described in the FEIS in section 4.1.5. However, available data and models limit NMFS' ability to assess the impacts of the alternatives in detail. The SSCs groundfish subcommittee recognized the need for a management strategy evaluation on harvest control rule proxies (PFMC E.2.c, Supplemental SSC report, September 2009) however, at this time an evaluation has not yet been conducted.

Comment 17: The rebuilding plans in the proposed rule implicitly adopt a Council-designed paradigm to set catch levels for overfished species that are inconsistent with the mandates of the MSA to rebuild overfished species “as quickly as possible” and with the Ninth Circuit's directive on how to do that while “taking into account the needs of fishing communities.” NMFS and the Council appear to have substituted this legal directive with a rebuilding paradigm that continues to favor long-term economic yields at the expense of rebuilding as quickly as possible. The white paper submitted to NMFS at the September 2010 Council meeting articulates a rebuilding policy that prioritizes the economic goal of long-term cumulative yield over conservation, a view that is inconsistent with the MSA.

Response: The rebuilding plans implemented by this final rule are designed to rebuild overfished or depleted species as quickly as possible while taking into account the statutory factors of the MSA. Although NMFS considered all relevant factors, NMFS did not rely upon the white paper or any other rebuilding paradigm that prioritizes the economic goal of long-term cumulative yields over conservation as a basis for its final decision.

Comment 18: The rebuilding plan for petrale sole is inconsistent with the MSA. The 2011-2012 specifications allow for catch levels that exceed the 25-5 control rule and do not result in the quickest rebuilding time for this species.

Response: NMFS disagrees with commenters' assertion that the rebuilding plan for petrale sole is inconsistent with the MSA. All of the alternatives considered in the FEIS rebuild the stock within 10 years, as required by the MSA when the stock is biologically capable of doing so. The rebuilding plan adopted in this final rule is estimated to rebuild the stock by 2016, which is only 2 years longer than the estimated minimum time to rebuild (which in this case is equal to TF=0). The Council's rebuilding strategy is to set the ACL equal to the ABC in 2011 and apply the 25-5 harvest control rule starting in 2012. This rebuilding strategy results in a rebuilding time period that is as short as possible while taking into consideration the important role of petrale sole in the groundfish fishery and the relatively high productivity of the stock.

Petrale sole is one of the primary target stocks in the non-whiting trawl fishery and is predominantly caught by that sector. No other sector currently targets petrale sole, although other sectors do incidentally catch petrale sole in relatively small amounts. For this reason, the Council chose to rebuild the petrale sole stock by constraining fishing opportunities for the non-whiting trawl sector. Specifications in this final rule rebuild the stock in as short a time as possible.

Comment 19: The harvest specifications for POP and widow rockfish appear inconsistent with the MSA mandate to rebuild overfished species in as short of a time as possible. NMFS chose to maintain the status quo harvest rate and catch limits for POP despite POP rebuilding being behind schedule according to the 2009 stock assessment. In addition, although widow rockfish appears close to being rebuilt, previous assessments predicted the stock would be rebuilt by 2009, indicating the stock is also behind schedule. Nonetheless, the proposed SPR harvest rate for widow rockfish is substantially increased.

Response: NMFS disagrees with the commenters. The TTARGET for widow is 2010; the commenters incorrectly state that the species was to be rebuilt in 2009. Because of the delay in final catch impacts data, which will enable NMFS to declare the stock not overfished, the change in widow rockfish to a healthy stock can not officially occur until a later date. This ensures that NMFS uses the best available science in making its final determination that a stock is no longer overfished. This final rule implements an ACL of 600 mt, which is a modest increase from the No Action OY of 509 but is unlikely to result in targeting of the stock.

For POP, the ACL alternatives analyzed in the FEIS were based on the new stock assessment. Our current understanding of POP stock status and productivity shows that TF=0 is longer than the current TTARGET. Therefore, all the ACL alternatives analyzed in the FEIS contemplate a change in the median time to rebuild that is greater than the current TTARGET. Because the current harvest policy will not rebuild the species by TTARGET even in the absence of fishing, the rebuilding plan is modified through this final rule. The SSC did recommend modifying the rebuilding plan out of the necessity to extend the current TTARGET based on our changed understanding of stock status and productivity. For the FPA, the Council proposed changing TTARGET from 2017 to 2020 while maintaining the F86.4 percent SPR harvest rate. Although the same SPR harvest rate is being maintained for POP, the new TTARGET of 2020 is only two years longer than TF=0. In addition, maintaining the same SPR harvest rate results in an ACL for 2011 that is lower than the former 2010 OY because applying the same SPR harvest rate responds to changes in our understanding of the status of the stock. The Council also recommended specifying an ACT of 157 mt for POP in 2011 and 2012 under the FPA to further reduce fishing-related mortality. This revised rebuilding time is based on the best available science and rebuilds the stock in as short a time as possible. This rule implements an ACL and an ACT for POP. The ACT is discussed in detail in Comment 5 above.

Comment 20: The leeway NMFS has to extend TTARGET beyond TMIN is limited to the amount of fish necessary to prevent severe short-term hardship to fishing communities. Therefore, any TTARGET longer than TMIN must be specifically demonstrated as necessary to prevent this hardship. The rebuilding plans continue to place undue reliance on TMAX. The Ninth Circuit decision in NRDC v. NMFS makes it clear that rebuilding plans can no longer be based on TMAX but instead must be oriented around TMIN in order to comply with the mandate to rebuild as quickly as possible.

Response: NMFS notes that the MSA requires that overfished stocks be rebuilt as quickly as possible, taking into account the status and biology of the overfished stock, the needs of fishing communities and the interaction of the overfished stock of fish within the marine ecosystem. NMFS believes that TMIN is the starting point, and that it is important to assess the impacts on fishing communities of TMIN (or TF=0), and alternative levels above that amount in order to determine the appropriate rebuilding time period. The FMP, as amended by Amendment 16-4, is clear that the time to rebuild may be adjusted upward from TMIN (the minimum time in which an overfished stock can rebuild to its target biomass) under certain circumstances, and as such, TMIN is the starting point for considering appropriate time periods for rebuilding. See FMP section 4.5.2. Procedures for Calculating Rebuilding Parameters. TTARGET is established based on the factors specified in MSA section 304(e)(4) with TMIN and TMAX serving as a starting point and reference point, respectively. The use of TMAX as one rebuilding reference point is consistent with the NS1 Guidelines. However, the rebuilding plans implemented by the final rule are not “based on” TMAX.

Bycatch Accounting, CCAs, Processing at Sea, EFP and Other Comments

Comment 21: The PFMC requested the yellowtail rockfish set aside for exempted fishing permit (EFP) activities be 10 mt for 2011, rather than the proposed 2 mt. This is because the EFP was approved in 2010, but all of the catch of yellowtail rockfish would occur in 2011.

Response: NMFS has made the appropriate changes to the EFP set aside amounts and addresses this issue in the Changes from the proposed rule section of this rule.

Comment 22: Bycatch accounting methods are insufficient to meet the MSA mandate to prevent overfishing, and 2011-2012 specifications and management measures do not include new measures to make bycatch accounting more timely and more accurate.

Response: The commenter does not specify additional management measures that might make bycatch accounting methods more timely and accurate, therefore it is difficult to respond to this comment. In the trawl fishery, new management measures being implemented as part of the trawl catch shares program are expected to improve bycatch accounting and include increased observation and monitoring as follows: One observer on every IFQ vessel and mothership catcher vessel; two observers on every at-sea processing vessel 125 ft and over; one observer on at-sea processing vessels under 125 ft; catch monitors at all IFQ first receivers; full catch accounting of retained and discarded catch; and real-time catch reporting through observer reports and electronic fish tickets. Together these monitoring measures are expected to result in significant improvements to the timeliness and accuracy of catch accounting in the trawl fisheries.

IFQs are expected to constrain the total catch mortality to a level within the trawl allocations. Full catch accounting and real time reporting in the shoreside IFQ program is expected to reduce management uncertainty relative to inseason catch accounting in the trawl fishery. Under an IFQ program there is a greater likelihood that the trawl fishery will stay within the trawl allocations. Given the full catch accounting under trawl IFQ program and that all catch, discarded and retained counts towards the individuals' IFQ shares, the risk of the fishery exceeding an ACL is further reduced compared to 2010 and prior years. Management of the bottom trawl fishery under the IFQ program is expected to reduce bycatch. This is because the pace of the fishery under IFQ is expected to slow such that fishers have time to use innovative techniques to avoid non-target species or reduce bycatch by increasing the utilization of non-target species.

Bycatch accounting in the non-trawl fisheries has significantly improved since implementation of the West Coast Groundfish Observer Program (WCGOP) in 2003. Total catch is modeled using the best available WGCOP data (see model descriptions in Appendix A of the FEIS). Unlike the trawl fisheries where every vessel in the fleet will be monitored in 2011 and 2012, vessels in the non-trawl fisheries are sub-sampled meaning that observers collect data from a portion of the vessels in the various non-trawl fisheries. The data collected by observers, in combination with data from state landing receipts (fish tickets), is used together to estimate bycatch. Although the availability of data to inform the understanding of discards in the non-trawl fisheries has significantly improved since 2003; neither the WCGOP observer data on catch discarded at sea nor the landed catch data reported on fish ticket data submitted to the states are available in realtime. The WCGOP for the non-trawl fisheries is a developing program that is continually being refined. Even as a developing program, NMFS believes that the bycatch accounting methods meet the MSA requirements.

Comment 23: NMFS received 13 letters from private citizens and fishing associations in support of provisions for allowing fishing within the CCA out to 30 fm and allowing the retention of shelf rockfish within the CCA. Many of the comments indicated that the analysis submitted by CDFG represented the best available science and indicates that when the CCAs were first established more area was closed than is necessary, as evidenced by the California commercial passenger fishing vessels (CPFV or California recreational charter) data showing one cowcod caught in 20-30 fm in the last 10 years. CDFG also supported these changes in its comment letter.

Response: Because cowcod are significantly depleted and the stock's productivity is extremely low, an extremely low incidental harvest rate is necessary to achieve rebuilding progress. Tenets of the cowcod rebuilding plan are to prohibit harvest in all fisheries and to close the primary habitats where cowcod are known to occur. Closure of the CCAs in the southern California Bight in 2001 effectively reduced harvest to very low levels; a strategy anticipated to work well for reducing adult cowcod mortality given their sedentary nature. Using the CCA closures to reduce fishing pressure in significant portions of known cowcod habitat addresses management uncertainty by reducing the likelihood that a management mistake would compromise rebuilding, even under data-poor management conditions. The FMP states that as new information become available on cowcod behavior and fisheries interactions with cowcod, the boundaries or related regulations concerning the current CCAs may change, and additional CCAs may be established by regulation. Recent submersible surveys have provided some information on cowcod distribution and indicate that juvenile cowcod occur over a wide range of habitat types, at depths between 28 and 180 fathoms and typically avoid soft sediment substrate, favoring hard substrate such as cobble and boulder fields or rock ridges (Love and Yoklavich, 2008). However, Love and Yaklovich (2008) also indicated that characterizing nursery habitat is important when evaluating survival and recruitment strength of juvenile cowcod and the subsequent persistence of local cowcod populations and that careful delineation of essential nursery habitats for young cowcod is especially critical when considering effective management strategies. There is little data currently available to understand fishery interactions and the distribution of cowcod as the stock rebuilds.

While the CDFG analysis indicated that modifying the depth restriction in the CCA is not projected to result in increased catch of adult cowcod, changes in the encounters of juvenile cowcod are unknown (recreational data does not currently report maturity status). The main conservation considerations pertain to how the proposed changes to depth restrictions will change fishing effort distribution such that changes in effort would result in increased encounters with cowcod (adult and juvenile) such that there is a risk of exceeding the ACL, or rebuilding being delayed (i.e., reproductive potential affected by disturbing or losing nursery habitat). The CDFG analysis indicated that an increase in the depth restriction from 20 fm to 30 fm or 40 fm may not result in a significant increase in bycatch of adult (greater than 45 cm) cowcod in recreational fishery or appreciably increase the risk of the ACL being exceeded. However, NMFS believes that the uncertainty with the cowcod stock assessment and the general lack of information on fishery interactions warrant precaution. Because limited data are available and given the potential disturbance and loss of nursery areas that could have long-lasting effects on rebuilding, NMFS believes that new information on cowcod behavior and fishery interaction must be analyzed and considered in cooperation with the NMFS scientists and SSC prior to making changes in the existing CCAs. In addition, NMFS believes that the risks to the stock and further management measures to improve catch accounting relative to changes in the CCAs must be considered. This final rule does not include changes to the No Action CCA boundaries or retention allowances.

Comment 24: NMFS received a comment from a member of the public who participates in the limited entry trawl fishery requesting that the current regulations prohibiting processing at sea be changed to allow the commenter an exemption. This exemption was supported by ODFW in one of its comment letters on this action.

Response: NMFS understands the considerable expense of modifying a fishing vessel to process at sea, however, this issue was not considered within the EIS for the 2011-2012 management measures. Because modification of the regulations could result in changes in fishing practices, it is not appropriate to modify the regulations without an analysis that specifically considers the effects of allowing the expansion of processing at sea. Further, regulations prohibiting processing at sea were approved by the Council during its development of the Trawl Rationalization program. NMFS suggests that the commenter consider submitting a request for consideration by the Council for the 2013-2014 biennial management cycle.

Comment 26: There were several inaccuracies in the preamble of the proposed rule noted by CDFG and ODFW in their comment letters. They pertained to sector allocations in the preamble.

Response: NMFS has corrected these errors for the final rule.

Comment 27: NMFS received letters that did not contain statements that require a response but instead contained information that provided NMFS with more background information regarding the impacts of the alternatives considered.

Response: NMFS considered all the relevant information and comments received during the comment period and took that information into account when making its final decision.

Comment 28: NMFS should conduct stock assessments and set stock-specific catch limits for china, quillback and rougheye rockfish, which appear to be subject to overfishing according to recent analyses.

Response: The selection of species for stock assessment purposes is conducted through the Council's planning of the 2013-2014 Harvest Specifications. This process will begin at the September 2011 Council meeting. Comments regarding species that should have stock assessments are most appropriately submitted at that time.

Comment 29: NMFS received one comment from WDFW in support of NMFS decision not to remove dusky and dwarf red rockfish from the FMP at this time.

Response: NMFS agrees with the commenter and has disapproved the portion of Amendment 23 that would have removed dusky and dwarf red rockfish from the FMP.

Changes From the Proposed Rule

The November 3, 2010 (75 FR 67850) proposed rule contained incorrect amendatory instructions for the proposed changes to the harvest specification tables. The biennial harvest specifications, including OFLs, ACLs, HGs, allocations etc. are published in 50 CFR part 660, subpart C in tables 1a through 2d. Instruction 14a contained amendatory instructions that described the proposed changes, incorrectly, as “Tables 1a through 1c, subpart C, are proposed to be revised * * *.” The instruction was incorrect and incomplete. This final rule includes all eight of the harvest specification tables, including: Table 1a, Table 1b, Table 1c, Table 1d, Table 2a, Table 2b, Table 2c and Table 2d to subpart C. The tables that are revised in this final rule are unchanged from the tables that published in the proposed rule, unless otherwise noted in the Changes from the Proposed Rule section. This final rule also adds Table 1.e., to subpart C, as depicted in the proposed rule.

In § 660.131 NMFS proposed to revise the term “end” and replace it with the term “closed” as a housekeeping measure. The proposed rule contained a mistake in the amendatory language, and listed the paragraphs to be revised as § 660.131(b)(4)(ii). The paragraph that was intended to be amended is actually § 660.131(b)(3)(ii). This final rule corrects that mistake in the amendatory language and makes the changes that were proposed, but in the correct paragraph.

CDFG informed NMFS that there was a mistake in a Council motion and the new boundary line that approximates the 40 fm depth contour inside the CCAs (around Santa Barbara Island, San Nicolas Island, Tanner Bank, and Cortes Bank) should not have been recommended to NMFS for implementation. CDFG requested that the latitude and longitude coordinates that were part of the proposed changes at § 660.71 paragraphs (s) through (v) be removed from the final rule, as they were not intended to be used for management of groundfish fisheries that occur within the CCA. Therefore, NMFS has removed the proposed additions at § 660.71 paragraphs (s) through (v), so that boundary lines approximating the 40 fm depth contour around Santa Barbara Island, San Nicolas Island, Tanner Bank, and Cortes Bank will not be defined in regulations at this time.

The November 3, 2010 proposed rule included changes for consistency with the new annual catch limit (ACL) framework that was added to the PCGFMP under Amendment 23. In § 660.140, two paragraphs were proposed to be revised to either replace or augment the term “OY” with the new terminology that has been added to the PCGFMP and in other sections of the groundfish regulations. The paragraphs at § 660.140 were revised in a December 15, 2010 final rule (75 FR 78344) that implemented the final program components for the IFQ fishery. This final rule modifies the revised paragraphs (a)(3) and (c)(1), as they appear in the codified regulations, by adding language that is consistent with what was in the proposed rule to reflect the new ACL and ACT terminology.

The proposed rule included a 499 mt set-aside deduction from the proposed 2011 yellowtail rockfish ACL of 4,364 mt. This resulted in a proposed harvest guideline of 3,865 mt for 2011. The Council sent a letter to NMFS on December 1, 2010 recommending that NMFS increase the set-aside for EFP catch from 2 mt to 10 mt to allow the Oregon Recreational Fishing Alliance (RFA) to prosecute their EFP in 2011. The Oregon RFA will be fishing under an EFP to catch underutilized yellowtail rockfish while keeping bycatch of overfished species low. A 2 mt set aside for EFPs in 2011 was initially recommended when the Oregon RFA project was anticipated to be concluded before the start of 2011. However, issuance of the EFP by NMFS later in 2010 than was anticipated resulted in a continuation in EFP activities into 2011. Therefore, NMFS is increasing the set-aside for yellowtail rockfish from 499 mt to 507 mt to allow the Oregon RFA EFP for yellowtail rockfish to be prosecuted in 2011. The slightly lower 2011 fishery harvest guideline of 3,857 mt for yellowtail rockfish is shown in Table 1.a and Table 1.b, to subpart C.

This final rule also refines the fishery harvest guidelines that are shown in Table 1a and Table 1b, subpart C, for POP and petrale sole. The calculation and deductions from the ACL are unchanged, but the fishery harvest guideline is modified to show one decimal place. As a result, the fishery harvest guideline in these tables for petrale sole is 910.6 mt instead of 911 mt, and the fishery harvest guideline for POP is 144.2 mt instead of 144 mt.

Footnote “n/” to Table 1a, subpart C was corrected so that the coastwide OFL of 1,802 mt for starry flounder was correctly referenced to be for the year 2011 and not for 2010. Changes to footnote “o/” to Table 1a, subpart C and footnote “o/” to Table 2a, subpart C were added to clarify that all species within the “other flatfish” complex are all category 3 stocks and that the 2011 ACL and 2012 ACL are both equivalent to the 2010 OY for that species complex. Clarifying text is added to footnote “hh/” of Table 1a, subpart C to state that the 2011 ACL is equivalent to the 2010 OY for longnose skate. Edits are also made to footnote “ii/” of Table 1a, subpart C and to footnote “ii/” of Table 2a, subpart C, to clarify that the ABC for the “other fish” complex is a 31 percent reduction from the OFL (σ=1.44/P*=0.40) because all of the stocks in the complex are category 3 species. Clarifying text is also added to footnote “ii/” of Table 1a, subpart C and to footnote “ii/” of Table 2a, subpart C, to state that 2011 ACL and 2012 ACL are both equivalent to the 2010 OY for the “other fish” complex, and that the fishery HG is equal to the ACL. Clarifying language is added in footnotes “b/” through “e/” to Table 1b, subpart C, such that the descriptions of the allocations to the three sectors of the whiting fisheries are clearly articulated and contain cross-references to pertinent shorebased IFQ fishery regulations at § 660.140, subpart D.

Table 1d and Table 2d, subpart C, are corrected to specify that there is a formal allocation of Pacific whiting to the at-sea whiting fishery. References are added to Table 1d and Table 2d, subpart C, to the pertinent regulations in Table 1b, subpart C and Table 2b, subpart C, respectively.

This rule publishes boundaries for the non-trawl commercial fisheries as well as cumulative limits for the limited entry fixed gear and opens access fisheries. Table 2 (North) and 2 (South), to subpart E and Table 3 (North) and 3 (South), to subpart F in this final rule are identical to those tables that published in the proposed rule, except for the trip limits for sablefish. Since the trip limits for sablefish that were published in the proposed rule were developed, the most recent fishery information indicates that changes to sablefish trip limits are warranted. On March 1, 2011, NMFS reduced sablefish trip limits in the open access fishery coastwide and increased or restructured trip limits for sablefish in the limited entry fixed gear fishery coastwide, through the remainder of the year. This action was consistent with the Council's recommendations from its November 2010 meeting, and was based on the most recently available fishery information. At its March 2011 meeting, the Council considered the most recent fishery information and recommended a reduction in the bi-monthly cumulative limits for sablefish in the limited entry fixed gear fishery in the area north of 36° N. latitude. The recommended reduction was in response to an error in the calculation of sablefish landings discovered over the winter. The error affected the landings estimates that the Council has been using for establishing the cumulative limits in the limited entry sablefish daily trip limit fishery. This resulted in cumulative limits in this fishery that were too high, because catch of sablefish was being underestimated. Therefore, NMFS is reducing the bi-monthly cumulative limits for sablefish in the limited entry fixed gear fishery in the area north of 36° N. latitude. in this rule.

There are many instances throughout 50 CFR part 660, subparts C through G where the tables in the regulations at 50 CFR part 660, subpart C that contain the biennial harvest specifications are referred to as “tables 1a through 2d”. Generally, Tables 1a through 1d, subpart C, would contain harvest specifications for the first year of the biennium. In this case, those tables would contain the 2011 harvest specifications. Generally, Table 2a through 2d, subpart C, would contain the harvest specifications for the second year of the biennium and beyond. In this case those tables would contain the 2012 and beyond harvest specifications. Two of the harvest specification tables that published in the proposed rule collapsed each year's harvest specifications into a single table. By doing this, it left no content for the 2012 tables, at Table 2c and 2d, to subpart C. This created an inconsistency with the cross-references that are systemic throughout the groundfish regulations at 50 CFR part 660, subparts C through G. To maintain the integrity of the cross-references, and to maintain the split of annual harvest specifications into two sets of tables (one set for the first year of the biennium, and one set for the second year of the biennium, and beyond) this final rule removes the 2012 harvest specifications from Table 1c and Table 1d, subpart C, and re-publishes those 2012 harvest specifications, unchanged, in Tables 2c and 2d, subpart C.

As described in the preamble to the proposed rule, this final rule does not implement a single value for harvest specifications for Pacific whiting, but describes a range of harvest levels that were considered for 2011 and 2012. In Tables 1a and 1b, and Tables 2a and 2b, subpart C, the proposed rule announced Pacific whiting harvest specifications as “TBA” or “to be announced”. To clarify that the range of harvest specifications is what are implemented in this final rule, “TBA” has been removed from these tables and has been replaced with a reference to the range of harvest specifications.

In the preamble of the proposed rule, NMFS described how two options for the trawl RCA and trawl trip limits were proposed. One option was proposed in the event that rationalization was delayed and the fishery was managed with trip limits (proposed Table 1a (North) and Table 1a (South) to subpart D). The other option was proposed for the rationalized fishery (proposed Table 1b (North) and Table 1b (South) to subpart D). Due to the delay in final implementation of the biennial specifications and management measures, the tables that included the RCA boundaries and trip limits during 2010 would remain in place until superseded. So, on December 30, 2010 Table 1b (North) and Table 1b (South) to subpart D from the proposed rule were redesignated as Table 1 (North) and Table 1 (South) to subpart D and were implemented in an emergency rule. NMFS implemented these tables (Table 1b (North) and Table 1b (South) to subpart D from the proposed rule) so that fishing in the rationalized groundfish fishery could begin in January 2011 under appropriate RCA structures and with appropriate landing allowances for non-IFQ species that are set forth in those tables. This final rule supersedes the tables set forth in that December 30, 2010 emergency rule with very similar tables, which will be in effect for 2011 and beyond (see Table 1 (North) and Table 1 (South) to subpart D).

This rule publishes Table 1 (North) and Table 1 (South) to subpart D, which has identical trawl RCA boundaries and landing allowances for non-IFQ species as Table 1b (North) and Table 1b (South) to subpart D that published in the proposed rule. However, a grammatical correction is made to the introductory text of each table to clarify that these tables describe the RCA boundaries that apply to vessels that are using groundfish trawl gear. A further clarification is also made to both tables by adding language to the introductory text to cite regulations regarding gear switching and which RCA applies to vessels operating under gear switching provisions at § 660.140, subpart D. Technical corrections to the numbering of footnotes to these tables are also made.

Related to the redesignation of Table 1 (North) and Table 1 (South) to subpart D, regulatory text at § 660.60(g) and (h)(1) do not need to be revised as proposed. This is because the current regulatory text correctly references Table 1 (North) and Table 1 (South) to subpart D. This rule keeps those tables with their current designations, and therefore the proposed changes to cross-references at § 660.60(g) and (h)(1) are no longer necessary.

The Tribal sablefish allocations for the area north of 36° N. latitude. that were proposed for 2011 and 2012 were 552 mt and 535 mt per year, respectively (§ 660.50(f)(2)(ii)). These were calculated by taking 10 percent of the ACL, for 2011 and 2012, respectively, for the area North of 36° N. latitude. and then reducing that amount by 1.5 percent for estimated discard mortality. The December 30, 2010 emergency rule (75 FR 82296) implemented an interim sablefish Tribal allocation of 543 mt. That amount was calculated by taking 10 percent of the 2011 ACL for the area North of 36° N. latitude. and then reducing that amount by 1.6 percent for estimated discard mortality. The 1.6 percent was the amount deducted for discard mortality in regulations for 2010, and therefore that is what was used in the emergency rule. This final rule implements the Tribal allocations that were announced in the November 3, 2010 (75 FR 67850) proposed rule, and were calculated using the proposed 1.5 percent deduction for discard mortality. This final rule also makes a grammatical correction by adding the acronym “ACL” in the description that was in the proposed rule. This grammatical correction is needed so that the allocation is correctly described as 10 percent of the Monterey through Vancouver area ACL.

The proposed changes to § 660.140(c)(1) removed the term “OYs” and replaced it with “ACLs or ACTs” and made additional clarifying changes to surrounding text. The proposed clarifications to surrounding text were confusing. Therefore, the final rule simply removes the term “OYs” and replaces it with “ACLs or ACTs” with no further changes to the existing regulatory text at § 660.140(c)(1).

The December 30, 2010 emergency rule (75 FR 82296) implemented interim changes to §§ 660.60 and 660.130 to remove obsolete language about trip limits in the trawl fishery because that emergency rule removed trip limits for IFQ species. This final rule makes the removal of trip limits for IFQ species permanent, consistent with the proposed rule (see above regarding Table 1 (North) and Table 1 (South)). This final rule makes additional regulatory changes to what was in the proposed rule, which are a natural extension of the removal of trip limits in the proposed rule. This final rule keeps the obsolete language out of the regulations at §§ 660.60 and 660.130, consistent with the emergency rule. NMFS acknowledges that some obsolete language regarding trip limits, crossover provisions, and varying trip limits based on the gear type that is used will remain in regulations. NMFS intends to issue a follow-up rulemaking that will remove or revise outdated language.

The December 30, 2010 emergency rule (75 FR 82296) implemented interim shorebased trawl allocations for the start of the 2011 trawl fishery at § 660.140. The interim allocations allowed quota pounds for IFQ species to be available at the start of the 2011 fishery, but before the final 2011 harvest specifications were implemented. This final rule adds new regulations, from what was in the proposed rule. The new regulations implement the allocation structure that is articulated in § 660.55 and are, therefore, a natural extension of the trawl allocations that published in the proposed rule. This final rule updates the initial shorebased trawl allocations that published in the emergency rule, with the final 2011 shorebased trawl allocations. The final shorebased trawl allocations are increasing for the following species: sablefish south of 36° N. latitude.; splitnose rockfish south of 40°10′ N. latitude.; Dover sole; english sole; arrowtooth flounder; starry flounder; petrale sole; cowcod south of 40°10′ N. latitude.; yelloweye rockfish; POP and widow rockfish. Specifically, the yelloweye rockfish shorebased trawl allocation is increasing from 0.3 mt to 0.6 mt consistent with the Council's recommendations associated with a 17 mt harvest level, and the cowcod shorebased trawl allocation is increasing from 1.3 mt to 1.8 mt consistent with the Council's recommendations regarding the trawl and non-trawl allocations for cowcod south of 40°10′ N. latitude.

This final rule publishes 2011 harvest specifications for overfished groundfish species in Tables 1a, 1b, 1c and 1e that are identical to the proposed harvest specifications for all of the groundfish species except cowcod and yelloweye rockfish. Therefore, the cowcod and yelloweye rockfish ACLs in Table 1a to subpart C are lower in this final rule than those from the proposed rule. Footnotes z/for cowcod and bb/for yelloweye rockfish to Table 1a and have also been modified for consistency with the changes in Table 1a. Also, the cowcod fishery HG in Table 1b has been modified for consistency with the changes in Table 1a.

NMFS is implementing changes to the overfished species rebuilding plans. However, final 2012 ACLs, ACTs, and fishery HGs in for the overfished species will be contingent upon potential changes to the FMP with regard to the rebuilding plans for the overfished species. Therefore, the proposed 2012 harvest specifications for overfished species are not implemented in this final rule. ACLs, ACTs and fishery HGs for overfished species, in Table 2a and Table 2b, subpart C, are equal to the 2011 values.

NMFS is implementing changes to the status determination criteria and harvest control rules for flatfish. However, final 2012 OFLs, ABCs, ACLs, ACTs and fishery HGs, for flatfish species will be contingent upon potential changes to the FMP with regard to status determination criteria and harvest control rules for flatfish. Therefore, the proposed 2012 harvest specifications for flatfish are not implemented in this final rule. Assessed flatfish, OFLs, ABCs, ACLs, ACTs and fishery HGs, in Table 2a and Table 2b, subpart C, are equal to the 2011 values.

NMFS is disapproving the Council-recommended changes to depth restrictions and groundfish retention regulations for vessels fishing within the CCAs. Therefore, this final rule does not implement the proposed changes to recreational fishing restrictions that modified the depth restrictions within the CCAs or that allowed retention of shelf rockfish within the fishing areas that are open in the CCAs. Regulations at § 660.360(c)(3)(i)(A)(5) and (c)(3)(i)(B) keep the depth restrictions and species retention regulations within the CCAs for the California recreational fishery the same as those that were in place in 2009 and 2010: Fishing for minor nearshore rockfish, cabezon, kelp greenling, lingcod, California scorpionfish and “other flatfish” is permitted within the CCAs, shoreward of the 20 fm (37 m) depth contour when the season for those species is open south of 34°27′ N. latitude. Also, as part of NMFS' disapproval of changes to the depth restrictions for vessels fishing within the CCAs, the latitude and longitude points that were proposed to define the 30 fm depth contour inside the CCAs (around Santa Barbara Island, San Nicolas Island, Tanner Bank, and Cortes Bank) are not included in this final rule. Therefore, NMFS has removed the proposed additions at § 660.71, paragraphs (k) through (n), so that boundary lines approximating the 30 fm depth contour around Santa Barbara Island, San Nicolas Island, Tanner Bank, and Cortes Bank will not be defined in regulations at this time.

NMFS is disapproving the Council's recommendation to remove dusky rockfish (Sebastes ciliatus) and dwarf-red rockfish (Sebastes rufianus) from the FMP as discussed above in the response to Comment 29. As a result of this disapproval, this final rule does not implement the proposed changes to the definition of “Groundfish” in paragraphs (7), (7)(ii)(A) and (7)(ii)(B) to § 660.11, subpart C.

Classification

The Administrator, Northwest Region, NMFS, determined that FMP Amendment 23 and the 2011 groundfish harvest specifications and management measures, which this final rule implements, are necessary for the conservation and management of the pacific coast groundfish fishery and that it is consistent with the Magnuson-Stevens Fishery Conservation and Management Act and other applicable laws.

As described in the preamble to the December 30, 2010 emergency rule and as discussed above in Background, there was not adequate time, given the complexity of the rulemaking and associated documentation and other work, to have this final rule effective by January 1, 2011. Therefore, most of the 2010 specifications and management measures remained in place for the January-April cumulative limit periods, except that an emergency rule made interim changes to allow the start of the rationalized trawl fishery and routine adjustments to fishery management measures, within the scope of the 2009-2010 regulations, were made. At the time NMFS anticipated that this final rule would implement the 2011-2012 biennial specifications and management measures beginning on April 29, 2011. NMFS is under court order to establish rebuilding plans by April 29, 2011 for the overfished species. The 2011-2012 groundfish harvest specifications and management measures are intended to rebuild overfished stocks as quickly as possible, taking into account the appropriate factors. NMFS utilizes the most recently available fishery information, scientific information, and stock assessments, to implement specifications and management measures biennially. Generally these management measures are implemented on January 1 of odd numbered years. The 2011-2012 specifications and management measures were developed using the most recently available information and therefore reflect the current status of the stock being managed.

NMFS finds good cause to waive the 30-day delay in effectiveness pursuant to 5 U.S.C. 553(d)(3), so that this final rule may become effective on May 11, 2011. Leaving the 2010 harvest specifications and management measures in place could cause harm to some stocks because those management measures are not based on the most current scientific information, or they could cause drastic management changes later in the year to prevent exceeding some lower 2011 harvest specifications once they are implemented. For example, the cowcod rockfish ACL is lower in 2011 than it was in 2010 and is taken in commercial and recreational fisheries north of Cape Mendocino, California. Therefore, if higher than anticipated catch of cowcod occurs, changes to management measures that could reduce incidental catch of cowcod could be delayed because of the higher harvest level that is in place. This could increase the risk of exceeding the lower 2011 ACL or causing more severe closures later in the year for fisheries that take cowcod incidentally. Also, for some species, leaving 2010 harvest specifications in place could unnecessarily delay fishing opportunities until later in the year, as this final rule will increase the catch limits for several species for 2011. Thus, a delay in effectiveness could ultimately cause economic harm to the fishing industry and associated fishing communities. These reasons constitute good cause under authority contained in 5 U.S.C. 553(d)(3), to establish an effective date less than 30 days after date of publication.

NMFS prepared a final environmental impact statement for Amendments 16-5 and 23 and the 2011-2012 harvest specifications and management measures. A notice of availability was published on March 11, 2011 (76 FR 13401). FMP amendment 23 was approved on December 23, 2010. NMFS issued a ROD identifying the selected alternative. A copy of the ROD is available from NMFS (see ADDRESSES).

This final rule has been determined to be not significant for purposes of Executive Order 12866.

A final regulatory flexibility analysis (FRFA) was prepared. The FRFA incorporates the IRFA, a summary of the significant issues raised by the public comments in response to the IRFA, and NMFS responses to those comments, and a summary of the analyses completed to support the action. A copy of the FRFA is available from NMFS (see ADDRESSES) and a summary of the FRFA, per the requirements of 5 U.S.C. 604(a), follows: Amendment 23 and the biennial harvest specifications and management measures are intended to respond to court orders in NRDC v. Locke and to implement a groundfish management scheme for the 2011-2012 groundfish fisheries. During the comment period on the proposed rule, NMFS received 35 letters of comment, but none of the comments received addressed the IRFA, although one letter directly or indirectly addressed the economic effects of the rule, as discussed above in the response to Comment 10, Comment 12 Comment 15 and Comment 17. The FRFA compares all the alternatives by discussing the impacts of each alternative on commercial vessels, buyers and processors, recreational charter vessels, seafood consumers, recreational anglers, non-consumptive users, non-users, and enforcement. Based on analyses discussed in Chapter 4 of the FEIS, the following summary is based on the Council's RIR/IRFA with the focus on the NMFS preferred alternative that will be implemented by this action. In terms of expected harvests, ex-vessel values, and recreational trips, there are no differences between the Council's FPA and the NMFS preferred alternative, relative to the IRFA/FRFA.

The overall economic impact of NMFS' preferred alternative is that many sectors are expected to achieve social and economic benefits similar to those under the current regulations, or the No Action alternative. The combined total ex-vessel revenues associated with the NMFS preferred alternative including at sea whiting is $90 million, compared with the No-Action level of $82 million. On a coastwide basis, excluding at-sea whiting, commercial ex-vessel revenues for the non-Tribal and Tribal groundfish sectors are estimated to be approximately $70 million per year under NMFS' preferred alternative compared with approximately $68 million under No Action, and the number of recreational bottom fish trips is estimated to be 646 thousand under NMFS' preferred alternative compared with 609 thousand under No Action. However, there are differences in the distribution of ex-vessel revenue and angler trips on a regional basis and on a sector-by-sector basis. These changes are driven by changes in the forecast abundance for target species and overfished species. The major changes to major commercial species target species are associated with Pacific whiting, Dover Sole, petrale sole and sablefish. Compared to the No-Action Alternative, Pacific whiting harvests are expected to increase by 50 percent and Dover sole by 25 percent while sablefish harvests are expected to decrease by 10 percent and petrale sole harvests by 23 percent. With the exception of the Pacific whiting and nearshore open access sectors, all other non-Tribal commercial fisheries sectors are expected to achieve lower levels of ex-vessel revenues than under No Action. The limited entry fixed gear sector shows the greatest projected decline (−10 percent) in revenue as a result of the sablefish ACL decrease. The Pacific whiting fishery at-sea sector (including Tribal) revenues are expected to increase by 51 percent and the shoreside whiting trawl (excluding Tribal) revenues are expected to increase by 33 percent. Ex-vessel revenues in both the non-whiting trawl (excluding Tribal) and the Tribal shoreside fisheries (trawl and fixed, including whiting) are both expected to decrease by about 2 percent.

A variety of time/area closures applicable to commercial vessels have been implemented in recent years. The most extensive of these are the RCAs, which have been in place since 2002 to prohibit vessels from fishing in depths where overfished groundfish species are more abundant. Different RCA configurations apply to the limited entry trawl sector and the limited entry fixed gear and open access sectors. In addition, the depth ranges covered can vary by latitudinal zone and time period. The alternatives vary somewhat in terms of the extent of RCAs. In addition to the RCAs, two CCAs have been in place since 1999 in the Southern California Bight to reduce bycatch of the overfished cowcod stock and yelloweye conservation areas have been established off the Washington Coast to reduce bycatch of the overfished yelloweye rockfish stock. The NMFS preferred alternative for the limited entry non-whiting trawl fleet generates slightly lower ex-vessel revenue on a coastwide basis when compared to revenues under the current regulations or No Action alternative. This is primarily driven by a decrease in the abundance of sablefish and petrale sole as opposed to changes in status of constraining species. Area-based management for the limited entry non-whiting trawl fleet under the NMFS preferred alternative will be comparable to what was in place in 2009 and 2010—the area north of Cape Alava, Washington and shoreward of the trawl RCA will remain closed in order to protect overfished rockfish species. Given the decreased amount of fishable area in northern Washington since 2009, higher costs for fishery participants from increases in fuel required to travel to and fish at those deeper depths would remain.

The fixed gear sablefish sector will generate lower revenue under NMFS' preferred alternative than No Action because the sablefish ACL has decreased. However, the fixed gear fleet will have somewhat more area available than under No Action, because fishing will be open at depths deeper than 100 fm (183 m) north of 40°10′ north latitude whereas under No Action, depths between 100 fm (183 m) and 125 fm (229 m) were only open on days when the Pacific halibut fishery was open. Fixed gear fisheries south of 36° north latitude will see sablefish harvest close to status quo levels. There are no recommended changes to area management relative to status quo.

Under NMFS' preferred alternative, the nearshore groundfish fishery is expected to have a moderate increase in ex-vessel revenues compared with No Action due to increased targeting opportunities for black rockfish (between 42° north latitude and 40°10′ north latitude) and cabezon south (south of 42° north latitude). Fishing areas open to the nearshore fleets will be roughly the same as under No Action. Fishing opportunity and economic impacts to the nearshore groundfish sector are largely driven by the need to protect canary and especially yelloweye rockfish.

Excluding whiting, the NMFS preferred alternative is projected to provide the west coast economy with slightly lower ex-vessel revenues than was generated by the fishery under No Action—a 3 percent decrease. However, effects on buyers and processors along the coast will vary depending on location. In addition, NMFS' preferred alternative attempts to take into account the desire expressed by buyers and processors to have a year round groundfish fishery. Individual quota management for trawl fisheries should help accommodate this preference; however in practice in the absence of trip limits it is somewhat uncertain how trawl landings will be distributed in time and space.

In terms of recreational angler effort, the number of angler trips under NMFS preferred alternative is slightly higher compared to No Action, but somewhat less than in 2009. However, an increase in angler effort under NMFS preferred alternative is occurring primarily in south and central California, while northern Washington shows a slight increase and Oregon shows no change compared with No Action. It is expected that under the proposed 2011-2012 management measures, Tribal groundfish fisheries will generate less revenue and personal income than under No Action due to a reduction in sablefish harvest.

The 2011-2012 period will be the first groundfish management cycle in which the shoreside trawl sector fisheries would be conducted under the Amendment 20 trawl rationalization program, including issuance and tracking of individual fishing quotas (IFQ) for most trawl-caught groundfish species. IFQ management is designed to provide opportunities for fisherman and processors to maximize the value of their fishery by creating incentives to make the optimum use of available target and bycatch species. Since all trawl trips will be observed, catch of constraining overfished species will be monitored in real time, and individuals will be held directly responsible for “covering” all catch of groundfish species with IFQ. Since IFQ for constraining, overfished species represents a real cost in terms of money and/or fishing opportunity, it is expected that fishers will take extraordinary steps to avoid unnecessary catch of these species. At the same time there is uncertainty about how individuals will be able to manage the individual risk inherent in a system based on personal responsibility. This issue may present a considerable challenge, especially to small businesses that have access to only a single limited entry trawl permit. Exhausting all readily available supplies of IFQ for a particularly constraining species, such as yelloweye, may result in the business being effectively shut down for the remainder of the season. Partly for this reason it is expected that over time the number of vessels and permits engaging in the limited entry trawl fishery will decline as fishers strive to consolidate available IFQ onto a smaller number of vessels in order to reduce the costs of harvesting the quotas. A smaller number of active vessels will mean reductions in the number of crew hired and in expenditures made in local ports for materials, equipment, supplies and vessel maintenance. As such, while wages and profits for those crew and vessel owners that do remain in the fishery should increase, the amount and distribution of ex-vessel revenues and community income will change in ways that are not yet foreseeable, but probably to the detriment of some businesses and communities currently involved in the groundfish trawl fishery. Due to these types of countervailing uncertainties, impacts on trawl fisheries under the 2011-2012 management measures used in this analysis were estimated using a model designed to project overfished species bycatch levels under a status quo cumulative trip limit management regime. Likewise, the model used to estimate community income impacts was calibrated based on recently estimated spending patterns for regional vessels and processors. While providing a useful starting point for comparing gross-level effects under the alternatives, the true range of economic impacts achievable under the rationalized, IFQ-managed fishery may reflect a considerable departure from these estimates.

The FRFA analysis includes a discussion of small businesses. This final rule will regulate businesses that harvest groundfish. According to the Small Business Administration, a small commercial harvesting business is one that has annual receipts under $4.0 million and a small charter boat business is one that has annual receipts under $7 million. The FRFA estimates that implementation of NMFS preferred alternative will affect about 2,600 small entities. These small entities are those that are directly regulated by this final rule that is being promulgated to support implementation of NMFS preferred alternative. These entities are associated with those vessels that either target groundfish or harvest groundfish as bycatch. Consequently, these are the vessels, other than catcher-processors, that participate in the limited entry portion of the fishery, the open access fishery, the charter boat fleet, and the Tribal fleets. Catcher/processors also operate in the Alaska pollock fishery, and all are associated with larger companies such as Trident and American Seafoods. Therefore, it is assumed that all catcher/processors are “large” entities. Best estimates of the limited entry groundfish fleet are taken from the NMFS Limited Entry Permits Office. As of June 2010, there are 399 limited entry permits including 177 endorsed for trawl (172 trawl only, 4 trawl and longline, and 1 trawl and trap-pot); 199 endorsed for longline (191 longline only, 4 longline and trap-pot, and 4 trawl and longline); 32 endorsed for trap-pot (27 trap-pot only, 4 longline and trap-pot, and 1 trawl and trap-pot). Of the longline and trap-pot permits, 164 are sablefish endorsed. Of these endorsements 130 are “stacked” (e.g. more than one permit registered to a single vessel) on 50 vessels. Ten of the limited entry trawl endorsed permits are used or owned by catcher/processor companies associated with the whiting fishery. The remaining 389 entities are assumed to be small businesses based on a review of sector revenues and average revenues per entity. The open access or nearshore fleet, depending on the year and level of participation, is estimated to be about 1,300 to 1,600 vessels. Again, these are assumed to be “small entities.” The Tribal fleet includes about 53 vessels, and the charter boat fleet includes 525 vessels that are also assumed to be “small entities.”

NMFS preferred alternative represents efforts to address the directions provided by the Ninth Circuit Court of Appeals, which emphasizes the need to rebuild stocks in as short a time as possible, taking into account: (1) The status and biology of the stocks, (2) the needs of fishing communities, and (3) interactions of depleted stocks within the marine ecosystem. By taking into account the “needs of fishing communities” NMFS was also simultaneously taking into account the “needs of small businesses” as fishing communities rely on small businesses as a source of economic activity and income. Therefore, it may be useful to review whether the Council's three-meeting process for selecting the FPA can be seen as means of trying to mitigate impacts of the proposed rule on small entities. The FEIS and RIR/IRFA include analysis of a range of alternatives that were considered by the Council, including analysis of the effects of setting allowable harvest levels necessary to rebuild the seven groundfish species that were previously declared overfished. An eighth species, petrale sole, was declared overfished in 2010 and the final action includes a new rebuilding plan for this species along with the ACLs and management measures consistent with the adopted rebuilding plan. Associated rebuilding analyses for all eight species estimate the time to rebuild under various levels of harvest.

The Council initially considered a wider range of alternatives, but ultimately rejected from further analysis alternatives allowing harvest levels higher than what is generally consistent with current policies for rebuilding overfished stocks and a “no fishing” scenario (F=0). Section 2.4 of the FEIS describes six integrated alternatives including No Action, the Council's FPA, the NMFS preferred alternative, and three other alternatives (including the Council's Preliminary Preferred Alternative, which is similar to the Council's FPA). NMFS finds that the F=0 and Alternatives 1A, 1B, and 2, while resulting in shorter rebuilding times for most of the overfished species, lead to projected major decreases in commercial revenues and recreational activity. Allowing too many communities to suffer commercial or recreational losses greater than 10 percent fails to take into account the needs of fishing communities. Alternative 3, the Council FPA, and NMFS preferred alternative all reduce the impacts to communities to less than 10 percent, but they differ in their impacts on rebuilding times. Alternative 3 reduces rebuilding times from status quo for many of the overfished species, but does not reduce the rebuilding time for yelloweye rockfish, and results in only minor reductions for cowcod and darkblotched and rockfish. The Council's FPA improves upon Alternative 3 by reducing the rebuilding time for darkblotched rockfish by two years while maintaining Alternative 3's small positive increases in commercial revenues and recreational activity. The NMFS preferred alternative improves over the Council FPA by further reducing the rebuilding times of cowcod and yelloweye by three years and ten years, respectively. Comparison of the action alternatives with the No Action alternative allows an evaluation of the economic implications to groundfish sectors, ports, and fishing communities; and the interaction of depleted species within the marine ecosystem of reducing ACLs for overfished species to rebuild stocks faster than they would under the rebuilding strategies that NMFS adopted and has modified consistent with new, scientific information on the status and biology of these stocks.

Alternative 2011-2012 groundfish management measures are designed to provide opportunities to harvest healthy, target species within the constraints of alternative ACLs for overfished species. The integrated alternatives allow estimation of target species catch under the suite of ACLs for overfished species both to demonstrate if target species ACLs are projected to be exceeded and to estimate related socioeconomic impacts.

The Council reviewed these analyses and read and heard testimony from Council advisors, fishing industry representatives, representatives from non-governmental organizations, and the general public before deciding the Council's FPA in June 2010. The Council's final preferred management measures are intended to stay within all the final recommended harvest levels for groundfish species decided by the Council at their April and June 2010 meetings. NMFS reviewed these analyses, read and heard testimony from Council advisors, fishing industry representatives, representatives from non-governmental organizations, the general public, and considered legal obligations to comply with a court order (NRDC v. Locke) before deciding NMFS' preferred alternative in February 2011. The NMFS preferred management measures are intended to stay within all the final recommended harvest levels for groundfish species that were part of the NMFS preferred alternative.

There are no additional projected reporting, record-keeping, and other compliance requirements of this rule not already envisioned within the scope of current requirements. References to collections-of-information made in this action are intended to properly cite those collections in Federal regulations, and not to alter their effect in any way.

No Federal rules have been identified that duplicate, overlap, or conflict with this action.

NMFS issued Biological Opinions under the Endangered Species Act (ESA) on August 10, 1990, November 26, 1991, August 28, 1992, September 27, 1993, May 14, 1996, and December 15, 1999 pertaining to the effects of the Pacific Coast groundfish FMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions concluded that implementation of the FMP for the Pacific Coast groundfish fishery was not expected to jeopardize the continued existence of any endangered or threatened species under the jurisdiction of NMFS, or result in the destruction or adverse modification of critical habitat.

NMFS reinitiated a formal section 7 consultation under the ESA in 2005 for both the Pacific whiting midwater trawl fishery and the groundfish bottom trawl fishery. The December 19, 1999, Biological Opinion had defined an 11,000 Chinook incidental take threshold for the Pacific whiting fishery. During the 2005 Pacific whiting season, the 11,000 fish Chinook incidental take threshold was exceeded, triggering reinitiation. Also in 2005, new data from the West Coast Groundfish Observer Program became available, allowing NMFS to complete an analysis of salmon take in the bottom trawl fishery.

NMFS prepared a Supplemental Biological Opinion dated March 11, 2006, which addressed salmon take in both the Pacific whiting midwater trawl and groundfish bottom trawl fisheries. In its 2006 Supplemental Biological Opinion, NMFS concluded that catch rates of salmon in the 2005 whiting fishery were consistent with expectations considered during prior consultations. Chinook bycatch has averaged about 7,300 fish over the last 15 years and has only occasionally exceeded the reinitiation trigger of 11,000 fish.

Since 1999, annual Chinook bycatch has averaged about 8,450 fish. The Chinook ESUs most likely affected by the whiting fishery have generally improved in status since the 1999 section 7 consultation. Although these species remain at risk, as indicated by their ESA listing, NMFS concluded that the higher observed bycatch in 2005 does not require a reconsideration of its prior “no jeopardy” conclusion with respect to the fishery. For the groundfish bottom trawl fishery, NMFS concluded that incidental take in the groundfish fisheries is within the overall limits articulated in the Incidental Take Statement of the 1999 Biological Opinion. The groundfish bottom trawl limit from that opinion was 9,000 fish annually. NMFS will continue to monitor and collect data to analyze take levels. NMFS also reaffirmed its prior determination that implementation of the Groundfish FMP is not likely to jeopardize the continued existence of any of the affected ESUs.

Lower Columbia River coho (70 FR 37160, June 28, 2005) were recently listed and Oregon Coastal coho (73 FR 7816, February 11, 2008) were recently relisted as threatened under the ESA. The 1999 biological opinion concluded that the bycatch of salmonids in the Pacific whiting fishery were almost entirely Chinook salmon, with little or no bycatch of coho, chum, sockeye, and steelhead.

The Southern Distinct Population Segment (DPS) of green sturgeon was listed as threatened under the ESA (71 FR 17757, April 7, 2006). The southern DPS of Pacific eulachon was listed as threatened on March 18, 2010, under the ESA (75 FR 13012). NMFS has reinitiated consultation on the fishery, including impacts on green sturgeon, eulachon, marine mammals, and turtles. After reviewing the available information, NMFS has concluded that, consistent with Sections 7(a)(2) and 7(d) of the ESA, the action would not jeopardize any listed species, would not adversely modify any designated critical habitat, and would not result in any irreversible or irretrievable commitment of resources that would have the effect of foreclosing the formulation or implementation of any reasonable and prudent alternative measures.

Pursuant to Executive Order 13175, this final rule was developed after meaningful consultation and collaboration with Tribal officials from the area covered by the FMP. Under the Magnuson-Stevens Act at 16 U.S.C. 1852(b)(5), one of the voting members of the Pacific Council must be a representative of an Indian Tribe with Federally recognized fishing rights from the area of the Council's jurisdiction. In addition, regulations implementing the FMP establish a procedure by which the Tribes with treaty fishing rights in the area covered by the FMP request new allocations or regulations specific to the Tribes, in writing, before the first of the two meetings at which the Council considers groundfish management measures. The regulations at 50 CFR 660.50(d)(2) further state “the Secretary will develop Tribal allocations and regulations under this paragraph in consultation with the affected Tribe(s) and, insofar as possible, with Tribal consensus.” The Tribal management measures in this final rule have been developed following these procedures.

List of Subjects in 50 CFR Part 660

Fisheries, Fishing, and Indian Fisheries.

Dated: April 28, 2011.
Samuel D. Rauch III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

Subpart C—West Coast Groundfish Fisheries

2. In § 660.11,

a. Add definitions of “Acceptable Biological Catch”, “Annual Catch Limit”, “Annual Catch Target”, and “Overfishing limit” in alphabetical order.

b. Revise the definition of “Fishery harvest guideline”.

c. In the definition for “Groundfish”, revise paragraph (9).

d. In the definition of “North-South management area” redesignate paragraphs (2)(xvii) through (xxii) as (2)(xviii) through (xxiii).

e. In the definition of “North-South management area”, add paragraph (2)(xvii).

§ 660.11 General definitions.

* * * * *

Acceptable Biological Catch (ABC) means a harvest specification that is set below the overfishing limit to account for scientific uncertainty in the estimate of OFL, and other scientific uncertainty.

* * * * *

Annual Catch Limit (ACL) is a harvest specification set equal to or below the ABC threshold in consideration of conservation objectives, socioeconomic concerns, management uncertainty and other factors. The ACL is a harvest limit that includes all sources of fishing-related mortality including landings, discard mortality, research catches, and catches in exempted fishing permit activities. Sector-specific annual catch limits can be specified, especially in cases where a sector has a formal, long-term allocation of the harvestable surplus of a stock or stock complex.

Annual Catch Target (ACT) is a management target set below the annual catch limit and may be used as an accountability measure in cases where there is great uncertainty in inseason catch monitoring to ensure against exceeding an annual catch limit. Since the annual catch target is a target and not a limit it can be used in lieu of harvest guidelines or strategically to accomplish other management objectives. Sector-specific annual catch targets can also be specified to accomplish management objectives.

* * * * *

Fishery harvest guideline means the harvest guideline or quota after subtracting from the ACL or ACT when specified, any allocation for the Pacific Coast treaty Indian Tribes, projected research catch, deductions for fishing mortality in non-groundfish fisheries, as necessary, and set-asides for EFPs.

* * * * *

Groundfish * * *

(9) “Other fish”: Where regulations of subparts C through G of this part refer to landings limits for “other fish,” those limits apply to all groundfish listed here in paragraphs (1) through (8) of this definition except for the following: Those groundfish species specifically listed in Tables 1a and 2a of this subpart with an OFL for that area (generally north and/or south of 40°10′ N. lat.); spiny dogfish coastwide. “Other fish” may include all sharks (except spiny dogfish), skates (except longnose skate), ratfish, morids, grenadiers, and kelp greenling listed in this section, as well as cabezon in waters off Washington.

* * * * *

North-South management area * * *

(2) * * *

(xvii) Cape Vizcaino, CA—39°44.00′ N. lat.

* * * * *

Overfishing limit (OFL) is the MSY harvest level or the annual abundance of exploitable biomass of a stock or stock complex multiplied by the maximum fishing mortality threshold or proxy thereof and is an estimate of the catch level above which overfishing is occurring.

* * * * *

3. In § 660.12 revise paragraph (a)(8) to read as follows:

§ 660.12 General groundfish prohibitions.

* * * * *

(a) * * *

(8) Fail to sort, prior to the first weighing after offloading, those groundfish species or species groups for which there is a trip limit, size limit, scientific sorting designation, quota, harvest guideline, ACT, ACL or OY, if the vessel fished or landed in an area during a time when such trip limit, size limit, scientific sorting designation, quota, harvest guideline, ACT, ACL or OY applied; except as specified at § 660.131, subpart C for vessels participating in the Pacific whiting at-sea sectors.

* * * * *

4. In § 660.30, paragraphs (a)(2)(iv) and (a)(6) are revised to read as follows:

§ 660.30 Compensation with fish for collecting resource information—EFPs.

* * * * *

(a) * * *

(2) * * *

(iv) The year in which the compensation fish would be deducted from the ACL or ACT before determining the fishery harvest guideline or commercial harvest guideline.

* * * * *

(6) Accounting for the compensation catch. As part of the harvest specifications process, as described at § 660.60, subpart C, NMFS will advise the Council of the amount of fish authorized to be retained under a compensation EFP, which then will be deducted from the next harvest specifications (ACLs or ACTs) set by the Council. Fish authorized in an EFP too late in the year to be deducted from the following year's ACLs or ACTs will be accounted for in the next management cycle where it is practicable to do so.

* * * * *

5. Revise § 660.40 to read as follows:

§ 660.40 Overfished species rebuilding plans.

For each overfished groundfish stock with an approved rebuilding plan, this section contains the standards to be used to establish annual or biennial ACLs, specifically the target date for rebuilding the stock to its MSY level and the harvest control rule to be used to rebuild the stock. The harvest control rule is expressed as a “Spawning Potential Ratio” or “SPR” harvest rate.

(a) Bocaccio. The target year for rebuilding the bocaccio stock south of 40°10′ N. latitude to BMSY is 2022. The harvest control rule to be used to rebuild the southern bocaccio stock is an annual SPR harvest rate of 77.7 percent.

(b) Canary rockfish. The target year for rebuilding the canary rockfish stock to BMSY is 2027. The harvest control rule to be used to rebuild the canary rockfish stock is an annual SPR harvest rate of 88.7 percent.

(c) Cowcod. The target year for rebuilding the cowcod stock south of 40°10′ N. latitude to BMSY is 2068. The harvest control rule to be used to rebuild the cowcod stock is an annual SPR harvest rate of 82.7 percent.

(d) Darkblotched rockfish. The target year for rebuilding the darkblotched rockfish stock to BMSY is 2025. The harvest control rule to be used to rebuild the darkblotched rockfish stock is an annual SPR harvest rate of 64.9 percent.

(e) Pacific Ocean Perch (POP). The target year for rebuilding the POP stock to BMSY is 2020. The harvest control rule to be used to rebuild the POP stock is an annual SPR harvest rate of 86.4 percent.

(f) Petrale Sole. The target year for rebuilding the petrale sole stock to BMSY is 2016. The harvest control rule is to set the ACL equal to the ABC, which corresponds to an annual SPR harvest rate of 31 percent in 2011.

(g) Widow rockfish. The target year for rebuilding the widow rockfish stock to BMSY is 2010. The harvest control rule is a constant catch of 600 mt, which corresponds to an annual SPR harvest rate of 91.7 percent in 2011.

(h) Yelloweye rockfish. The target year for rebuilding the yelloweye rockfish stock to BMSY is 2074. The harvest control rule to be used to rebuild the yelloweye rockfish stock is an annual SPR harvest rate of 76.0 percent.

6. In § 660.50, paragraphs (f)(2)(i) and (ii), (f)(4), (g)(2), and (g)(7) are revised to read as follows:

§ 660.50 Pacific Coast treaty Indian fisheries.

* * * * *

(f) * * *

(2) * * *

(i) The sablefish allocation to Pacific coast treaty Indian Tribes is 10 percent of the sablefish ACL for the area north of 36° N. lat. This allocation represents the total amount available to the treaty Indian fisheries before deductions for discard mortality.

(ii) The Tribal allocation is 552 mt in 2011 and 535 in 2012 per year. This allocation is, for each year, 10 percent of the Monterey through Vancouver area (North of 36° N. lat.) ACL. The Tribal allocation is reduced by 1.5 percent for estimated discard mortality.

* * * * *

(4) Pacific whiting. The Tribal allocation for 2010 is 49,939 mt. The Tribal allocations for will be announced each year following the Council's March meeting when the final specifications for Pacific whiting are announced.

* * * * *

(g) * * *

(2) Thornyheads. The Tribes will manage their fisheries to the following limits for shortspine and longspine thornyheads. The limits would be accumulated across vessels into a cumulative fleetwide harvest target for the year. The limits available to individual fishermen will then be adjusted inseason to stay within the overall harvest target as well as estimated impacts to overfished species. The annual following limits apply:

(i) Shortspine thornyhead cumulative trip limits are 17,000-lb (7,711-kg) per 2 months.

(ii) Longspine thornyhead cumulative trip limits are 22,000-lb (9,979-kg) per 2 months.

* * * * *

(7) Flatfish and other fish. Treaty fishing vessels using bottom trawl gear are subject to the following limits: For Dover sole, English sole, other flatfish 110,000 lbs (49,895 kg) per 2 months; and for arrowtooth flounder 150,000 lbs (68,039 kg) per 2 months. The Dover sole and arrowtooth limits in place at the beginning of the season will be combined across periods and the fleet to create a cumulative harvest target. The limits available to individual vessels will then be adjusted inseason to stay within the overall harvest target as well as estimated impacts to overfished species. For petrale sole, treaty fishing vessels are restricted to a 50,000 lb (22,680 kg) per 2 months limit for the entire year. Trawl vessels are restricted to using small footrope trawl gear.

* * * * *

7. In § 660.55, paragraphs (a), (b) introductory text, (f)(1)(ii), and (k) are revised to read as follows:

§ 660.55 Allocations.

* * * * *

(a) General. An allocation is the apportionment of a harvest privilege for a specific purpose, to a particular person, group of persons, or fishery sector. The opportunity to harvest Pacific Coast groundfish is allocated among participants in the fishery when the ACLs for a given year are established in the biennial harvest specifications. For any stock that has been declared overfished, any formal allocation may be temporarily revised for the duration of the rebuilding period. For certain species, primarily trawl-dominant species, beginning with the 2011-2012 biennial specifications process, separate allocations for the trawl and nontrawl fishery (which for this purpose includes limited entry fixed gear, directed open access, and recreational fisheries) will be established biennially or annually using the standards and procedures described in Chapter 6 of the PCGFMP. Chapter 6 of the PCGFMP provides the allocation structure and percentages for species allocated between the trawl and nontrawl fisheries. Also, separate allocations for the limited entry and open access fisheries may be established using the procedures described in Chapters 6 and 11 of the PCGFMP and this subpart. Allocation of sablefish north of 36° N. lat. is described in paragraph (h) of this section and in the PCGFMP. Allocation of Pacific whiting is described in paragraph (i) of this section and in the PCGFMP. Allocation of black rockfish is described in paragraph (l) of this section. Allocation of Pacific halibut bycatch is described in paragraph (m) of this section. Allocations not specified in the PCGFMP are established in regulation through the biennial harvest specifications and are listed in Tables 1 a through d and Tables 2 a through d of this subpart.

(b) Fishery harvest guidelines and reductions made prior to fishery allocations. Beginning with the 2011-2012 biennial specifications process and prior to the setting of fishery allocations, the ACL or ACT when specified is reduced by the Pacific Coast treaty Indian Tribal harvest (allocations, set-asides, and estimated harvest under regulations at § 660.50); projected scientific research catch of all groundfish species, estimates of fishing mortality in non-groundfish fisheries and, as necessary, set-asides for EFPs. The remaining amount after these deductions is the fishery harvest guideline or quota. (note: recreational estimates are not deducted here).

* * * * *

(f) * * *

(1) * * *

(ii) Catch accounting for the nontrawl allocation. All groundfish caught by a vessel not registered to a limited entry permit and not fishing in the non-groundfish fishery will be counted against the nontrawl allocation. All groundfish caught by a vessel registered to a limited entry permit when the fishery for a vessel's limited entry permit has closed or they are not declared in to a limited entry fishery, will be counted against the nontrawl allocation, unless they are declared in to a non-groundfish fishery. Catch by vessels fishing in the non-groundfish fishery, as defined at § 660.11, will be accounted for in the estimated mortality in the non-groundfish fishery that is deducted from the ACL or ACT when specified.

* * * * *

(k) Exempted fishing permit set-asides. Annual set-asides for EFPs described at § 660.60(f), will be deducted from the ACL or ACT when specified. Set-aside amounts will be adjusted through the biennial harvest specifications and management measures process.

* * * * *

8. In § 660.60 paragraph (c)(1)(i) introductory text is revised to read as follows:

§ 660.60 Specifications and management measures.

* * * * *

(c) * * *

(1) * * *

(i) Trip landing and frequency limits, size limits, all gear. Trip landing and frequency limits have been designated as routine for the following species or species groups: widow rockfish, canary rockfish, yellowtail rockfish, Pacific ocean perch, yelloweye rockfish, black rockfish, blue rockfish, splitnose rockfish, chilipepper rockfish, bocaccio, cowcod, minor nearshore rockfish or shallow and deeper minor nearshore rockfish, shelf or minor shelf rockfish, and minor slope rockfish; DTS complex which is composed of Dover sole, sablefish, shortspine thornyheads, longspine thornyheads; petrale sole, rex sole, arrowtooth flounder, Pacific sanddabs, and the other flatfish complex, which is composed of those species plus any other flatfish species listed at § 660.11, subpart C; Pacific whiting; lingcod; Pacific cod; spiny dogfish; cabezon in Oregon and California and “other fish” as a complex consisting of all groundfish species listed at § 660.11, subpart C and not otherwise listed as a distinct species or species group. Specific to the IFQ fishery, sub-limits or aggregate limits may be specified for the following species: longnose skate, big skate, California skate, California scorpionfish, leopard shark, soupfin shark, finescale codling, Pacific rattail (grenadier), ratfish, kelp greenling, shortbelly, and cabezon in Washington. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

* * * * *

9. Section 660.65 is revised to read as follows:

§ 660.65 Groundfish harvest specifications.

Harvest specifications include OFLs, ABCs, and the designation of OYs and ACLs. Management measures necessary to keep catch within the ACL include ACTs, harvest guidelines (HGs), or quotas for species that need individual management, and the allocation of fishery HGs between the trawl and nontrawl segments of the fishery, and the allocation of commercial HGs between the open access and limited entry segments of the fishery. These specifications include fish caught in state ocean waters (0-3 nm offshore) as well as fish caught in the EEZ (3-200 nm offshore). Harvest specifications are provided in Tables 1a through 2d of this subpart.

10. Section 660.71 is amended as follows:

a. Remove paragraph (e)(78),

b. Redesignate paragraphs (e)(79) through (e)(333) as (e)(78) through (e)(332) respectively.

c. Revise paragraphs (k)(149) and (150), redesignate paragraphs (k)(151) through (212) as (k)(153) through (214), add new paragraphs (k)(151) and (152) to read as follows:

§ 660.71 Latitude/longitude coordinates defining the 10 fm (18 m) through 40 fm (73 m) depth contours.

* * * * *

(k) * * *

* * * * *

(149) 36°18.40′ N. lat., 121°57.93′ W. long.;

(150) 36°16.80′ N. lat., 121°59.97′ W. long.;

(151) 36°15.00′ N. lat., 121°55.95′ W. long.;

(152) 36°15.00′ N. lat., 121°54.41′ W. long.;

* * * * *

11. Section 660.72 is amended as follows:

a. Remove and reserve paragraphs (f)(143) through (f)(144), and remove paragraph (f)(198),

b. Redesignate paragraphs (a)(122) through (a)(195) as (a)(127) through (a)(200), paragraphs (f)(145) through (f)(197) as (f)(146) through (f)(198), paragraphs (j)(16) through (j)(254) as (j)(18) through (j)(256), and paragraphs (j)(4) through (j)(15) as (j)(5) through (j)(16),

c. Revise paragraphs (a)(121), newly designated (a)(193), (b), (f)(140) through (f)(142), and newly designated (j)(183) through (j)(185),

d. Add paragraphs (a)(122) to (a)(126), add and reserve paragraph (a)(145), and add paragraphs (j)(4), and (j)(17), to read as follows:

§ 660.72 Latitude/longitude coordinates defining the 50 fm (91 m) through 75 fm (137 m) depth contours.

* * * * *

(a) * * *

(121) 36°18.40′ N. lat., 121°58.97′ W. long.;

(122) 36°18.40′ N. lat., 122°00.35′ W. long.;

(123) 36°16.02′ N. lat., 122°00.35′ W. long.;

(124) 36°15.00′ N. lat., 121°58.53′ W. long.;

(125) 36°15.00′ N. lat., 121°56.53′ W. long.;

(126) 36°14.79′ N. lat., 121°54.41′ W. long.;

* * * * *

(193) 32°55.35′ N. lat., 117°18.65′ W. long.;

* * * * *

(b) The 50-fm (91-m) depth contour around the Swiftsure Bank and along the U.S. border with Canada is defined by straight lines connecting all of the following points in the order stated:

(1) 48°30.15′ N. lat., 124°56.12′ W. long.;

(2) 48°28.29′ N. lat., 124°56.30′ W. long.;

(3) 48°29.23′ N. lat., 124°53.63′ W. long.;

(4) 48°30.31′ N. lat., 124°51.73′ W. long.;

and connecting back to 48°30.15′ N. lat., 124°56.12′ W. long.

* * * * *

(f) * * *

(140) 36°16.80′ N. lat., 122°01.76′ W. long.;

(141) 36°14.33′ N. lat., 121°57.80′ W. long.;

(142) 36°14.67′ N. lat., 121°54.41′ W. long.;

* * * * *

(j) * * *

(4) 48°10.00′ N. lat., 125°27.99′ W. long.;

* * * * *

(17) 48°10.00′ N. lat., 125°20.19′ W. long.;

* * * * *

(183) 36°17.49′ N. lat., 122°03.08′ W. long.;

(184) 36°14.21′ N. lat., 121°57.80′ W. long.;

(185) 36°14.53′ N. lat., 121°54.99′ W. long.;

* * * * *

12. Section 660.73 is amended as follows:

a. Remove paragraphs (a)(118) through (a)(120), (a)(156), (d)(134), (d)(180), (h)(157) and (h)(158),

b. Redesignate paragraphs (a)(3) through (a)(16) as (a)(4) through (a)(17), paragraphs (a)(17) through (a)(117) as (a)(19) through (a)(119), paragraphs (a)(121) through (a)(155) as (a)(128) through (a)(162), paragraphs (a)(157) through (a)(307) as (a)(165) through (a)(315), paragraphs (d)(135) through (d)(179) as (d)(138) through (d)(182), paragraphs (d)(181) through (d)(350) as (d)(185) through (d)(354), and paragraphs (h)(159) through (h)(302) as (h)(158) through (h)(301),

c. Add paragraphs (a)(3), (a)(18), (a)(120) through (a)(127), (a)(163) and (a)(164), (d)(134) through (d)(137), (d)(183), (d)(184), and (h)(157) to read as follows:

§ 660.73 Latitude/longitude coordinates defining the 100 fm (183 m) through 150 fm (274 m) depth contours.

* * * * *

(a) * * *

(3) 48°10.00′ N. lat., 125°40.00′ W. long.;

* * * * *

(18) 48°10.00′ N. lat., 125°17.81′ W. long.;

* * * * *

(120) 44°02.34′ N. lat., 124°55.46′ W. long.;

(121) 43°59.18′ N. lat., 124°56.94′ W. long.;

(122) 43°56.74′ N. lat., 124°56.74′ W. long.;

(123) 43°55.76′ N. lat., 124°55.76′ W. long.;

(124) 43°55.41′ N. lat., 124°52.21′ W. long.;

(125) 43°54.62′ N. lat., 124°48.23′ W. long.;

(126) 43°55.90′ N. lat., 124°41.11′ W. long.;

(127) 43°57.36′ N. lat., 124°38.68′ W. long.;

* * * * *

(163) 40°30.37′ N. lat., 124°37.30′ W. long.;

(164) 40°28.48′ N. lat., 124°36.95′ W. long.;

* * * * *

(d) * * *

(134) 43°59.43′ N. lat., 124°57.22′ W. long.;

(135) 43°57.49′ N. lat., 124°57.31′ W. long.;

(136) 44°55.73′ N. lat., 124°55.41′ W. long.;

(137) 44°54.74′ N. lat., 124°53.15′ W. long.;

* * * * *

(183) 40°30.35′ N. lat., 124°37.52′ W. long.;

(184) 40°28.39′ N. lat., 124°37.16′ W. long.;

* * * * *

(h) * * *

(157) 40°30.30′ N. lat., 124°37.63′ W. long.;

* * * * *

13. Section 660.74 is amended as follows:

a. Remove paragraphs (a)(159), (g)(136),

b. Redesignate paragraphs (a)(160) through (a)(284) as (a)(161) through (a)(285), (g)(137) through (g)(256) as (g)(138) through (g)(257),

c. Revise paragraphs (g)(133), (l)(84) and (l)(85),

d. Add paragraphs (a)(159) and (a) (160), (g)(136) and (g)(137), to read as follows:

§ 660.74 Latitude/longitude coordinates defining the 180 fm (329 m) through 250 fm (457 m) depth contours.

* * * * *

(a) * * *

(159) 40°30.22′ N. lat., 124°37.80′ W. long.;

(160) 40°27.29′ N. lat., 124°37.10′ W. long.;

* * * * *

(g) * * *

(133) 40°30.16′ N. lat., 124°37.91′ W. long.;

* * * * *

(136) 40°22.34′ N. lat., 124°31.22′ W. long.;

(137) 40°14.40′ N. lat., 124°35.82′ W. long.;

* * * * *

(l) * * *

(84) 43°57.88′ N. lat., 124°58.25′ W. long.;

(85) 43°56.89′ N. lat., 124°57.33′ W. long.;

* * * * *

14. Tables to Part 660, Subpart C are amended as follows:

a. Revise Tables 1a through 1d and 2a through 2c, Subpart C,

b. Add Table 1.e. and Table 2d, Subpart C, to read as follows:

BILLING CODE 3510-22-P

BILLING CODE 3510-22-C

a/ACLs and HGs are specified as total catch values. Fishery harvest guidelines (HGs) means the harvest guideline or quota after subtracting from the ACL or ACT any allocation for the Pacific Coast treaty Indian Tribes, projected research catch, deductions for fishing mortality in non-groundfish fisheries, as necessary, and set-asides for EFPs.

b/Lingcod north (Oregon and Washington). A new lingcod stock assessment was prepared in 2009. The lingcod north biomass was estimated to be at 62 percent of its unfished biomass in 2009. The OFL of 2,438 mt was calculated using an FMSY proxy of F45%. The ABC of 2,330 mt was based on a 4 percent reduction from the OFL (σ=0.36/P*=0.45) as it's a category 1 species. Because the stock is above B40% coastwide, the ACL is set equal to the ABC. ACL is further reduced for the Tribal fishery (250 mt), incidental open access fishery (16 mt) and research catch (5 mt), resulting in a fishery HG of 2,059 mt.

c/Lingcod south (California). A new lingcod stock assessment was prepared in 2009. The lingcod south biomass was estimated to be at 74 percent of its unfished biomass in 2009. The OFL of 2,523 mt was calculated using an FMSY proxy of F45%. The ABC of 2,102 mt was based on a 17 percent reduction from the OFL (σ=0.72/P*=0.40) as it's a category 2 species. Because the stock is above B40% coastwide, the ACL is set equal to the ABC. An incidental open access set-aside of 7 mt is deducted from the ACL, resulting in a fishery HG of 2,095 mt.

d/Pacific Cod. The 3,200 mt OFL is based on the maximum level of historic landings. The ABC of 2,222 mt is a 31 percent reduction from the OFL (σ=1.44/P*=0.40) as it's a category 3 species. The 1,600 mt ACL is the OFL reduced by 50 percent as a precautionary adjustment. A set-aside of 400 mt is deducted from the ACL for the Tribal fishery resulting in a fishery HG of 1,200 mt.

e/Pacific whiting. A range of ACLs were considered in the EIS (96,968 mt-290,903 mt). A new stock assessment will be prepared prior to the Council's March 2011 meeting. Final adoption of the Pacific whiting specifications have been deferred until the Council's March 2011 meeting.

f/Sablefish north. A coastwide sablefish stock assessment was prepared in 2007. The coastwide sablefish biomass was estimated to be at 38.3 percent of its unfished biomass in 2007. The coastwide OFL of 8,808 mt was based on the 2007 stock assessment with a FMSY proxy of F45%. The ABC of 8,418 mt is a 4 percent reduction from the OFL (σ=0.36/P*=0.45) as it's a category 1 species. The 40-10 harvest policy was applied to the ABC to derive the coastwide ACL and then the ACL was apportioned north and south of 36° N. lat, using the average of annual swept area biomass (2003-2008) from the NMFS NWFSC trawl survey, between the northern and southern areas with 68 percent going to the area north of 36° N. lat. and 32 percent going to the area south of 36° N. lat. The northern portion of the ACL is 5,515 mt and is reduced by 552 mt for the Tribal allocation (10 percent of the ACL north of 36° N. lat.) The 552 mt Tribal allocation is reduced by 1.5 percent to account for discard mortality. Detailed sablefish allocations are shown in Table 1c.

g/Sablefish South. That portion of the coastwide ACL apportioned to the area south of 36° N. lat. is 2,595 mt (32 percent). An additional 50 percent reduction was made for uncertainty resulting in an ACL of 1,298 mt. A set-aside of 34 mt is deducted from the ACL for EFP catch (26 mt), the incidental open access fishery (6 mt) and research catch (2 mt), resulting in a fishery HG of 1,264 mt.

h/Cabezon (Oregon). A new cabezon stock assessment was prepared in 2009. The cabezon biomass in Oregon was estimated to be at 51 percent of its unfished biomass in 2009. The OFL of 52 mt was calculated using an FMSY proxy of F45%. The ABC of 50 mt was based on a 4 percent reduction from the OFL (σ=0.36/P*=0.45) as it's a category 1 species. Because the stock is above B40% coastwide, the ACL is set equal to the ABC. No set-asides were removed so the fishery HG is also equal to the ACL at 50 mt. Cabezon in waters off Oregon were removed from the “other fish” complex, while cabezon of Washington will continue to be managed within the “other fish” complex.

i/Cabezon (California). A new cabezon stock assessment was prepared in 2009. The cabezon south biomass was estimated to be at 48 percent of its unfished biomass in 2009. The OFL of 187 mt was calculated using an FMSY proxy of F45%. The ABC of 179 mt was based on a 4 percent reduction from the OFL (σ=0.36/P*=0.45) as it's a category 1 species. Because the stock is above B40% coastwide, the ACL is set equal to the ABC. No set-asides were removed so the fishery HG is also equal to the ACL at 179 mt.

j/Dover sole. A 2005 Dover sole assessment estimated the stock to be at 63 percent of its unfished biomass in 2005. The OFL of 44,400 mt is based on the results of the 2005 stock assessment with an FMSY proxy of F30%. The ABC of 42,436 mt is a 4 percent reduction from the OFL (σ=0.36/P*=0.45) as it's a category 1 species. Because the stock is above B25% coastwide, the ACL could be set equal to the ABC. However, the ACL of 25,000 mt is set at a level below the ABC and higher than the maximum historical landed catch. A set-aside of 1,590 mt is deducted from the ACL for the Tribal fishery (1,497 mt), the incidental open access fishery (55 mt) and research catch (38 mt), resulting in a fishery HG of 23,410 mt.

k/English sole. A stock assessment update was prepared in 2007 based on the full assessment in 2005. The stock was estimated to be at 116 percent of its unfished biomass in 2007. The OFL of 20,675 mt is based on the results of the 2007 assessment update with an FMSY proxy of F30%. The ABC of 19,761 mt is a 4 percent reduction from the OFL (σ=0.36/P*=0.45) as it's a category 1 species. Because the stock is above B25%, the ACL was set equal to the ABC. A set-aside of 100 mt is deducted from the ACL for the Tribal fishery (91 mt), the incidental open access fishery (4 mt) and research catch (5 mt), resulting in a fishery HG of 19,661 mt.

l/Petrale sole. A petrale sole stock assessment was prepared for 2009. In 2009 the petrale sole stock was estimated to be at 12 percent of its unfished biomass coastwide, resulting in the stock being declared as overfished. The OFL of 1,021 mt is based on the 2009 assessment with a F30% FMSY proxy. The ABC of 976 mt is a 4 percent reduction from the OFL (σ=0.36/P*=0.45) as it's a category 1 species. The ACL is set equal to the ABC and corresponds to an SPR harvest rate of 31 percent. A set-aside of 65.4 mt is deducted from the ACL for the Tribal fishery (45.4 mt), the incidental open access fishery (1 mt), EFP catch (2 mt) and research catch (17 mt), resulting in a fishery HG of 911 mt.

m/Arrowtooth flounder. The stock was last assessed in 2007 and was estimated to be at 79 percent of its unfished biomass in 2007. The OFL of 18,211 mt is based on the 2007 assessment with a F30% FMSY proxy. The ABC of 15,174 mt is a 17 percent reduction from the OFL (σ=0.72/P*=0.40) as it's a category 2 species. Because the stock is above B25%, the ACL is set equal to the ABC. A set-aside of 2,078 mt is deducted from the ACL for the Tribal fishery (2,041 mt), the incidental open access fishery (30 mt), and research catch (7 mt), resulting in a fishery HG of 13,096 mt.

n/Starry Flounder. The stock was assessed for the first time in 2005 and was estimated to be above 40 percent of its unfished biomass in 2005. For 2011, the coastwide OFL of 1,802 mt is based on the 2005 assessment with a FMSY proxy of F30%. The ABC of 1,502 mt is a 17 percent reduction from the OFL (σ=0.72/P*=0.40) as it's a category 2 species. Because the stock is above B25%, the ACL could have been set equal to the ABC. As a precautionary measure, the ACL of 1,352 mt is a 25 percent reduction from the OFL, which is a 10 percent reduction from the ABC. A set-aside of 7 mt is deducted from the ACL for the Tribal fishery (2 mt), the incidental open access fishery (5 mt), resulting in a fishery HG of 1,345 mt.

o/“Other flatfish” are the unassessed flatfish species that do not have individual OFLs/ABC/ACLs and include butter sole, curlfin sole, flathead sole, Pacific sand dab, rex sole, rock sole, and sand sole. The other flatfish OFL of 10,146 mt is based on the summed contribution of the OFLs determined for the component stocks. The ABC of 7,044 mt is a 31 percent reduction from the OFL (σ=1.44/P*=0.40) as all species in this complex are category 3 species. The ACL of 4,884 mt is equivalent to the 2010 OY, because there have been no significant changes in the status or management of stocks within the complex. A set-aside of 198 mt is deducted from the ACL for the Tribal fishery (60 mt), the incidental open access fishery (125 mt), and research catch (13 mt), resulting in a fishery HG of 4,686 mt.

p/POP. A POP stock assessment update was prepared in 2009, based on the 2003 full assessment, and the stock was estimated to be at 29 percent of its unfished biomass in 2009. The OFL of 1,026 mt for the Vancouver and Columbia areas is based on the 2009 stock assessment update with an F50% FMSY proxy. The ABC of 981 mt is a 4 percent reduction from the OFL (σ=0.36/P*=0.45) as it's a category 1 species. The ACL of 180 mt is based on a rebuilding plan with a target year to rebuild of 2020 and an SPR harvest rate of 86.4 percent. An ACT of 157 mt is being established to address management uncertainty and increase the likelihood that total catch remains within the ACL. A set-aside of 12.8 mt is deducted from the ACT for the Tribal fishery (10.9 mt), EFP catch (0.1 mt) and research catch (1.8 mt), resulting in a fishery HG of 144.2 mt.

q/Shortbelly rockfish. A non quantitative assessment was conducted in 2007. The spawning stock biomass of shortbelly rockfish was estimated at 67 percent of its unfished biomass in 2005. The OFL of 6,950 mt was recommended for the stock in 2011 with an ABC of 5,789 mt (σ=0.72 with a P* of 0.40). The 50 mt ACL is slightly higher than recent landings, but much lower than previous OYs in recognition of the stock's importance as a forage species in the California Current ecosystem. A set-aside of 1 mt for research catch results in a fishery HG of 49 mt.

r/Widow rockfish. The stock was assessed in 2009 and was estimated to be at 39 percent of its unfished biomass in 2009. The OFL of 5,097 mt is based on the 2009 stock assessment with an F50% FMSY proxy. The ABC of 4,872 mt is a 4 percent reduction from the OFL (σ=0.36/P*=0.45) as it's a category 1 species. A constant catch strategy of 600 mt, which corresponds to an SPR harvest rate of 91.7 percent, will be used to rebuild the widow rockfish stock consistent with the rebuilding plan and a TTARGET of 2010. A set-aside of 61 mt is deducted from the ACL for the Tribal fishery (45 mt), the incidental open access fishery (3.3 mt), EFP catch (11 mt) and research catch (1.6 mt), resulting in a fishery HG of 539.1 mt.

s/Canary rockfish. A canary rockfish stock assessment update, based on the full assessment in 2007, was completed in 2009 and the stock was estimated to be at 23.7 percent of its unfished biomass coastwide in 2009. The coastwide OFL of 614 mt is based on the new assessment with a FMSY proxy of F50%. The ABC of 586 mt is a 4 percent reduction from the OFL (σ=0.36/P*=0.45) as it's a category 1 species. The ACL of 102 mt is based on a rebuilding plan with a target year to rebuild of 2027 and a SPR harvest rate of 88.7 percent. A set-aside of 20 mt is deducted from the ACL for the Tribal fishery (9.5 mt), the incidental open access fishery (2 mt), EFP catch (1.3 mt) and research catch (7.2 mt) resulting in a fishery HG of 82 mt. Recreational HGs are being specified as follows: Washington recreational, 2.0; Oregon recreational 7.0 mt; and California recreational 14.5 mt.

t/Chilipepper rockfish. The coastwide chilipepper stock was assessed in 2007 and estimated to be at 71 percent of its unfished biomass coastwide in 2006. Given that chilipepper rockfish are predominantly a southern species, the stock is managed with stock-specific harvest specifications south of 40°10 N. lat. and within minor shelf rockfish north of 40°10 N. lat. South of 40°10 N. lat., the OFL of 2,073 mt is based on the 2007 assessment with an FMSY proxy of F50%. The ABC of 1,981 mt is a 4 percent reduction from the OFL (σ=0.36/P*=0.45) as it's a category 1 species. Because the biomass is estimated to be above 40 percent of the unfished biomass, the ACL was set equal to the ABC. The ACL is reduced by the incidental open access fishery (5 mt), and research catch (9 mt), resulting in a fishery HG of 1,966 mt.

u/Bocaccio. A bocaccio stock assessment was prepared in 2009 from Cape Mendocino to Cape Blanco (43° N. lat.) Given that bocaccio rockfish are predominantly a southern species, the stock is managed with stock-specific harvest specifications south of 40°10 N. lat. and within minor shelf rockfish north of 40°10 N. lat. The bocaccio stock was estimated to be at 28 percent of its unfished biomass in 2009. The OFL of 737 mt is based on the 2009 stock assessment with an FMSY proxy of F50%. The ABC of 704 mt is a 4 percent reduction from the OFL (σ=0.36/P*=0.45) as it's a category 1 species. The 263 mt ACL is based on a rebuilding plan with a target year to rebuild of 2022 and a SPR harvest rate of 77.7 percent. A set-aside of 13.4 mt is deducted from the ACL for the incidental open access fishery (0.7 mt), EFP catch (11 mt) and research catch (1.7 mt), resulting in a fishery HG of 249.6 mt.

v/Splitnose rockfish. A new coastwide assessment was prepared in 2009 that estimated the stock to be at 66 percent of its unfished biomass in 2009. Splitnose in the north is managed under the minor slope rockfish complex and south of 40°10' N. lat. with species-specific harvest specifications. South of 40°10 N. lat. the OFL of 1,529 mt is based on the 2009 assessment with an FMSY proxy of F50%. The ABC of 1,461 mt is a 4 percent reduction from the OFL (σ=0.36/P*=0.45) as it's a category 1 species. Because the unfished biomass is estimated to be above 40 percent of the unfished biomass, the ACL is set equal to the ABC. A set-aside of 7 mt is deducted from the ACL for research catch, resulting in a fishery HG of 1,454 mt.

w/Yellowtail rockfish. A yellowtail rockfish stock assessment was last prepared in 2005 for the Vancouver, Columbia, and Eureka areas. Yellowtail rockfish was estimated to be at 55 percent of its unfished biomass in 2005. The OFL of 4,566 mt is based on the 2005 stock assessment with the FMSY proxy of F50%. The ABC of 4,364 mt is a 4 percent reduction from the OFL (σ=0.36/P*=0.45) as it's a category 1 species. The ACL was set equal to the ABC, because the stock is above B40%. A set-aside of 507 mt is deducted from the ACL for the Tribal fishery (490 mt), the incidental open access fishery (3 mt), EFP catch (10 mt) and research catch (4 mt), resulting in a fishery HG of 3,857 mt.

x/Shortspine thornyhead. A coastwide stock assessment was conducted in 2005 and the stock was estimated to be at 63 percent of its unfished biomass in 2005. A coastwide OFL of 2,384 mt is based on the 2005 stock assessment with a F50% FMSY proxy. The coastwide ABC of 2,279 mt is a 4 percent reduction from the OFL (σ=0.36/P*=0.45) as it's a category 1 species. For the portion of the stock that is north of 34°27′ N. lat., the ACL is 1,573 mt, 66 percent of the coastwide OFL. A set-aside of 45 mt is deducted from the ACL for the Tribal fishery (38 mt), the incidental open access fishery (2 mt), and research catch (5 mt) resulting in a fishery HG of 1,528 mt for the area north of 34°27′ N. lat. For that portion of the stock south of 34°27′ N. lat. the ACL is 405 mt which is 34 percent of the coastwide OFL, reduced by 50 percent as a precautionary adjustment. A set-aside of 42 mt is deducted from the ACL for the incidental open access fishery (41 mt), and research catch (1 mt) resulting in a fishery HG of 363 mt for the area south of 34°27′ N. lat. The sum of the northern and southern area ACLs (1,978 mt) is a 13 percent reduction from the coastwide ABC.

y/Longspine thornyhead. A coastwide stock assessment was conducted in 2005 and the stock was estimated to be at 71 percent of its unfished biomass in 2005. A coastwide OFL of 3,577 mt is based on the 2005 stock assessment with a F50% FMSY proxy. The ABC of 2,981 mt is a 17 percent reduction from the OFL (σ=0.72/P*=0.40) as it's a category 2 species. For the portion of the stock that is north of 34°27′ N. lat., the ACL is 2,119 mt, and is 79 percent of the coastwide OFL for the biomass found in that area reduced by an additional 25 percent as a precautionary adjustment. A set-aside of 44 mt is deducted from the ACL for the Tribal fishery (30 mt), the incidental open access fishery (1 mt), and research catch (13 mt) resulting in a fishery HG of 2,075 mt. For that portion of the stock south of 34°27′ N. lat. the ACL is 376 mt and is 21 percent of the coastwide ABC reduced by 50 percent as a precautionary adjustment. A set-aside of 3 mt is deducted from the ACL for the incidental open access fishery (2 mt), and research catch (1 mt) resulting in a fishery HG of 373 mt. The sum of the northern and southern area ACLs (2,495 mt) is a 16 percent reduction from the coastwide ABC.

z/Cowcod. A stock assessment update was prepared in 2009 and the stock was estimated to be 5 percent (bounded between 4 and 21 percent) of its unfished biomass in 2009. The OFLs for the Monterey and Conception areas were summed to derive the south of 40°10 N. lat. OFL of 13 mt. The ABC for the area south of 40°10′ N. lat. is 10 mt. The assessed portion of the stock in the Conception Area was considered category 2, with a Conception Area contribution to the ABC of 5 mt, which is a 17 percent reduction from the OFL (σ=0.72/P*=0.35). The unassessed portion of the stock in the Monterrey area was considered a category 3 stock, with a contribution to the ABC of 5 mt, which is a 29 percent reduction from the OFL (σ=1.44/P*=0.40). A single ACL of 3 mt is being set for both areas combined. The ACL of 3 mt is based on a rebuilding plan with a target year to rebuild of 2068 and an SPR rate of 82.7 percent. The amount anticipated to be taken during research activity is 0.1 mt and the amount expected to be taken during EFP activity is 0.2 mt, which results in a fishery HG of 2.7 mt.

aa/Darkblotched rockfish. A stock assessment update was prepared in 2009, based on the 2007 full assessment, and the stock was estimated to be at 27.5 percent of its unfished biomass in 2009. The OFL is projected to be 508 mt and is based on the 2009 stock assessment with an FMSY proxy of F50%. The ABC of 485 mt is a 4 percent reduction from the OFL (σ=0.36/P*=0.45) as it's a category 1 species. The ACL of 298 mt is based on a rebuilding plan with a target year to rebuild of 2025 and an SPR harvest rate of 64.9 percent. A set-aside of 18.7 mt is deducted from the ACL for the Tribal fishery (0.1 mt), the incidental open access fishery (15 mt), EFP catch (1.5 mt) and research catch (2.1 mt), resulting in a fishery HG of 279.3 mt.

bb/Yelloweye rockfish. The stock was assessed in 2009 and was estimated to be at 20.3 percent of its unfished biomass in 2009. The 48 mt coastwide OFL was derived from the base model in the new stock assessment with an FMSY proxy of F50%. The ABC of 46 mt is a 4 percent reduction from the OFL (σ=0.36/P*=0.45) as it's a category 1 species. The 17 mt ACL is based on a rebuilding plan with a target year to rebuild of 2074 and an SPR harvest rate of 76 percent. A set-aside of 5.9 mt is deducted from the ACT for the Tribal fishery (2.3 mt), the incidental open access fishery (0.2 mt), EFP catch (0.1 mt) and research catch (3.3 mt) resulting in a fishery HG of 11.1 mt. Recreational HGs are being established as follows: Washington recreational, 2.6; Oregon recreational 2.4 mt; and California recreational 3.1 mt.

cc/California Scorpionfish was assessed in 2005 and was estimated to be at 80 percent of its unfished biomass in 2005. The OFL of 141 mt is based on the new assessment with a harvest rate proxy of F50%. The ABC of 135 mt is a 4 percent reduction from the OFL (σ=0.36/P*=0.45) as it's a category 1 species. Because the stock is above B40%, the ACL is set equal to the ABC. A set-aside of 2 mt is deducted from the ACL for the incidental open access fishery, resulting in a fishery HG of 133 mt.

dd/Black rockfish north (Washington). A stock assessment was prepared for black rockfish north of 45°56′ N. lat. (Cape Falcon, Oregon) in 2007. The biomass in the north was estimated to be at 53 percent of its unfished biomass in 2007. The OFL from the assessed area is based on the 2007 assessment with a harvest rate proxy of F50%. The resulting OFL for the area north of 46°16' N. lat. (the Washington/Oregon Border) is 445 mt and is 97 percent of the OFL from the assessed area. The ABC of 426 mt for the north of 46° 16' N. Lat. is a 4 percent reduction from the OFL (σ=0.36/P*=0.45) as it's a category 1 species. The ACL was set equal to the ABC, since the stock is above B40%. A set-aside of 14 mt for the Tribal fishery results in a fishery HG of 412 mt.

ee/Black rockfish south (Oregon and California). A 2007 stock assessment was prepared for black rockfish south of 45°56' N. lat. (Cape Falcon, Oregon) to the southern limit of the stock's distribution in Central California in 2007. The biomass in this area was estimated to be at 70 percent of its unfished biomass in 2007. The OFL from the assessed area is based on the 2007 assessment with a harvest rate proxy of F50%. Three percent of the OFL from the stock assessment prepared for black rockfish north of 45°56′ N. lat. is added to the OFL from the assessed area south of 45° 56′ N. lat. The resulting OFL for the area south of 46°16′ N. lat. is 1,217 mt. The ABC of 1,163 mt is a 4 percent reduction from the OFL (σ=0.36/P*=0.45) as it's a category 1 species. The ACL was set at 1,000 mt, which is a constant catch strategy designed to keep the stock biomass above B40%. There are no set-asides thus the fishery HG is equal to the ACL. The black rockfish ACL in the area south of 46°16′ N. lat., is subdivided with separate HGs being set for the area north of 42° N. lat. (580 mt/58 percent) and for the area south of 42° N. lat. (420 mt/42 percent).

ff/Minor rockfish north is comprised of three minor rockfish sub-complexes: nearshore, shelf, and slope rockfish. The OFL of 3,767 mt is the sum of OFLs for nearshore (116 mt), shelf (2,188 mt) and slope (1,462 mt) north sub-complexes. Each sub-complex OFL is the sum of the OFLs of the component species within the complex. The ABCs for the minor rockfish complexes and sub-complexes are based on a sigma value of 0.36 for category 1 stocks (splitnose and chilipepper rockfish), 0.72 for category 2 stocks (greenstriped rockfish and blue rockfish in California) and 1.44 for category 3 stocks (all others) with a P* of 0.45. The resulting minor rockfish north ABC, which is the summed contribution of the ABCs for the contributing species in each sub-complex (nearshore, shelf, and slope) is 3,363 mt. The ACL of 2,227 mt for the complex is the sum of the sub-complex ACLs. The sub-complex ACLs are the sum of the component stock ACLs, which are less than or equal to the ABC contribution of each component stock. There are no set-asides for the nearshore sub-complex, thus the fishery HG is equal to the ACL, which is 99 mt. The set-aside for the shelf sub-complex is 43 mt—Tribal fishery (9 mt), the incidental open access fishery (26 mt), EFP catch (4 mt) and research catch (4 mt) resulting in a shelf fishery HG of 925 mt. The set-aside for the slope sub-complex is 68 mt—Tribal fishery (36 mt), the incidental open access fishery (19 mt), EFP catch (2 mt) and research catch (11 mt), resulting in a slope fishery HG of 1,092 mt.

gg/Minor rockfish south is comprised of three minor rockfish sub-complexes: nearshore, shelf, and slope. The OFL of 4,302 mt is the sum of OFLs for nearshore (1,156 mt), shelf (2,238 mt) and slope (907 mt) south sub-complexes. Each sub-complex OFL is the sum of the OFLs of the component species within the complex. The ABCs for the minor rockfish complexes and sub-complexes are based on a sigma value of 0.36 for category 1 stocks (gopher rockfish north of 34°27' N. lat., blackgill), 0.72 for category 2 stocks (blue rockfish in the assessed area, greenstriped rockfish, and bank rockfish) and 1.44 for category 3 stocks (all others) with a P* of 0.45. The resulting minor rockfish south ABC, which is the summed contribution of the ABCs for the contributing species in each sub-complex, is 3,723 mt (1,001 mt nearshore, 1,885 mt shelf, and 836 mt slope). The ACL of 2,341 mt for the complex is the sum of the sub-complex ACLs. The sub-complex ACLs are the sum of the component stock ACLs, which are less than or equal to the ABC contribution of each component stock. There are no set-asides for the nearshore sub-complex, thus the fishery HG is equal to the ACL, which is 1,001 mt. The set-aside for the shelf sub-complex is 13 mt for the incidental open access fishery (9 mt), EFP catch (2 mt) and research catch (2 mt), resulting in a shelf fishery HG of 701 mt. The set-aside for the slope sub-complex is 27 mt for the incidental open access fishery (17 mt), EFP catch (2 mt) and research catch (8 mt), resulting in a slope fishery HG of 599 mt.

hh/Longnose skate. A stock assessment was prepared in 2007 and the stock was estimated to be at 66 percent of its unfished biomass. The OFL of 3,128 mt is based on the 2007 stock assessment with an FMSY proxy of F45%. The ABC of 2,990 mt is a 4 percent reduction from the OFL (σ=0.36/P*=0.45) as it's a category 1 species. The ACL of 1,349 is equivalent to the 2010 OY and represents a 50 percent increase in the average 2004-2006 mortality (landings and discard mortality). The set-aside for longnose skate is 129 mt for the Tribal fishery (56 mt), incidental open access fishery (65 mt), and research catch (8 mt), resulting in a fishery HG of 1,220 mt.

ii/“Other fish” contains all unassessed groundfish FMP species that are neither rockfish (family Scorpaenidae) nor flatfish. These species include big skate, California skate, leopard shark, soupfin shark, spiny dogfish, finescale codling, Pacific rattail, ratfish, cabezon off Washington, and kelp greenling. The OFL of 11,150 mt is equivalent to the 2010 MSY harvest level minus the 50 mt contribution made for cabezon off Oregon, which is a newly assessed stock to be managed with stock-specific specifications. The ABC of 7,742 mt is a 31 percent reduction from the OFL (σ=1.44/P*=0.40) as all of the stocks in the “other fish” complex are category 3 species. The ACL of 5,575 mt is equivalent to the 2010 OY, minus half of the OFL contribution for Cabezon off of Oregon (25 mt). The fishery HG is equal to the ACL.

ᵃ/ Allocations decided through the biennial specification process.

ᵇ/ 30 mt of the total trawl allocation for POP is allocated to the whiting fisheries, as follows: 12.6 mt for the shorebased IFQ fishery, 7.2 mt for the mothership fishery, and 10.2 mt for the catcher/processor fishery. The tonnage calculated here for the whiting portion of the shorebased IFQ fishery contributes to the total shorebased trawl allocation, which is found at 660.140 (d)(1)(ii)(D).

ᶜ/ 14.1 mt of the total trawl allocation of canary rockfish is allocated to the whiting fisheries, as follows: 5.9 mt for the shorebased IFQ fishery, 3.4 mt for the mothership fishery, and 4.8 mt for the catcher/processor fishery. The tonnage calculated here for the whiting portion of the shorebased IFQ fishery contributes to the total shorebased trawl allocation, which is found at 660.140 (d)(1)(ii)(D).

ᵈ/ 25 mt of the total trawl allocation for darkblotched rockfish is allocated to the whiting fisheries, as follows: 10.5 mt for the shorebased IFQ fishery, 6.0 mt for the mothership fishery, and 8.5 mt for the catcher/processor fishery. The tonnage calculated here for the whiting portion of the shorebased IFQ fishery contributes to the total shorebased trawl allocation, which is found at 660.140 (d)(1)(ii)(D).

ᵉ/ 52 percent (255 mt) of the total trawl allocation for widow rockfish is allocated to the whiting fisheries, as follows: 107.1 mt for the shorebased IFQ fishery, 61.2 mt for the mothership fishery, and 86.7 mt for the catcher/processor fishery. The tonnage calculated here for the whiting portion of the shorebased IFQ fishery contributes to the total shorebased trawl allocation, which is found at 660.140 (d)(1)(ii)(D).

BILLING CODE 3510-22-C

Table 1d. To Part 660, Subpart C—At-Sea Whiting Fishery Annual Set-Asides 2011
Species of species complex | Set-aside (mt)
Lingcod | 6
Pacific Cod | 5
Pacific Whiting | Allocation ᵃ
Sablefish N. of 36° | 50
Sablefish S. of 36° | NA
PACIFIC OCEAN PERCH | Allocation ᵃ
WIDOW ROCKFISH | Allocation ᵃ
Chilipepper S. of 40°10′ | NA
Splitnose S. of 40°10′ | NA
Yellowtail N. of 40°10′ | 300
Shortspine Thornyhead N. of 34°27′ | 20
Shortspine Thornyhead S. of 34°27′ | NA
Longspine Thornyhead N. of 34°27′ | 5
Longspine Thornyhead S. of 34°27′ | NA
DARKBLOTCHED | Allocation ᵃ
Minor Slope RF N. | 55
Minor Slope RF S. | NA
Dover Sole | 5
English Sole | 5
Petrale Sole—coastwide | 5
Arrowtooth Flounder | 10
Starry Flounder | 5
Other Flatfish | 20
CANARY ROCKFISH | Allocation ᵃ
BOCACCIO | NA
COWCOD | NA
YELLOWEYE | 0
Black Rockfish | NA
Blue Rockfish (CA) | NA
Minor Nearshore RF N. | NA
Minor Nearshore RF S. | NA
Minor Shelf RF N. | 35
Minor Shelf RF S. | NA
California scorpionfish | NA
Cabezon (off CA only) | NA
Other Fish | 520
Longnose Skate | 5
Pacific Halibut | 10 ᵇ
a See Table 1.b., to Subpart C, for the at-sea whiting allocations for these species.
b As stated in § 660.55(m), the Pacific halibut set-aside is 10 mt, to accommodate bycatch in the at-sea Pacific whiting fisheries and in the shorebased trawl sector south of 40°10′ N lat. (estimated to be approximately 5 mt each).

BILLING CODE 3510-22-P

BILLING CODE 3510-22-C

a/ ACLs and HGs are specified as total catch values. Fishery harvest guideline (HG) means the harvest guideline or quota after subtracting from the ACL of ACT any allocation for the Pacific Coast treaty Indian Tribes, projected research catch, deductions for fishing mortality in non-groundfish fisheries, as necessary, and set-asides for EFPs.

b/ Lingcod north (Oregon and Washington). A new lingcod stock assessment was prepared in 2009. The lingcod north biomass was estimated to be at 62 percent of its unfished biomass in 2009. The OFL of 2,251 mt was calculated using an FMSY proxy of F45%. The ABC of 2,151 mt was based on a 4 percent reduction from the OFL (σ=0.36/P*=0.45) as it's a category 1 species. Because the stock is above B40% coastwide, the ACL is set equal to the ABC. ACL is further reduced for the Tribal fishery (250 mt), incidental open access fishery (16 mt) and research catch (5 mt), resulting in a fishery HG of 1,880 mt.

c/ Lingcod south (California). A new lingcod stock assessment was prepared in 2009. The lingcod south biomass was estimated to be at 74 percent of its unfished biomass in 2009. The OFL of 2,597 mt was calculated using an FMSY proxy of F45%. The ABC of 2,164 mt was based on a 17 percent reduction from the OFL (σ=0.72/P*=0.40) as it's a category 2 species. Because the stock is above B40% coastwide, the ACL is set equal to the ABC. An incidental open access set-aside of 7 mt is deducted from the ACL, resulting in a fishery HG of 2,157 mt.

d/ Pacific Cod. The 3,200 mt OFL is based on the maximum level of historic landings. The ABC of 2,222 mt is a 31 percent reduction from the OFL (σ=1.44/P*=0.40) as it's a category 3 species. The 1,600 mt ACL is the OFL reduced by 50 percent as a precautionary adjustment. A set-aside of 400 mt is deducted from the ACL for the Tribal fishery, resulting in a fishery HG of 1,200 mt.

e/ Pacific whiting. A range of ACLs were considered in the EIS (96,968 mt-290,903 mt). A new stock assessment will be prepared prior to the Council's March 2012 meeting. Final adoption of the Pacific whiting specifications have been deferred until the Council's March 2012 meeting.

f/ Sablefish north. A coastwide sablefish stock assessment was prepared in 2007. The coastwide sablefish biomass was estimated to be at 38.3 percent of its unfished biomass in 2007. The coastwide OFL of 8,623 mt was based on the 2007 stock assessment with a FMSY proxy of F45%. The ABC of 8,242 mt is a 4 percent reduction from the OFL (σ=0.36/P*=0.45) as it's a category 1 species. The 40-10 harvest policy was applied to the ABC to derive the coastwide ACL and then the ACL was apportioned north and south of 36° N. lat, using the average of annual swept area biomass (2003-2008) from the NMFS NWFSC trawl survey, between the northern and southern areas with 68 percent going to the area north of 36° N. lat. and 32 percent going to the area south of 36° N. lat. The northern portion of the ACL is 5,347 mt and is reduced by 535 mt for the Tribal allocation (10 percent of the ACL north of 36° N. lat.) The 535 mt Tribal allocation is reduced by 1.5 percent to account for discard mortality. Detailed sablefish allocations are shown in Table 1c.

g/ Sablefish South. That portion of the coastwide ACL (32 percent) apportioned to the area south of 36° N. lat. is 2,516 mt. An additional 50 percent reduction for uncertainty was made, resulting in an ACL of 1,258 mt. A set-aside of 34 mt is deducted from the ACL for EFP catch (26 mt), the incidental open access fishery (6 mt) and research catch (2 mt), resulting in a fishery HG of 1,224 mt.

h/ Cabezon (Oregon). A new cabezon stock assessment was prepared in 2009. The cabezon biomass in Oregon was estimated to be at 51 percent of its unfished biomass in 2009. The OFL of 50 mt was calculated using an FMSY proxy of F45%. The ABC of 48 mt was based on a 4 percent reduction from the OFL (σ=0.36/P*=0.45) as it's a category 1 species. Because the stock is above B40% coastwide, the ACL is set equal to the ABC. No set-asides were removed so the fishery HG is also equal to the ACL at 48 mt. Cabezon in waters off Oregon were removed from the “other fish” complex, while cabezon of Washington will continue to be managed within the “other fish” complex.

i/ Cabezon (California)—A new cabezon stock assessment was prepared in 2009. The cabezon south biomass was estimated to be at 48 percent of its unfished biomass in 2009. The OFL of 176 mt was calculated using an FMSY proxy of F45%. The ABC of 168 mt was based on a 4 percent reduction from the OFL (σ=0.36/P*=0.45) as it's a category 1 species. Because the stock is above B40% coastwide, the ACL is set equal to the ABC. No set-asides were removed so the fishery HG is also equal to the ACL at 168 mt.

j/ Dover sole. Final 2012 OFLs, ABCs, ACLs, ACTs and fishery HGs for assessed flatfish species are contingent upon potential changes to the flatfish status determination criteria and harvest control rule.

k/ English sole. Final 2012 OFLs, ABCs, ACLs, ACTs and fishery HGs for assessed flatfish species are contingent upon potential changes to the flatfish status determination criteria and harvest control rule.

l/ Petrale sole. Final 2012 petrale sole OFL, ABC, ACL, ACT and fishery HG are contingent upon potential changes to the flatfish status determination criteria and harvest control rule, and potential changes to rebuilding plans.

n/ Starry Flounder. Final 2012 OFLs, ABCs, ACLs, ACTs and fishery HGs, for assessed flatfish species are contingent upon potential changes to the flatfish status determination criteria and harvest control rule.

o/ “Other flatfish” are the unassessed flatfish species that do not have individual OFLs/ABC/ACLs and include butter sole, curlfin sole, flathead sole, Pacific sand dab, rex sole, rock sole, and sand sole. The other flatfish OFL of 10,146 mt is based on the summed contribution of the OFLs determined for the component stocks. The ABC of 7,044 mt is a 31 percent reduction from the OFL (σ=1.44/P*=0.40) as all species in this complex are category 3 species. The ACL of 4,884 mt is equivalent to the 2010 OY, because there have been no significant changes in the status or management of stocks within the complex. A set-aside of 198 mt is deducted from the ACL for the Tribal fishery (60 mt), the incidental open access fishery (125 mt), and research catch (13 mt), resulting in a fishery HG of 4,686 mt.

p/ POP. Final 2012 ACLs, ACTs and fishery HGs for overfished species are contingent upon potential changes to rebuilding plans.

q/ Shortbelly rockfish. A non quantitative assessment was conducted in 2007. The spawning stock biomass of shortbelly rockfish was estimated at 67 percent of its unfished biomass in 2005. The OFL of 6,950 mt was recommended for the stock in 2011 with an ABC of 5,789 mt (σ=0.72 with a P* of 0.40). The 50 mt ACL is slightly higher than recent landings, but much lower than previous OYs in recognition of the stock's importance as a forage species in the California Current ecosystem. A set-aside of 1 mt for research catch, resulting in a fishery HG of 49 mt.

r/ Widow rockfish. Final 2012 ACLs, ACTs and fishery HGs for overfished species are contingent upon potential changes to rebuilding plans.

s/ Canary rockfish. Final 2012 ACLs, ACTs and fishery HGs for overfished species are contingent upon potential changes to rebuilding plans.

t/ Chilipepper rockfish. The coastwide chilipepper stock was assessed in 2007 and estimated to be at 71 percent of its unfished biomass coastwide in 2006. Given that chilipepper rockfish are predominantly a southern species, the stock is managed with stock-specific harvest specifications south of 40°10 N. lat. and within minor shelf rockfish north of 40°10 N. lat. South of 40°10 N. lat., the OFL of 1,872 mt is based on the 2007 assessment with an FMSY proxy of F50%. The ABC of 1,789 mt is a 4 percent reduction from the OFL (σ=0.36/P*=0.45) as it's a category 1 species. Because the biomass is estimated to be above 40 percent the unfished biomass, the ACL was set equal to the ABC. The ACL is reduced by the incidental open access fishery (5 mt), and research catch (9 mt), resulting in a fishery HG of 1,774 mt.

u/ Bocaccio. Final 2012 ACLs, ACTs and fishery HGs for overfished species are contingent upon potential changes to rebuilding plans.

v/ Splitnose rockfish. A new coastwide assessment was prepared in 2009 that estimated the stock to be at 66 percent of its unfished biomass in 2009. Splitnose in the north is managed under the minor slope rockfish complex and in the south (south of 40°10′ N. lat.), with species-specific harvest specifications. The 1,610 mt OFL south of 40°10 N. lat. is based on the 2009 assessment with an FMSY proxy of F50%. The ABC of 1,538 mt is a 4 percent reduction from the OFL (σ=0.36/P*=0.45) as it's a category 1 species. Because the unfished biomass is estimated to be above 40 percent of the unfished biomass, the ACL is set equal to the ABC. A set-aside of 7 mt is deducted from the ACL for research catch, resulting in a fishery HG of 1,531 mt.

w/ Yellowtail rockfish. A yellowtail rockfish stock assessment was last prepared in 2005 for the Vancouver, Columbia, Eureka areas. Yellowtail rockfish was estimated to be at 55 percent of its unfished biomass in 2005. The OFL of 4,573 mt is based on the 2005 stock assessment with the FMSY proxy of F50%. The ABC of 4,371 mt is a 4 percent reduction from the OFL (σ=0.36/P*=0.45) as it's a category 1 species. The ACL was set equal to the ABC, because the stock is above B40%. A set-aside of 499 mt is deducted from the ACL for the Tribal fishery (490 mt), the incidental open access fishery (3 mt), EFP catch (2 mt) and research catch (4 mt), resulting in a fishery HG of 3,872 mt.

x/ Shortspine thornyhead. A coastwide stock assessment was conducted in 2005 and the stock was estimated to be at 63 percent of its unfished biomass in 2005. A coastwide OFL of 2,358 mt is based on the 2005 stock assessment with a F50% FMSY proxy. The coastwide ABC of 2,254 mt is a 4 percent reduction from the OFL (σ=0.36/P*=0.45) as it's a category 1 species. For the portion of the stock that is north of 34°27′ N. lat., the ACL is 1,556 mt, 66 percent of the coastwide OFL. A set-aside of 45 mt is deducted from the ACL for the Tribal fishery (38 mt), the incidental open access fishery (2 mt), and research catch (5 mt), resulting in a fishery HG of 1,511 mt for the area north of 34°27′ N. lat. For that portion of the stock south of north of 34°27′ N. lat. the ACL is 401 mt which is 34 percent of the coastwide OFL for the portion of the biomass found south of 34°27′ N. lat reduced by 50 percent as a precautionary adjustment. A set-aside of 42 mt is deducted from the ACL for the incidental open access fishery (41 mt), and research catch (1 mt), resulting in a fishery HG of 359 mt for the area south of 34°27′ N. lat. The sum of the northern and southern area ACLs (1,957 mt) is a 13 percent reduction from the coastwide ABC.

y/ Longspine thornyhead. A coastwide stock assessment was conducted in 2005 and the stock was estimated to be at 71 percent of its unfished biomass in 2005. A coastwide OFL of 3,483 mt is based on the 2005 stock assessment with a F50% FMSY proxy. The ABC of 2,902 mt is a 17 percent reduction from the OFL (σ=0.72/P*=0.40) as it's a category 2 species. For the portion of the stock that is north of 34°27′ N. lat., the ACL is 2,064 mt, and is 79 percent of the coastwide OFL for the biomass in that area. A set-aside of 44 mt is deducted from the ACL for the Tribal fishery (30 mt), the incidental open access fishery (1 mt), and research catch (13 mt), resulting in a fishery HG of 2,020 mt. For that portion of the stock south of 34°27′ N. lat. the ACL is 366 mt and is 21 percent of the coastwide OFL reduced by 50 percent as a precautionary adjustment. A set-aside of 3 mt is deducted from the ACL for the incidental open access fishery (2 mt), and research catch (1 mt), resulting in a fishery HG of 363 mt. The sum of the northern and southern area ACLs (2,430 mt) is a 16 percent reduction from the coastwide ABC.

z/ Cowcod. Final 2012 ACLs, ACTs and fishery HGs for overfished species are contingent upon potential changes to rebuilding plans.

aa/ Darkblotched rockfish. Final 2012 ACLs, ACTs and fishery HGs for overfished species are contingent upon potential changes to rebuilding plans.

bb/ Yelloweye rockfish. Final 2012 ACLs, ACTs and fishery HGs for overfished species are contingent upon potential changes to rebuilding plans.

cc/ California Scorpionfish south was assessed in 2005 and was estimated to be at 80 percent of its unfished biomass in 2005. The OFL of 132 mt is based on the new assessment with a harvest rate proxy of F50%. The ABC of 126 mt is a 4 percent reduction from the OFL (σ=0.36/P*=0.45) as it's a category 1 species. Because the stock is above B40%, the ACL is set equal to the ABC. A set-aside of 2 mt is deducted from the ACL for the incidental open access fishery, resulting in a fishery HG of 124 mt.

dd/ Black rockfish north (Washington). A stock assessment was prepared in 2007 for black rockfish north of 45°56′N. lat. (Cape Falcon, Oregon). The biomass in this area was estimated to be at 53 percent of its unfished biomass in 2007. The OFL from the assessed area is based on the 2007 assessment with a harvest rate proxy of F50%. The resulting OFL for the area north of 46°16′ N. lat. (the Washington/Oregon border) is 435 mt, which is 97 percent of the OFL from the assessed area. The ABC of 415 mt for the area north of 46°16′ N. lat. is a 4 percent reduction from the OFL (σ=0.36/P*=0.45) as it's a category 1 species. The ACL was set equal to the ABC, since the stock is above B40%. A set-aside of 14 mt for the Tribal fishery results in a fishery HG of 401 mt.

ee/ Black rockfish south (Oregon and California). A 2007 stock assessment was prepared for black rockfish south of 45°56′ N. lat. (Cape Falcon, Oregon) to the southern limit of the stock's distribution in Central California. The biomass in the south was estimated to be at 70 percent of its unfished biomass in 2007. The OFL from the assessed area is based on the 2007 assessment with a harvest rate proxy of F50%. Three percent of the OFL from the stock assessment prepared for black rockfish north of 45°56′ N. lat. is added to the OFL from the assessed area south of 45°56′. The resulting OFL for the area south of 46°16′ N. lat. is 1,169 mt. The ABC of 1,117 mt for the south is a 4 percent reduction from the OFL (σ=0.36/P*=0.45) as it's a category 1 species. The ACL was set at 1,000 mt, which is a constant catch strategy designed to keep the stock biomass above B40%. The black rockfish ACL in the area south of 46°16′ N. lat., is subdivided with separate HGs being set for the area north of 42° N. lat. (580 mt/58 percent) and for the area south of 42° N. lat. (420 mt/42 percent).

ff/ Minor rockfish north is comprised of three minor rockfish sub-complexes: Nearshore, shelf, and slope. The OFL of 3,767 mt is the sum of OFLs for nearshore (116 mt), shelf (2,197 mt) and slope (1,507 mt) north sub-complexes. Each sub-complex OFL is the sum of the OFLs of the component species within the complex. The ABCs for the minor rockfish complexes and sub-complexes are based on a sigma value of 0.36 for category 1 stocks (splitnose and chilipepper rockfish), 0,72 for category 2 stocks (greenstriped rockfish and blue rockfish in California) and 1.44 for category 3 stocks (all others) with a P* of 0.45. The resulting minor rockfish north ABC, which is the summed contribution of the ABCs for the contributing species in each sub-complex (nearshore, shelf, and slope) is 3,414 mt. The ACL of 2,227 mt for the complex is the sum of the sub-complex ACLs. The sub-complex ACLs are the sum of the component stock ACLs, which are less than or equal to the ABC contribution of each component stock. There are no set-asides for the nearshore sub-complex, thus the fishery HG is equal to the ACL, which is 99 mt. The set-aside for the shelf sub-complex is 43 mt—Tribal fishery (9 mt), the incidental open access fishery (26 mt), EFP catch (4 mt) and research catch (4 mt), resulting in a shelf fishery HG of 925 mt. The set-aside for the slope sub-complex is 68 mt—Tribal fishery (36 mt), the incidental open access fishery (19 mt), EFP catch (2) and research catch (11 mt), resulting in a slope fishery HG of 1,092 mt.

gg/ Minor rockfish south is comprised of three minor rockfish sub-complexes: Nearshore, shelf, and slope. The OFL of 4,291 mt is the sum of OFLs for nearshore (1,145 mt), shelf (2,243 mt) and slope (903 mt) south sub-complexes. Each sub-complex OFL is the sum of the OFLs of the component species within the complex. The ABCs for the minor rockfish complexes and sub-complexes are based on a sigma value of 0.36 for category 1 stocks (gopher rockfish north of Point Conception, blackgill), 0.72 for category 2 stocks (blue rockfish in the assessed area, greenstriped rockfish, and bank rockfish) and 1.44 for category 3 stocks (all others) with a P* of 0.45. The resulting minor rockfish south ABC, which is the summed contribution of the ABCs for the contributing species in each sub-complex, is 3,712 mt. The ACL of 2,341 mt for the complex is the sum of the sub-complex ACLs. The sub-complex ACLs are the sum of the component stock ACLs, which are less than or equal to the ABC contribution of each component stock. There are no set-asides for the nearshore sub-complex, thus the fishery HG is equal to the ACL, which is 990 mt. The set-asides for the shelf sub-complex is 13 mt for the incidental open access fishery (9 mt), EFP catch (2 mt) and research catch (2 mt), resulting in a shelf fishery HG of 701 mt. The set-asides for the slope sub-complex is 27 mt for the incidental open access fishery (17 mt), EFP catch (2 mt) and research catch (8 mt), resulting in a slope fishery HG of 599 mt.

hh/ Longnose skate. A stock assessment update was prepared in 2007 and the stock was estimated to be at 66 percent of its unfished biomass. The OFL of 3,128 mt is based on the 2007 stock assessment with an FMSY proxy of F45%. The ABC of 2,990 mt is a 4 percent reduction from the OFL (σ=0.36/P*=0.45) as it's a category 1 species. The ACL of 1,349 is the 2010 OY and represents a 50 percent increase in the average 2004-2006 catch mortality (landings and discard mortality). The set-asides for longnose skate is 129 mt for the Tribal fishery (56 mt), incidental open access fishery (65 mt), and research catch (8 mt), resulting in a fishery HG of 1,220 mt.

ii/ “Other fish” contains all unassessed groundfish FMP species that are neither rockfish (family Scorpaenidae) nor flatfish. These species include big skate, California skate, leopard shark, soupfin shark, spiny dogfish, finescale codling, Pacific rattail, ratfish, cabezon off Washington, and kelp greenling. The OFL of 11,150 mt is the 2010 MSY harvest level minus the 50 mt contribution made for cabezon off Oregon, which is a newly assessed stock to be managed with stock-specific specifications. The ABC of 7,742 mt is a 31 percent reduction from the OFL (σ=1.44/P*=0.40) as all of the stocks in the “other fish” complex are category 3 species. The ACL of 5,575 mt is equal to the 2010 OY, minus half of the OFL contribution for Cabezon off of Oregon (25 mt). The fishery HG is equal to the ACL.

BILLING CODE 3510-22-P

a/ Allocations decided through the biennial specification process.

b/ /30 mt of the total trawl allocation for POP is allocated to the whiting fisheries, as follows: 12.6 mt for the shorebased IFQ fishery, 7.2 mt for the mothership fishery, and 10.2 mt for the catcher/processor fishery. The tonnage calculated here for the whiting portion of the shorebased IFQ fishery contributes to the total shorebased trawl allocation, which is found at 660.140 (d)(1)(ii)(D).

c/ 14.1 mt of the total trawl allocation of canary rockfish is allocated to the whiting fisheries, as follows: 5.9 mt for the shorebased IFQ fishery, 3.4 mt for the mothership fishery, and 4.8 mt for the catcher/processor fishery. The tonnage calculated here for the whiting portion of the shorebased IFQ fishery contributes to the total shorebased trawl allocation, which is found at 660.140 (d)(1)(ii)(D).

d/ 25 mt of the total trawl allocation for darkblotched rockfish is allocated to the whiting fisheries, as follows: 10.5 mt for the shorebased IFQ fishery, 6.0 mt for the mothership fishery, and 8.5 mt for the catcher/processor fishery. The tonnage calculated here for the whiting portion of the shorebased IFQ fishery contributes to the total shorebased trawl allocation, which is found at 660.140 (d)(1)(ii)(D).

e/ 52 percent (255 mt) of the total trawl allocation for widow rockfish is allocated to the whiting fisheries, as follows: 107.1 mt for the shorebased IFQ fishery, 61.2 mt for the mothership fishery, and 86.7 mt for the catcher/processor fishery. The tonnage calculated here for the whiting portion of the shorebased IFQ fishery contributes to the total shorebased trawl allocation, which is found at 660.140 (d)(1)(ii)(D).

Table 2d. To Part 660, Subpart C—At-Sea Whiting Fishery Annual Set-Asides, 2012 and beyond
Species or species complex | Set-aside (mt)
Lingcod | 6
Pacific Cod | 5
Pacific Whiting | Allocation ᵃ
Sablefish N. of 36° | 50
Sablefish S. of 36° | NA
PACIFIC OCEAN PERCH | Allocation ᵃ
WIDOW ROCKFISH | Allocation ᵃ
Chilipepper S. of 40°10′ | NA
Splitnose S. of 40°10′ | NA
Yellowtail N. of 40°10′ | 300
Shortspine Thornyhead N. of 34°27′ | 20
Shortspine Thornyhead S. of 34°27′ | NA
Longspine Thornyhead N. of 34°27′ | 5
Longspine Thornyhead S. of 34°27′ | NA
DARKBLOTCHED | Allocation ᵃ
Minor Slope RF N | 55
Minor Slope RF S | NA
Dover Sole | 5
English Sole | 5
Petrale Sole—coastwide | 5
Arrowtooth Flounder | 10
Starry Flounder | 5
Other Flatfish | 20
CANARY ROCKFISH | Allocation ᵃ
BOCACCIO | NA
COWCOD | NA
YELLOWEYE | 0
Black Rockfish | NA
Blue Rockfish (CA) | NA
Minor Nearshore RF N | NA
Minor Nearshore RF S | NA
Minor Shelf RF N | 35
Minor Shelf RF S | NA
California scorpionfish | NA
Cabezon (off CA only) | NA
Other Fish | 520
Longnose Skate | 5
Pacific Halibut | 10 ᵇ
a/ See Table 2.b., to Subpart C, for the at-sea whiting allocations for these species.
ᵇ As stated in § 660.55(m), the Pacific halibut set-aside is 10 mt, to accommodate bycatch in the at-sea Pacific whiting fisheries and in the shorebased trawl sector south of 40°10′ N lat. (estimated to be approximately 5 mt each).

* * * * *

Subpart D—West Coast Groundfish—Limited Entry Trawl Fisheries.

15. In § 660.130 paragraph (d) introductory text is revised to read as follows:

§ 660.130 Trawl fishery—management measures.

* * * * *

(d) Sorting. Under § 660.12 (a)(8), subpart C, it is unlawful for any person to “fail to sort, prior to the first weighing after offloading, those groundfish species or species groups for which there is a trip limit, size limit, scientific sorting designation, quota, harvest guideline, ACL or ACT or OY, if the vessel fished or landed in an area during a time when such trip limit, size limit, scientific sorting designation, quota, harvest guideline, ACL or ACT or OY applied.” The States of Washington, Oregon, and California may also require that vessels record their landings as sorted on their state landing receipt.

* * * * *

16. In § 660.131, paragraph (b)(3)(ii) is revised to read as follows:

§ 660.131 Pacific whiting fishery management measures.

* * * * *

(b) * * *

(3) * * *

(ii) If, during a primary whiting season, a whiting vessel harvests a groundfish species other than whiting for which there is a midwater trip limit, then that vessel may also harvest up to another footrope-specific limit for that species during any cumulative limit period that overlaps the start or close of the primary whiting season.

* * * * *

17. In § 660.140, paragraphs (a)(3), (c)(1), and (d)(1)(ii)(D), are revised as follows:

§ 660.140 Shorebased IFQ program.

(a) * * *

(3) The Shorebased IFQ Program may be restricted or closed as a result of projected overages within the Shorebased IFQ Program, the MS Coop Program, or the C/P Coop Program. As determined necessary by the Regional Administrator, area restrictions, season closures, or other measures will be used to prevent the trawl sector in aggregate or the individual trawl sectors (Shorebased IFQ, MS Coop, or C/P Coop) from exceeding an ACL, OY, ACT or formal allocation specified in the PCGFMP or regulation at § 660.55, subpart C, or §§ 660.140, 660.150, or 660.160, subpart D.

* * * * *

(c) * * *

(1) IFQ species. IFQ species are those groundfish species and Pacific halibut in the exclusive economic zone or adjacent state waters off Washington, Oregon and California, under the jurisdiction of the Pacific Fishery Management Council, for which QS and IBQ will be issued. Groupings and area subdivisions for IFQ species are those groupings and area subdivisions for which ACLs or ACTs are specified in the Tables 1a through 2d, subpart C, and those for which there is an area-specific precautionary harvest policy. The lists of individual groundfish species included in the minor shelf complex north of 40°10′ N. lat., minor shelf complex south of 40°10′ N. lat., minor slope complex north 40°10′ N. lat., minor slope complex south of 40°10′ N. lat., and in the other flatfish complex are specified under the definition of “groundfish” at § 660.11. The following are the IFQ species:

* * * * *

(d) * * *

(1) * * *

(ii) * * *

(D) For the 2011 trawl fishery, NMFS will issue QP based on the following shorebased trawl allocations:

IFQ Species | Management area | Shorebased trawl allocation (mt)
Lingcod |  | 1,863.30
Pacific cod |  | 1,135.00
Pacific Whiting |  | 92,817.90
Sablefish | North of 36° N. lat. | 2,546.34
Sablefish | South of 36° N. lat. | 530.88
Dover sole |  | 22,234.50
English sole |  | 18,672.95
PETRALE SOLE |  | 871.00
Arrowtooth flounder |  | 12,431.20
Starry flounder |  | 667.50
Other flatfish |  | 4,197.40
PACIFIC OCEAN PERCH | North of 40°10′ N. lat. | 119.36
WIDOW ROCKFISH |  | 342.62
CANARY ROCKFISH |  | 25.90
Chilipepper rockfish | South of 40°10′ N. lat. | 1,475.25
BOCACCIO ROCKFISH | South of 40°10′ N. lat. | 60.00
Splitnose rockfish | South of 40°10′ N. lat. | 1,381.30
Yellowtail rockfish | North of 40°10′ N. lat. | 3,094.16
Shortspine thornyhead | North of 34°27′ N. lat. | 1,431.60
Shortspine thornyhead | South of 34°27′ N. lat. | 50.00
Longspine thornyhead | North of 34°27′ N. lat. | 1,966.25
COWCOD | South of 40°10′ N. lat. | 1.80
DARKBLOTCHED ROCKFISH |  | 250.84
YELLOWEYE ROCKFISH |  | 0.60
Minor shelf rockfish complex | North of 40°10′ N. lat. | 522.00
Minor shelf rockfish complex | South of 40°10′ N. lat. | 86.00
Minor slope rockfish complex | North of 40°10′ N. lat. | 829.52
Minor slope rockfish complex | South of 40°10′ N. lat. | 377.37

* * * * *

18. In § 660.150 paragraph (a)(5) is revised to read as follows:

§ 660.150 Mothership (MS) Coop program.

(a) * * *

(5) The MS Coop Program may be restricted or closed as a result of projected overages within the MS Coop Program, the C/P Coop Program, or the Shorebased IFQ Program. As determined necessary by the Regional Administrator, area restrictions, season closures, or other measures will be used to prevent the trawl sectors in aggregate or the individual trawl sector (Shorebased IFQ, MS Coop, or C/P Coop) from exceeding an ACL, ACT, or formal allocation specified in the PCGFMP or regulation at § 660.55, subpart C, or §§ 660.140, 660.150, or 660.160, subpart D.

* * * * *

19. In § 660.160 paragraph (a)(5) is revised to read as follows:

§ 660.160 Catcher/processor (C/P) Coop Program.

(a) * * *

(5) The C/P Coop Program may be restricted or closed as a result of projected overages within the MS Coop Program, the C/P Coop Program, or the Shorebased IFQ Program. As determined necessary by the Regional Administrator, area restrictions, season closures, or other measures will be used to prevent the trawl sectors in aggregate or the individual trawl sector (Shorebased IFQ, MS Coop, or C/P Coop) from exceeding an ACL, ACT, or formal allocation specified in the PCGFMP or regulation at § 660.55, subpart C, or §§ 660.140, 660.150, or 660.160, subpart D.

* * * * *

20. Table 1 (North), Table 1 (South) to part 660, subpart D are revised to read as follows:

BILLING CODE 3510-22-P

BILLING CODE 3510-22-C

Subpart E—West Coast Groundfish—Limited Entry Fixed Gear Fisheries

21. In § 660.230 paragraphs (c)(1), (c)(2)(ii), and (d)(5) through (9) are revised to read as follows:

§ 660.230 Fixed gear fishery—management measures.

* * * * *

(c) * * *

(1) Under § 660.12(a)(8), subpart C, it is unlawful for any person to “fail to sort, prior to the first weighing after offloading, those groundfish species or species groups for which there is a trip limit, size limit, scientific sorting designation, quota, harvest guideline, ACL or ACT or OY, if the vessel fished or landed in an area during a time when such trip limit, size limit, scientific sorting designation, quota, harvest guideline, ACL or ACT or OY applied.” The States of Washington, Oregon, and California may also require that vessels record their landings as sorted on their state landing receipts.

(2) * * *

(ii) North of 40°10′ N. lat.—POP, yellowtail rockfish, Cabezon (Oregon and California);

* * * * *

(d) * * *

(5) Point St. George YRCA. The latitude and longitude coordinates of the Point St. George YRCA boundaries are specified at § 660.70, subpart C. Fishing with limited entry fixed gear is prohibited within the Point St. George YRCA, on dates when the closure is in effect. It is unlawful to take and retain, possess, or land groundfish taken with limited entry fixed gear within the Point St. George YRCA, on dates when the closure is in effect. The closure is not in effect at this time. This closure may be imposed through inseason adjustment. Limited entry fixed gear vessels may transit through the Point St. George YRCA, at any time, with or without groundfish on board.

(6) South Reef YRCA. The latitude and longitude coordinates of the South Reef YRCA boundaries are specified at § 660.70, subpart C. Fishing with limited entry fixed gear is prohibited within the South Reef YRCA, on dates when the closure is in effect. It is unlawful to take and retain, possess, or land groundfish taken with limited entry fixed gear within the South Reef YRCA, on dates when the closure is in effect. The closure is not in effect at this time. This closure may be imposed through inseason adjustment. Limited entry fixed gear vessels may transit through the South Reef YRCA, at any time, with or without groundfish on board.

(7) Reading Rock YRCA. The latitude and longitude coordinates of the Reading Rock YRCA boundaries are specified at § 660.70, subpart C. Fishing with limited entry fixed gear is prohibited within the Reading Rock YRCA, on dates when the closure is in effect. It is unlawful to take and retain, possess, or land groundfish taken with limited entry fixed gear within the Reading Rock YRCA, on dates when the closure is in effect. The closure is not in effect at this time. This closure may be imposed through inseason adjustment. Limited entry fixed gear vessels may transit through the Reading Rock YRCA, at any time, with or without groundfish on board.

(8) Point Delgada (North) YRCA. The latitude and longitude coordinates of the Point Delgada (North) YRCA boundaries are specified at § 660.70, subpart C. Fishing with limited entry fixed gear is prohibited within the Point Delgada (North) YRCA, on dates when the closure is in effect. It is unlawful to take and retain, possess, or land groundfish taken with limited entry fixed gear within the Point Delgada (North) YRCA, on dates when the closure is in effect. The closure is not in effect at this time. This closure may be imposed through inseason adjustment. Limited entry fixed gear vessels may transit through the Point Delgada (North) YRCA, at any time, with or without groundfish on board.

(9) Point Delgada (South) YRCA. The latitude and longitude coordinates of the Point Delgada (South) YRCA boundaries are specified at § 660.70, subpart C. Fishing with limited entry fixed gear is prohibited within the Point Delgada (South) YRCA, on dates when the closure is in effect. It is unlawful to take and retain, possess, or land groundfish taken with limited entry fixed gear within the Point Delgada (South) YRCA, on dates when the closure is in effect. The closure is not in effect at this time. This closure may be imposed through inseason adjustment. Limited entry fixed gear vessels may transit through the Point Delgada (South) YRCA, at any time, with or without groundfish on board.

* * * * *

22. In § 660.231, paragraphs (b)(1) and (b)(3)(i) are revised to read as follows:

§ 660.231 Limited entry fixed gear sablefish primary fishery.

* * * * *

(b) * * *

(1) Season dates. North of 36° N. lat., the sablefish primary season for the limited entry, fixed gear, sablefish-endorsed vessels begins at 12 noon local time on April 1 and closes at 12 noon local time on October 31, or closes for an individual permit holder when that permit holder's tier limit has been reached, whichever is earlier, unless otherwise announced by the Regional Administrator through the routine management measures process described at § 660.60, subpart C.

* * * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232, subpart E. In 2011, the following annual limits are in effect: Tier 1 at 41,379 lb (18,769 kg), Tier 2 at 18,809 lb (8,532 kg), and Tier 3 at 10,748 lb-(4,875 kg). For 2012 and beyond, the following annual limits are in effect: Tier 1 at 40,113 lb (18,195 kg), Tier 2 at 18,233 lb (8,270 kg), and Tier 3 at 10,419 lb (4,726 kg).

* * * * *

23. In § 660.232 paragraph (a)(2) is revised to read as follows:

§ 660.232 Limited entry daily trip limit (DTL) fishery for sablefish.

(a) * * *

(2) Following the start of the primary season, all landings made by a vessel authorized by § 660.231(a) of this subpart to fish in the primary season will count against the primary season cumulative limit(s) associated with the permit(s) registered for use with that vessel. A vessel that is eligible to fish in the sablefish primary season may fish in the DTL fishery for sablefish once that vessels' primary season sablefish limit(s) have been taken, or after the close of the primary season, whichever occurs earlier. Any subsequent sablefish landings by that vessel will be subject to the restrictions and limits of the limited entry DTL fishery for sablefish for the remainder of the fishing year.

* * * * *

24. Table 2 (North) and Table 2 (South) to part 660, subpart E are revised to read as follows:

BILLING CODE 3510-22-P

BILLING CODE 3510-22-C

Subpart F—West Coast Groundfish—Open Access Fisheries

25. In § 660.330 paragraphs (c) introductory text, (c)(2) and (d)(5) through (9) are revised to read as follows:

§ 660.330 Open access fishery—management measures.

* * * * *

(c) Sorting. Under § 660.12(a)(8), subpart C, it is unlawful for any person to “fail to sort, prior to the first weighing after offloading, those groundfish species or species groups for which there is a trip limit, size limit, scientific sorting designation, quota, harvest guideline, ACL or ACT or OY, if the vessel fished or landed in an area during a time when such trip limit, size limit, scientific sorting designation, quota, harvest guideline, ACL or ACT or OY applied.” The States of Washington, Oregon, and California may also require that vessels record their landings as sorted on their state landing receipts. For open access vessels, the following species must be sorted:

* * * * *

(2) North of 40°10′ N. lat.—POP, yellowtail rockfish, Cabezon (Oregon and California);

* * * * *

(d) * * *

(5) Point St. George YRCA. The latitude and longitude coordinates of the Point St. George YRCA boundaries are specified at § 660.70, subpart C. Fishing with open access gear is prohibited within the Point St. George YRCA, on dates when the closure is in effect. It is unlawful to take and retain, possess, or land groundfish taken with open access gear within the Point St. George YRCA, on dates when the closure is in effect. The closure is not in effect at this time. This closure may be imposed through inseason adjustment. Open access vessels may transit through the Point St. George YRCA, at any time, with or without groundfish on board.

(6) South Reef YRCA. The latitude and longitude coordinates of the South Reef YRCA boundaries are specified at § 660.70, subpart C. Fishing with open access gear is prohibited within the South Reef YRCA, on dates when the closure is in effect. It is unlawful to take and retain, possess, or land groundfish taken with open access gear within the South Reef YRCA, on dates when the closure is in effect. The closure is not in effect at this time. This closure may be imposed through inseason adjustment. Open access gear vessels may transit through the South Reef YRCA, at any time, with or without groundfish on board.

(7) Reading Rock YRCA. The latitude and longitude coordinates of the Reading Rock YRCA boundaries are specified at § 660.70, subpart C. Fishing with open access gear is prohibited within the Reading Rock YRCA, on dates when the closure is in effect. It is unlawful to take and retain, possess, or land groundfish taken with open access gear within the Reading Rock YRCA, on dates when the closure is in effect. The closure is not in effect at this time. This closure may be imposed through inseason adjustment. Open access gear vessels may transit through the Reading Rock YRCA, at any time, with or without groundfish on board.

(8) Point Delgada (North) YRCA. The latitude and longitude coordinates of the Point Delgada (North) YRCA boundaries are specified at § 660.70, subpart C. Fishing with open access gear is prohibited within the Point Delgada (North) YRCA, on dates when the closure is in effect. It is unlawful to take and retain, possess, or land groundfish taken with open access gear within the Point Delgada (North) YRCA, on dates when the closure is in effect. The closure is not in effect at this time. This closure may be imposed through inseason adjustment. Open access gear vessels may transit through the Point Delgada (North) YRCA, at any time, with or without groundfish on board.

(9) Point Delgada (South) YRCA. The latitude and longitude coordinates of the Point Delgada (South) YRCA boundaries are specified at § 660.70, subpart C. Fishing with open access gear is prohibited within the Point Delgada (South) YRCA, on dates when the closure is in effect. It is unlawful to take and retain, possess, or land groundfish taken with open access gear within the Point Delgada (South) YRCA, on dates when the closure is in effect. The closure is not in effect at this time. This closure may be imposed through inseason adjustment. Open access gear vessels may transit through the Point Delgada (South) YRCA, at any time, with or without groundfish on board.

* * * * *

26. Table 3 (North) and Table 3 (South) to part 660, subpart F are revised to read as follows:

BILLING CODE 3510-22-P

BILLING CODE 3510-22-C

Subpart G—West Coast Groundfish—Recreational Fisheries

27. In § 660.360,

a. Remove paragraphs (c)(3)(i)(C), (c)(3)(i)(A)(5), (c)(3)(ii)(A)(5),

b. Redesignate paragraphs (c)(1)(iii) as (c)(1)(iv), (c)(3)(i)(A)(6) as (c)(3)(i)(A)(5), (c)(3)(i)(D) through (J) as (c)(3)(i)(C) through (I), (c)(3)(ii)(A)(6) as (c)(3)(ii)(A)(5),

c. Revise newly redesignated paragraphs (c)(1)(iv)(A) and (B), (c)(3)(i)(A)(5), (c)(3)(i)(D) through (H), (c)(3)(ii)(A)(5),

d. Revise paragraphs (c)(1), (c)(1)(i)(D), (c)(1)(i)(D)(1) and (2), (c)(2)(iii), (c)(3)(i)(A)(1) through (4), (c)(3)(i)(B), (c)(3)(ii)(A)(1) through (4), (c)(3)(iii)(C), (c)(3)(iii)(D),

d. Add paragraphs (c)(1)(i)(D)(3), (c)(1)(iii), to read as follows:

§ 660.360 Recreational fishery—management measures.

* * * * *

(c) * * *

(1) Washington. For each person engaged in recreational fishing off the coast of Washington, the groundfish bag limit is 12 groundfish per day, including rockfish, cabezon and lingcod. Within the groundfish bag limit, there are sub-limits for rockfish, lingcod, and cabezon outlined in paragraph (c)(1)(i)(D) of this section. The recreational groundfish fishery is open year-round except for lingcod, which has season dates outlined in paragraph (c)(1)(iv) of this section. In the Pacific halibut fisheries, retention of groundfish is governed in part by annual management measures for Pacific halibut fisheries, which are published in the Federal Register. The following seasons, closed areas, sub-limits and size limits apply:

* * * * *

(i)* * *

(D) Recreational rockfish conservation area. Fishing for groundfish with recreational gear is prohibited within the recreational RCA unless otherwise stated. It is unlawful to take and retain, possess, or land groundfish taken with recreational gear within the recreational RCA unless otherwise stated. A vessel fishing in the recreational RCA may not be in possession of any groundfish unless otherwise stated. [For example, if a vessel participates in the recreational salmon fishery within the RCA, the vessel cannot be in possession of groundfish while in the RCA. The vessel may, however, on the same trip fish for and retain groundfish shoreward of the RCA on the return trip to port.]

(1) West of the Bonilla-Tatoosh line Between the U.S. border with Canada and the Queets River (Washington state Marine Area 3 and 4), recreational fishing for groundfish is prohibited seaward of a boundary line approximating the 20 fm (37 m) depth contour from June 1 through September 30, except on days when the Pacific halibut fishery is open in this area. Days open to Pacific halibut recreational fishing off Washington are announced on the NMFS hotline at (206) 526-6667 or (800) 662-9825. Coordinates for the boundary line approximating the 20 fm (37 m) depth contour are listed in § 660.71, subpart C.

(2) Between the Queets River (47°31.70' N. lat.) and Leadbetter Point (46°38.17' N. lat.) (Washington state Marine Area 2), recreational fishing for groundfish is prohibited seaward of a boundary line approximating the 30 fm (55 m) depth contour from March 15 through June 15 with the following exceptions: Recreational fishing for rockfish is permitted within the RCA from March 15 through June 15; recreational fishing for sablefish and Pacific cod is permitted within the recreational RCA from May 1 through June 15; and on days that the primary halibut fishery is open lingcod may be taken, retained and possessed within the RCA. Days open to Pacific halibut recreational fishing off Washington are announced on the NMFS hotline at (206) 526-6667 or (800) 662-9825. Retention of lingcod seaward of the boundary line approximating the 30 fm (55 m) depth contour south of 46°58' N. lat. is prohibited on Fridays and Saturdays from July 1 through August 31. For additional regulations regarding the Washington recreational lingcod fishery, see paragraph (c)(1)(iv) of this section. Coordinates for the boundary line approximating the 30 fm (55 m) depth contour are listed in § 660.71.

(3) Between Leadbetter Point (46°38.17' N. lat.) and the Washington/Oregon border (Marine Area 1), when Pacific halibut are onboard the vessel, no groundfish may be taken and retained, possessed or landed, except sablefish and Pacific cod from May 1 through September 30.

* * * * *

(iii) Cabezon. In areas of the EEZ seaward of Washington that are open to recreational groundfish fishing, there is a 2 cabezon per day bag limit.

(iv) Lingcod. In areas of the EEZ seaward of Washington that are open to recreational groundfish fishing and when the recreational season for lingcod is open, there is a bag limit of 2 lingcod per day. The recreational fishing seasons and size limits for lingcod are as follows:

(A) Between the U.S./Canada border and 48°10' N. lat. (Cape Alava) (Washington Marine Area 4), recreational fishing for lingcod is open, for 2011, from April 16 through October 15, and for 2012, from April 16 through October 13. Lingcod may be no smaller than 24 inches (61 cm) total length.

(B) Between 48°10' N. lat. (Cape Alava) and 46°16' N. lat. (Washington/Oregon border) (Washington Marine Areas 1-3), recreational fishing for lingcod is open for 2011, from March 19 through October 15, and for 2012, from March 17 through October 13. Lingcod may be no smaller than 22 inches (56 cm) total length.

* * * * *

(2) * * *

(iii) Bag limits, size limits. For each person engaged in recreational fishing off the coast of Oregon, the following bag limits apply:

(A) Marine fish. The bag limit is 10 marine fish per day, which includes rockfish, kelp greenling, cabezon and other groundfish species. The bag limit of marine fish excludes Pacific halibut, salmonids, tuna, perch species, sturgeon, sanddabs, flatfish, lingcod, striped bass, hybrid bass, offshore pelagic species and baitfish (herring, smelt, anchovies and sardines). From April 1 through September 30; no more than one fish may be cabezon. The minimum size for cabezon retained in the Oregon recreational fishery is 16 in (41 cm) total length. The minimum size for Kelp greenling retained in the Oregon recreational fishery is 10 in (25 cm).

(B) Lingcod. There is a 3 fish limit per day for lingcod From January 1 through December 31. The minimum size for lingcod retained in the Oregon recreational fishery is 22 in (56 cm) total length.

(C) Flatfish. There is a 25 fish limit per day for all flatfish, excluding Pacific halibut, but including all soles, flounders and Pacific sanddabs, from January 1 through December 31.

(D) In the Pacific halibut fisheries. Retention of groundfish is governed in part by annual management measures for Pacific halibut fisheries, which are published in the Federal Register. Between the Oregon border with Washington and Cape Falcon, when Pacific halibut are onboard the vessel, groundfish may not be taken and retained, possessed or landed, except sablefish and Pacific cod. Between Cape Falcon and Humbug Mountain, during days open to the Oregon Central Coast “all-depth” sport halibut fishery, when Pacific halibut are onboard the vessel, no groundfish may be taken and retained, possessed or landed, except sablefish and Pacific cod. “All-depth” season days are established in the annual management measures for Pacific halibut fisheries, which are published in the Federal Register and are announced on the NMFS halibut hotline, 1-800-662-9825.

(E) Taking and retaining canary rockfish and yelloweye rockfish is prohibited at all times and in all areas.

(3)* * *

(i)* * *

(A)* * *

(1) Between 42° N. lat. (California/Oregon border) and 40° 10.00′ N. lat. (Northern Management Area), recreational fishing for all groundfish (except “other flatfish” as specified in paragraph (c)(3)(iv) of this section) is prohibited seaward of the 20 fm (37 m) depth contour along the mainland coast and along islands and offshore seamounts from May 14, 2011 through October 31, 2011 (shoreward of 20 fm is open); and is closed entirely from January 1 through May 13, 2011 and from November 1 through December 31, 2011. Recreational fishing for groundfish is prohibited seaward of 20 fm (37 m) from May 12, 2012 through October 31, 2012 (shoreward of 20 fm is open), and is closed entirely from January 1 through May 11, 2012 and from November 1, 2012 through December 31, 2012.

(2) Between 40°10′ N. lat. and 38°57.50′ N. lat. (Mendocino Management Area), recreational fishing for all groundfish (except “other flatfish” as specified in paragraph (c)(3)(iv) of this section) is prohibited seaward of the 20 fm (37 m) depth contour along the mainland coast and along islands and offshore seamounts from May 14, 2011 through August 15, 2011 (shoreward of 20 fm is open), and is closed entirely from January 1, 2011 through May 13, 2011 and from August 16, 2011 through December 31, 2011; Recreational fishing for groundfish is prohibited seaward of 20 fm (37 m) and from May 12, 2012 through August 15, 2012 (shoreward of 20 fm is open); and is closed entirely from January 1, 2012 through May 11, 2012 and from August 16, 2012 through December 31, 2012.

(3) Between 38°57.50′ N. lat. and 37°11′ N. lat. San Francisco Management Area), recreational fishing for all groundfish (except “other flatfish” as specified in paragraph (c)(3)(iv) of this section) is prohibited seaward of the boundary line approximating the 30 fm (55 m) depth contour along the mainland coast and along islands and offshore seamounts from June 1 through December 31; and is closed entirely from January 1 through May 31. Closures around Cordell Banks (see paragraph (c)(3)(i)(C) of this section) also apply in this area. Coordinates for the boundary line approximating the 30 fm (55 m) depth contour are listed in § 660.71.

(4) Between 37°11′ N. lat. and 34°27′ N. lat. (Central Management Area), recreational fishing for all groundfish (except “other flatfish” as specified in paragraph (c)(3)(iv) of this section) is prohibited seaward of a boundary line approximating the 40 fm (73 m) depth contour along the mainland coast and along islands and offshore seamounts from May 1 through December 31; and is closed entirely from January 1 through April 30 (i.e. prohibited seaward of the shoreline). Coordinates for the boundary line approximating the 40 fm (73 m) depth contour are specified in § 660.71.

(5) South of 34°27′ N. lat. (Southern Management Area), recreational fishing for all groundfish (except California scorpionfish as specified below in this paragraph and in paragraph (v) of this section and “other flatfish” as specified in paragraph (c)(3)(iv) of this section) is prohibited seaward of a boundary line approximating the 60 fm (110 m) depth contour from March 1 through December 31 along the mainland coast and along islands and offshore seamounts, except in the CCAs where fishing is prohibited seaward of the 20 fm (37 m) depth contour when the fishing season is open (see paragraph (c)(3)(i)(B) of this section). Recreational fishing for all groundfish (except California scorpionfish and “other flatfish”) is closed entirely from January 1 through February 28 (i.e., prohibited seaward of the shoreline). Recreational fishing for California scorpionfish south of 34°27′ N. lat. is prohibited seaward of a boundary line approximating the 60 fm (110 m) depth contour from January 1 through December 31, except in the CCAs where fishing is prohibited seaward of the boundary line approximating the 30 fm (55 m) depth contour when the fishing season is open. Coordinates for the boundary line approximating the 30 fm (55 m) and 60 fm (110 m) depth contours are specified in §§ 660.71 and 660.72.

(B) Cowcod conservation areas. The latitude and longitude coordinates of the Cowcod Conservation Areas (CCAs) boundaries are specified at § 660.70, subpart C. In general, recreational fishing for all groundfish is prohibited within the CCAs, except that fishing for “other flatfish” is permitted within the CCAs as specified in paragraph (c)(3)(iv) of this section. However, recreational fishing for the following species is permitted shoreward of the 20 fm (37 m) depth contour when the season for those species is open south of 34°27′ N. lat.: Minor nearshore rockfish, cabezon, kelp greenling, lingcod, California scorpionfish, and “other flatfish” (subject to gear requirements at paragraph (c)(3)(iv) of this section during January-February). [NOTE: California state regulations also permit recreational fishing for California sheephead, ocean whitefish, and all greenlings of the genus Hexagrammos shoreward of the 20 fm (37 m) depth contour in the CCAs when the season for the RCG complex is open south of 34°27′ N. lat.] It is unlawful to take and retain, possess, or land groundfish within the CCAs, except for species authorized in this section.

(C) Cordell banks. Recreational fishing for groundfish is prohibited in waters less than 100 fm (183 m) around Cordell Banks as defined by specific latitude and longitude coordinates at § 660.70, subpart C, except that recreational fishing for “other flatfish” is permitted around Cordell Banks as specified in paragraph (c)(3)(iv) of this section. [Note: California state regulations also prohibit fishing for all greenlings of the genus Hexagrammos, California sheephead and ocean whitefish.]

(D) Point St. George Yelloweye Rockfish Conservation Area (YRCA). Recreational fishing for groundfish is prohibited within the Point St. George YRCA, as defined by latitude and longitude coordinates at § 660.70, subpart C, on dates when the closure is in effect. The closure is not in effect at this time. This closure may be imposed through inseason adjustment.

(E) South reef YRCA. Recreational fishing for groundfish is prohibited within the South Reef YRCA, as defined by latitude and longitude coordinates at § 660.70, subpart C, on dates when the closure is in effect. The closure is not in effect at this time. This closure may be imposed through inseason adjustment.

(F) Reading Rock YRCA. Recreational fishing for groundfish is prohibited within the Reading Rock YRCA, as defined by latitude and longitude coordinates at § 660.70, subpart C, on dates when the closure is in effect. The closure is not in effect at this time. This closure may be imposed through inseason adjustment.

(G) Point Delgada (North) YRCA. Recreational fishing for groundfish is prohibited within the Point Delgada (North) YRCA, as defined by latitude and longitude coordinates at § 660.70, subpart C, on dates when the closure is in effect. The closure is not in effect at this time. This closure may be imposed through inseason adjustment.

(H) Point Delgada (South) YRCA. Recreational fishing for groundfish is prohibited within the Point Delgada (South) YRCA, as defined by latitude and longitude coordinates at § 660.70, subpart C, on dates when the closure is in effect. The closure is not in effect at this time. This closure may be imposed through inseason adjustment.

* * * * *

(ii) * * *

(A) * * *

(1) Between 42° N. lat. (California/Oregon border) and 40°10′ N. lat. (North Management Area), recreational fishing for the RCG complex is open from May 14, 2011 through October 31, 2011 (i.e. it's closed from January 1 through May 13 and from November 1 through December 31 in 2011) and from May 12, 2012 through October 31, 2012 (i.e. it's closed from January 1 through May 11 and from November 1 through December 31 in 2012).

(2) Between 40°10′ N. lat. and 38°57.50′ N. lat. (Mendocino Management Area), recreational fishing for the RCG Complex is open from May 14, 2011 through August 15, 2011 (i.e. it's closed from January 1 through May 13 and August 16 through December 31 in 2011), and from May 12, 2012 through August 15, 2012 (i.e. it's closed from January 1 through May 11 and August 16 through December 31 in 2012). (3) Between 38°57.50′ N. lat. and 37°11′ N. lat. (San Francisco Management Area), recreational fishing for the RCG complex is open from June 1 through December 31 (i.e. it's closed from January 1 through May 31).

(4) Between 37°11′ N. lat. and 34°27′ N. lat. (Central Management Area), recreational fishing for the RCG complex is open from May 1 through December 31 (i.e. it's closed from January 1 through April 30).

(5) South of 34°27′ N. lat. (Southern Management Area), recreational fishing for the RCG Complex is open from March 1 through December 31 (i.e. it's closed from January 1 through February 28).

(B) Bag limits, hook limits. In times and areas when the recreational season for the RCG Complex is open, there is a limit of 2 hooks and 1 line when fishing for the RCG complex and lingcod. The bag limit is 10 RCG Complex fish per day coastwide. Retention of canary rockfish, yelloweye rockfish, bronzespotted and cowcod is prohibited. Within the 10 RCG Complex fish per day limit, no more than 2 may be bocaccio, no more than 2 may be greenling (kelp and/or other greenlings) and no more than 3 may be cabezon. Multi-day limits are authorized by a valid permit issued by California and must not exceed the daily limit multiplied by the number of days in the fishing trip.

* * * * *

(iii) * * *

(A) * * *

(1) Between 42° N. lat. (California/Oregon border) and 40°10.00′ N. lat. (Northern Management Area), recreational fishing for lingcod is open from May 14, 2011 through October 31, 2011 (i.e. it's closed from January 1 through May 13 and from November 1 through December 31 in 2011) and from May 12, 2012 through October 31, 2012 (i.e. it's closed from January 1 through May 11 and from November 1 through December 31 in 2012).

(2) Between 40°10′ N. lat. and 38°57.50′ N. lat. (Mendocino Management Area), recreational fishing for lingcod is open from May 14, 2011 through August 15, 2011 (i.e. it's closed from January 1 through May 13 and August 16 through December 31 in 2011) and from May 12, 2012 through August 15, 2012 (i.e. it's closed from January 1 through May 11 and August 16 through December 31 in 2012).

(3) Between 38°57.50′ N. lat. and 37°11′ N. lat. (San Francisco Management Area), recreational fishing for lingcod is open from June 1 through December 31 (i.e. it's closed from January 1 through May 31).

(4) Between 37°11′ N. lat. and 34°27′ N. lat. (Central Management Area), recreational fishing for lingcod is open from May 1 through December 31 (i.e. it's closed from January 1 through April 30).

(5) South of 34°27′ N. lat. (Southern Management Area), recreational fishing for lingcod is open from March 1 through December 31 (i.e. it's closed from January 1 through February 28).

* * * * *

(C) Size limits. Lingcod may be no smaller than 22 in (56 cm) total length.

(D) Dressing/filleting. Lingcod filets may be no smaller than 14 in (36 cm) in length.

* * * * *

[FR Doc. 2011-10799 Filed 5-10-11; 8:45 am]

BILLING CODE 3510-22-P